DEPARTMENT OF THE INTERIOR

Bureau of Land Management

[223.LLAK941000 L14100000.ET0000; F-86061, F-16298, F-16299, AA-65514, F-16301, AA-65515, AA-65516, AA-65513, F-16302, AA-61299, F-16304, F-85667, AA-61005, F-85702, AA-66614]

Public Land Order No. 7912; Partial Revocation of Public Land Orders No. 5169, 5170, 5171, 5172, 5173, 5174, 5175, 5176, 5178, 5179, 5180, 5184, 5186, 5188, and 5353, as Amended, Modified, and Corrected, and Opening of Lands for Selection by Alaska Native Vietnam-Era Veterans; Alaska

AGENCY: Bureau of Land Management, Interior.

ACTION: Public land order.

SUMMARY: This order partially revokes 15 Public Land Orders (PLOs) insofar as they affect approximately 27,142,677 acres of public lands reserved for study and classification, as appropriate, by the Department of the Interior. This order opens these lands specifically to allow for allotment selection by eligible Alaska Native Vietnam-era Veterans under the Alaska Native Vietnam-era Veterans Land Allotment Program (Allotment Program) established by the John D. Dingell, Jr. Conservation, Management, and Recreation Act of 2019 (Dingell Act). This partial revocation and opening was analyzed in the Alaska Native Vietnam-era Veterans Land Allotment Program Environmental Assessment (EA) and Finding of No Significant Impact (FONSI) signed on April 21, 2022.

DATES: This PLO takes effect on August 15, 2022.

FOR FURTHER INFORMATION CONTACT: Chelsea Kreiner, Bureau of Land Management (BLM) Alaska State Office, 222 West Seventh Avenue, Mailstop #13, Anchorage, AK 99513-7504, (907) 271-4205, or ckreiner@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: The BLM prepared the Allotment Program EA to consider opening lands subject to Alaska Native Claims Settlement Act (ANCSA) section 17(d)(1) withdrawals within the Kobuk-Seward Peninsula, Ring of Fire, Bay, Bering Sea—Western Interior, and East Alaska planning areas to the selection of Native allotments under the Allotment Program.

This Order implements Alternative C as detailed in the Allotment Program EA and FONSI. Sec. 17(d)(1) of ANCSA states that “the Secretary is authorized to classify or reclassify any lands so withdrawn and to open such lands to appropriation under the public land laws in accord with [her] classifications.” The analysis completed pursuant to Sec. 801 of the Alaska National Interests Lands Conservation Act included in the EA found no significant restriction on subsistence uses due to this action.

PLO Nos. 5169, 5170, 5171, 5172, 5173, 5174, 5175, and 5176 as amended, modified, or corrected, withdrew lands for selection by Village and Regional Corporations under Sec. 11(a)(3) of ANCSA, and for classification. PLO No. 5178, as amended, modified, or corrected, withdrew lands for selection by Regional Corporations under Sec. 11(a)(3) of ANCSA. PLO No. 5179, as amended, modified, or corrected, withdrew lands in aid of legislation concerning addition to, or creation of, units of the National Park, National Forest, Wildlife Refuge, and Wild and Scenic Rivers systems, and to allow for classification of the lands. PLO No. 5180, as amended, modified, or corrected, withdrew lands to allow for classification and for the protection of the public interest in these lands. PLO No. 5184, as amended, modified, or corrected, withdrew lands to allow for classification or reclassification of some of areas withdrawn by Sec. 11 of ANCSA. PLO No. 5186, as amended, modified, or corrected, withdrew lands for classification and protection of the public interest in lands not selected by the State of Alaska. PLO No. 5188, as amended, modified, or corrected, withdrew the lands in former reservations for the use and benefit of Alaska Natives for classification and protection of the public interest. PLO No. 5353, as amended, modified, or corrected, withdrew lands pending determination of eligibility of certain Native communities under ANCSA sec. 11(b)(3), and for the classification of lands not conveyed pursuant to ANCSA sec. 14.

Order

By virtue of the authority vested in the Secretary of the Interior by Section 204 of the Federal Land Policy and Management Act of 1976, 43 U.S.C. 1714, and Section 17(d)(1) of the Alaska Native Claims Settlement Act of 1971, 43 U.S.C. 1616(d)(1), it is ordered as follows:

1. Subject to valid existing rights, Public Land Orders No. 5169 (37 FR 5572); 5170 (37 FR 5573); 5171 (37 FR 5573); 5172 (37 FR 5574); 5173 (37 FR 5575); 5174 (37 FR 5576); 5175 (37 FR 5576); 5176 (37 FR 5577); 5178 (37 FR 5579); 5179 (37 FR 5579); 5180 (37 FR 5583); 5184 (37 FR 5588); 5186 (37 FR 5589); 5188 (37 FR 5591); and 5353 (38 FR 19825), and any amendments, modifications, or corrections to these Orders, if any, are hereby partially revoked to allow for allotment selection under the Allotment Program, and for no other purposes, insofar as they affect the following described Federal lands in the Kobuk-Seward Peninsula, Ring of Fire, Bay, Bering Sea—Western Interior, and East Alaska planning areas, excepting any lands within 500 feet of the Iditarod National Historic Trail, and any lands within ¼ mile of cultural resource sites, including lands applied for by regional corporations pursuant to ANCSA section 14(h)(1) and known cultural resources sites identified in the Allotment Program EA. The exact locations of these sites are withheld in order to limit the risk of harm to the cultural resource or site where the resource is located. If an applicant is interested in a particular location, they should contact the BLM in order to ensure that their application does not overlap with areas excluded from this PLO as a result of known cultural resource sites or the Iditarod National Historic trail. Subject to these exclusions, the lands to be opened are described as follows:

Kobuk—Seward Peninsula RMP

Kateel River Meridian, Alaska

T. 21 N., R. 3 E.,

Sec. 3, that portion outside the boundary of the Kobuk Valley National Park;

Secs. 4 thru 9;

Secs. 10 and 11, those portions outside the boundary of the Kobuk Valley National Park;

Secs. 13 thru 24 and secs. 28 thru 33.

T. 10 N., R. 4 E., unsurveyed,

Secs. 1 thru 5;

Sec. 6, excepting lot 2, U.S. Survey No. 12331;

Sec. 7, excepting lots 1 and 2, U.S. Survey No. 12331;

Sec. 8, excepting U.S. Survey No. 13970;

Sec. 9, excepting U.S. Survey Nos. 12313 and 13970;

Secs. 10 thru 15;

Secs. 16 and 17, excepting U.S. Survey No. 13970;

Secs. 18 and 19;

Sec. 20, that portion outside the boundary of the Koyukuk National Wildlife Refuge;

Secs. 22 thru 26;

Secs. 35 and 36.

T. 11 N., R 4 E., unsurveyed,

Secs. 19 thru 36.

T. 19 N., R. 4 E.,

Secs. 19 thru 36.

T. 22 N., R. 4 E., unsurveyed,

Sec. 1;

Secs. 2 and 11, those portions outside the boundary of the Kobuk Valley National Park;

Secs. 12 and 13;

Secs. 14 and 23, those portions outside the boundary of the Kobuk Valley National Park;

Secs. 24 and 25;

Secs. 26, 27, and 33, those portions outside the boundary of the Kobuk Valley National Park;

Secs. 34, 35, and 36.

T. 10 N., R. 5 E., unsurveyed,

Secs. 3 thru 10, secs. 15 thru 20, and sec. 30.

T. 11 N., R. 5 E., unsurveyed,

Secs. 1 thru 8;

Sec. 9, excepting U.S. Survey No. 12315;

Secs. 10 thru 15;

Sec. 16, excepting U.S. Survey No. 12315;

Secs. 17 thru 36.

T. 12 N., R. 5 E., unsurveyed,

Secs. 25 thru 36.

T. 13 N., R. 5 E., unsurveyed,

Secs. 1 thru 12.

Tps. 14 thru 17 N., R. 5 E., unsurveyed.

T. 18 N., R. 5 E.,

Secs. 4 thru 9 and secs. 16 thru 21;

Sec. 22, lot 1;

Sec. 23, lot 1;

Secs. 24 thru 36.

T. 22 N., R. 5 E.,

Secs. 4 thru 9, secs. 16 thru 21, sec. 26, secs. 28 thru 33, and sec. 35.

T. 13 N., R. 6 E., unsurveyed,

Secs. 1 thru 12.

Tps. 14, 15, and 16 N., R. 6 E., unsurveyed.

T. 17 N., R. 6 E.,

Secs. 1 thru 23;

Sec. 24, lots 1 and 2;

Sec. 25, lots 1 and 2;

Secs. 26 thru 32.

T. 19 N., R. 6 E.,

Secs. 1 thru 26 and secs. 35 and 36.

T. 20 N., R. 6 E.,

Secs. 13 thru 16 and secs. 19 thru 36.

T. 21 N., R. 6 E.,

Secs. 10 thru 15, secs. 22 thru 27, and secs. 34, 35, and 36.

T. 13 N., R. 7 E., unsurveyed,

Secs. 1 thru 12.

T. 14 N., R. 7 E., unsurveyed.

T. 15 N., R. 7 E.,

Sec. 1;

Secs. 2 thru 36, unsurveyed.

T. 16 N., R. 7 E.,

Secs. 14, 15, and 16, secs. 19 thru 23, and secs. 25 thru 36.

T. 20 N., R. 7 E.,

Secs. 1, 2, and 3 and secs. 10 thru 32;

Sec. 33, lot 1;

Secs. 34, 35, and 36.

T. 13 N., R. 8 E., unsurveyed,

Secs. 1 thru 12.

T. 14 N., R. 8 E., unsurveyed.

T. 15 N., R. 8 E.,

Secs. 1 thru 4, unsurveyed;

Secs. 5 and 6;

Secs. 7 thru 36, unsurveyed.

T. 16 N., R. 8 E.,

Secs. 1 thru 5, secs. 7 thru 17, and secs. 20 thru 36.

T. 20 N., R. 8 E.,

Secs. 1 thru 22 and secs. 29, 30, and 31.

T. 24 N., R. 8 E., unsurveyed,

Secs. 1, 2, and 3, secs. 10 thru 15, secs. 22 thru 27, and secs. 34, 35, and 36.

T. 11 N., R. 9 E., unsurveyed.

T. 12 N., R. 9 E., unsurveyed,

Secs. 25 thru 36.

Tps. 14 and 15 N., R. 9 E., unsurveyed.

T. 16 N., R. 9 E.,

Secs. 1 thru 4, unsurveyed;

Sec. 7;

Secs. 10 thru 15, unsurveyed;

Secs. 17 thru 20;

Secs. 22 thru 27 and secs. 30 thru 36, unsurveyed.

T. 20 N., R. 9 E.,

Sec. 1, secs. 3 thru 9, sec. 12, and secs. 15 thru 18.

T. 11 N., R. 10 E., unsurveyed,

Secs. 13, 14, and 15;

Sec. 16, excepting U.S. Survey No. 10040;

Secs. 17 thru 36.

T. 13 N., R. 10 E., unsurveyed,

Secs. 1, 2, and 3.

Tps. 14, 15, and 16 N., R. 10 E., unsurveyed.

T. 17 N., R. 10 E.,

Secs. 21 thru 36.

T. 13 N., R. 11 E., unsurveyed,

Secs. 1 thru 6, secs. 9 thru 16, secs. 21 thru 27, and secs. 34, 35, and 36.

Tps. 14 and 15 N., R. 11 E., unsurveyed.

T. 16 N., R. 11 E.,

Secs. 1 and 2, unsurveyed;

Secs. 3 thru 6;

Secs. 7 thru 36, unsurveyed.

T. 19 N., R. 11 E.,

Secs. 1 thru 4 and secs. 9 thru 14;

Sec. 15, lot 4;

Sec. 16, secs. 23 thru 26, and secs. 35 and 36.

T. 13 N., R. 12 E., unsurveyed.

Tps. 12 and 13 N., R. 13 E., unsurveyed.

T. 11 N., R. 14 E., unsurveyed,

Secs. 1 thru 27 and sec. 36.

T. 12 N., R. 14 E., unsurveyed,

Secs. 1 thru 7;

Sec. 8, excepting U.S. Survey No. 6337;

Secs. 9 thru 36.

T. 13 N., R. 14 E., unsurveyed.

Tps. 11, 12, and 13 N., R. 15 E., unsurveyed.

T. 7 N., R. 2 W., unsurveyed,

Secs. 25 thru 36.

T. 7 N., R. 3 W., unsurveyed,

Secs. 25 thru 36.

Tps. 1, 7 and 8 N., R. 4 W., unsurveyed.

Tps. 1 thru 8 N., R. 5 W., unsurveyed.

T. 9 N., R. 5 W., unsurveyed,

Sec. 1;

Sec. 2, excepting U.S. Survey No. 12311;

Secs. 3 thru 11;

Sec. 12, excepting U.S. Survey No. 12312;

Secs. 13 thru 36.

Tps. 1 and 2 N., R. 6 W., unsurveyed.

T. 3 N., R. 6 W., unsurveyed,

Sec. 1, excepting lot 2, U.S. Survey No. 11327;

Secs. 2 thru 10;

Sec. 11, excepting lots 1 and 3, U.S. Survey No. 11327;

Sec. 12, excepting lot 1, U.S. Survey No. 11327;

Secs. 13 thru 36.

T. 4 N., R. 6 W., unsurveyed,

Secs. 1 thru 17;

Sec. 18, excepting lot 2, U.S. Survey No. 11329;

Sec. 19, excepting lots 1 and 2, U.S. Survey No. 11329;

Secs. 20 thru 32;

Sec. 33, excepting U.S. Survey No. 11328;

Secs. 34, 35, and 36.

Tps. 5 thru 9 N., R. 6 W., unsurveyed.

T. 19 N., R. 6 W.,

Secs. 13 thru 20 and secs. 29 and 30.

Tps. 1 thru 9 N., R. 7 W., unsurveyed.

T. 19 N., R. 7 W.,

Secs. 13 thru 28;

Secs. 29, 30, and 31, excepting U.S. Survey No. 13879;

Secs. 32 thru 36.

T. 20 N., R. 7 W.,

Secs. 22, 23, and 24.

T. 23 N., R. 7 W., unsurveyed,

Secs. 4 and 5, those portions outside the boundary of the Kobuk Valley National Park;

Secs. 6 and 7;

Secs. 8 and 17, those portions outside the boundary of the Kobuk Valley National Park;

Sec. 18;

Secs. 20, 21, 27, and 28, those portions outside the boundary of the Kobuk Valley National Park;

Secs. 29, 31, 32, and 33;

Sec. 34, that portion outside the boundary of the Kobuk Valley National Park.

T. 24 N., R. 7 W., unsurveyed,

Secs. 2 and 3, those portions outside the boundary of the Kobuk Valley National Park;

Secs. 4 thru 8;

Secs. 9, 10, 11, 16, and 17, those portions outside the boundary of the Kobuk Valley National Park;

Secs. 18 and 19;

Secs. 20, 28, and 29, those portions outside the boundary of the Kobuk Valley National Park;

Secs. 30, 31, and 32;

Sec. 33, that portion outside the boundary of the Kobuk Valley National Park.

T. 25 N., R. 7 W., unsurveyed,

Sec. 7, that portion outside the boundary of the Noatak National Preserve and Wilderness;

Sec. 8, that portion outside the boundaries of the Noatak National Preserve and Wilderness and the Kobuk Valley National Park;

Secs. 16 and 17, those portions outside the boundary of the Kobuk Valley National Park;

Sec. 18, that portion outside the boundary of the Noatak National Preserve and Wilderness;

Secs. 19 and 20;

Secs. 21, 22, 27, and 28, those portions outside the boundary of the Kobuk Valley National Park;

Secs. 29 thru 33;

Secs. 34 and 35, those portions outside the boundary of the Kobuk Valley National Park.

Tps. 1 thru 4 N., R. 8 W., unsurveyed.

T. 5 N., R. 8 W., unsurveyed,

Secs. 1 thru 22;

Secs. 23 and 24, excepting U.S. Survey No. 11330;

Secs. 25 thru 36.

Tps. 6 thru 10 N., R. 8 W., unsurveyed.

T. 11 N., R. 8 W., unsurveyed,

Sec. 8;

Sec. 9, excepting lot 2, U.S. Survey No. 14141 and U.S. Survey No. 11994;

Sec. 10, excepting lot 1, U.S. Survey No. 14141 and U.S. Survey No. 11994;

Secs. 11 thru 36;

lot 2, U.S. Survey No. 14141.

T. 23 N. R. 8 W., unsurveyed,

Secs. 1 thru 23 and secs. 26 thru 35.

T. 24 N., R. 8 W., unsurveyed.

T. 25 N., R. 8 W., unsurveyed,

Secs. 2 and 3, those portions outside the boundary of the Noatak National Preserve and Wilderness;

Secs. 4 thru 10;

Secs. 11, 13, and 14, those portions outside the boundary of the Noatak National Preserve and Wilderness;

Secs. 15 thru 36.

T. 26 N., R. 8 W., unsurveyed,

Secs. 16, 17, and 18, those portions outside the boundary of the Noatak National Preserve and Wilderness;

Secs. 19 and 20;

Secs. 21, 22, 26, and 27, those portions outside the boundary of the Noatak National Preserve and Wilderness;

Secs. 28 thru 33;

Sec. 34, that portion outside the boundary of the Noatak National Preserve and Wilderness.

Tps. 1 and 2 N., R. 9 W., unsurveyed.

T. 3 N., R. 9 W., unsurveyed,

Secs. 1 thru 5;

Sec. 6, excepting lots 1 and 2, U.S. Survey No. 11332;

Sec. 7, excepting lots 1 thru 5, U.S. Survey No. 11332;

Sec. 8, excepting lot 6, U.S. Survey No. 11332;

Secs. 9 thru 16;

Sec. 17, excepting lots 6, 7, and 8, U.S. Survey No. 11332;

Secs. 18 thru 36.

T. 4 N., R. 9 W., unsurveyed.

T. 5 N., R. 9 W., unsurveyed,

Secs. 1 thru 18;

Sec. 19, excepting lots 1 and 2, U.S. Survey No. 11335;

Sec. 20, excepting lots 1 and 6, U.S. Survey No. 11335;

Secs. 21 thru 28;

Sec. 29, excepting U.S. Survey No. 2018 and lots 1 thru 5 and lots 8 and 9, U.S. Survey No. 11335;

Sec. 30, excepting lots 1, 2, and 4, U.S. Survey No. 11335;

Secs. 31 thru 36;

lot 9, U.S. Survey No. 11335.

Tps. 6 thru 9 N., R. 9 W., unsurveyed.

T. 10 N., R. 9 W., unsurveyed,

Secs. 1 thru 4;

Sec. 5, excepting U.S. Survey No. 12015;

Secs. 6 thru 36.

T. 11 N., R. 9 W., unsurveyed,

Sec. 13 and secs. 19 thru 36.

T. 18 N., R. 9 W.,

Secs. 4 thru 9 and secs. 16 thru 20.

T. 19 N., R. 9 W.,

Sec. 1, lots 1, 3, and 4;

Secs. 2 thru 36.

T. 20 N., R. 9 W.,

Secs. 1, 2, and 3.

T. 21 N., R. 9 W., unsurveyed,

Secs. 1 thru 18;

Sec. 19, excepting U.S. Survey No. 13978;

Secs. 20 thru 36.

T. 22 N., R. 9 W., unsurveyed,

Secs. 3 and 4, secs. 9 thru 17, and secs. 20 thru 36.

T. 23 N., R. 9 W., unsurveyed,

Secs. 33 and 34.

T. 26 N., R. 9 W., unsurveyed,

Secs. 13, 14, 22, and 23, those portions outside the boundary of the Noatak National Preserve and Wilderness;

Secs. 24, 25, and 26;

Secs. 27, 34, and 35, those portions outside the boundary of the Noatak National Preserve and Wilderness;

Sec. 36.

Tps. 6, 7, 8, and 10 N., R. 10 W., unsurveyed.

T. 11 N., R. 10 W., unsurveyed,

Secs. 6, 7, and 8 and secs. 13 thru 36.

T. 18 N., R. 10 W.,

Secs. 1 thru 24;

Sec. 25, lot 1;

Sec. 26;

Sec. 27, lot 1;

Sec. 28, lot 1;

Sec. 29, lot 1;

Sec. 30;

Sec. 31, lot 1;

Sec. 32, lot 2;

Sec. 34, lot 1;

Sec. 35, lot 2.

T. 19 N., R. 10 W.,

Secs. 7 and 8 and secs. 13 thru 36.

T. 21 N., R. 10 W., unsurveyed,

Secs. 1, 5, 6, and 7, secs. 11 thru 15, secs. 21 thru 28, and secs. 32 thru 36.

T. 22 N., R. 10 W., unsurveyed,

Secs. 2 thru 11, secs. 14 thru 22, and secs. 28 thru 32.

T. 23 N., R. 10 W., unsurveyed,

Secs. 31 thru 36.

T. 25 N., R. 10 W., unsurveyed,

Secs. 2 and 12, those portions outside the boundary of the Noatak National Preserve and Wilderness.

T. 26 N., R. 10 W., unsurveyed,

Secs. 19, 20, and 21 and secs. 27 thru 30, those portions outside the boundary of the Noatak National Preserve and Wilderness;

Secs. 31, 32, and 33;

Sec. 34, that portion outside the boundary of the Noatak National Preserve and Wilderness.

T. 5 N., R. 11 W.,

Sec. 1, secs. 5 thru 9, sec. 12, secs. 16 thru 21, sec. 25, and secs. 27 thru 36.

T. 6 N., R. 11 W.,

Sec. 1, secs. 9 thru 15, secs. 22 thru 27, and secs. 35 and 36.

T. 7 N., R. 11 W.,

Secs. 1 thru 25 and sec. 36.

T. 8 N., R. 11 W.,

Secs. 1 thru 4, secs. 8 thru 17, and secs. 19 thru 36.

T. 10 N., R. 11 W., unsurveyed,

Secs. 1, 2, and 3, secs. 9 thru 15, secs. 23 thru 26, and secs. 35 and 36.

T. 11 N., R. 11 W., unsurveyed,

Secs. 1 thru 29 and secs. 33 thru 36.

T. 12 N., R. 11 W., unsurveyed,

Secs. 6, 7, and 8 and secs. 16 thru 21;

Sec. 26, excepting U.S. Survey No. 12326;

Secs. 27 thru 36.

T. 18 N., R. 11 W.,

Secs. 1 thru 24.

T. 19 N., R. 11 W.

T. 20 N., R. 11 W., unsurveyed,

Secs. 4, 12, and 19 and secs. 29 thru 34.

T. 21 N., R. 11 W., unsurveyed,

Sec. 1;

Secs. 2 and 3, excepting U.S. Survey No. 9139;

Secs. 9 thru 16;

Sec. 17, E½ and those lands west of the easterly bank of the Squirrel River, excepting U.S. Survey No. 6711;

Secs. 18 and 19, those lands west of the easterly bank of the Squirrel River, excepting U.S. Survey No. 6711;

Secs. 21 thru 24 and secs. 26, 27, 28, and 34.

T. 22 N., R. 11 W., unsurveyed,

Sec. 1 and secs. 3 thru 9;

Sec. 10, NW¼;

Sec. 11, E½;

Secs. 12, 13, and 14, secs. 17 thru 27, secs. 29 thru 32, and secs. 34, 35, and 36.

T. 23 N., R. 11 W., unsurveyed,

Secs. 3 thru 10, secs. 15 thru 22, and secs. 27 thru 34.

T. 24 N., R. 11 W., unsurveyed,

Secs. 1 thru 11;

Secs. 12 and 13, excepting U.S. Survey No. 13860;

Secs. 14 thru 24 and secs. 27 thru 34.

T. 25 N., R. 11 W., unsurveyed.

T. 26 N., R. 11 W., unsurveyed,

Secs. 17 and 18, those portions outside the boundary of the Noatak National Preserve and Wilderness;

Sec. 19;

Secs. 20 thru 24, those portions outside the boundary of the Noatak National Preserve and Wilderness;

Secs. 25 thru 29;

Secs. 30 and 31, those portions outside the boundary of the Noatak National Preserve and Wilderness;

Secs. 32 thru 36.

T. 5 N., R. 12 W.

T. 9 N., R. 12 W.,

Secs. 15 thru 22 and secs. 27 thru 34.

T. 11 N., R. 12 W., unsurveyed,

Secs. 1 thru 6 and secs. 9 thru 14.

T. 12 N., R. 12 W., unsurveyed.

T. 13 N., R. 12 W., unsurveyed,

Sec. 23, excepting lot 6, U.S. Survey No. 6249;

Secs. 26, 27, 33, 34, and 35.

Tps. 18 and 19 N., R. 12 W.

T. 20 N., R. 12 W., unsurveyed,

Secs. 6 thru 9 and secs. 14 thru 36.

T. 21 N., R. 12 W., unsurveyed,

Secs. 4 thru 11;

Sec. 12, those lands right of the left bank of the Squirrel River;

Secs. 13 thru 27, secs. 29 thru 32, and sec. 36.

T. 22 N., R. 12 W., unsurveyed,

Secs. 1 and 2, secs. 4 thru 8, secs. 11 thru 14, secs. 17 thru 20, and secs. 23 thru 26;

Sec. 29, those lands right of the left bank of the Squirrel River;

Sec. 30, those lands within the left and right banks of the Squirrel River;

Sec. 31;

Sec. 32, those lands right of the left bank of the Squirrel River;

Sec. 33, those lands within the left and right banks of the Squirrel River;

Secs. 35 and 36.

Tps. 23 and 24 N., R. 12 W., unsurveyed.

T. 25 N., R. 12 W., unsurveyed,

Secs. 1, 2, 3, 9, and 10, those portions outside the boundary of the Noatak National Preserve;

Sec. 11;

Sec. 12, that portion outside the boundary of the Noatak National Preserve;

Secs. 13, 14, and 15;

Secs. 16, 17, 19, and 20, those portions outside the boundary of the Noatak National Preserve;

Secs. 21 thru 29;

Sec. 30, that portion outside the boundary of the Noatak National Preserve;

Secs. 31 thru 36.

T. 26 N., R. 12 W., unsurveyed,

Sec. 13, that portion outside the boundary of the Noatak National Preserve and Wilderness;

Secs. 24, 25, and 36, those portions outside the boundary of the Noatak National Preserve.

T. 5 N., R. 13 W.

T. 6 N., R. 13 W.,

Secs. 3 thru 10 and secs. 14 thru 36.

T. 7 N., R. 13 W.,

Secs. 1 thru 23 and secs. 27 thru 34.

T. 8 N., R. 13 W.

T. 9 N., R. 13 W., unsurveyed.

T. 10 N., R. 13 W., unsurveyed,

Secs. 26 thru 29 and secs. 31 thru 35.

T. 12 N., R. 13 W., unsurveyed,

Sec. 11, excepting lots 1 and 5, U.S. Survey No. 12324;

Sec. 12, excepting lot 5, U.S. Survey No. 12324;

Secs. 13 thru 16, secs. 19 thru 30, and secs. 33 thru 36.

T. 19 N., R. 13 W.,

Secs. 1 thru 30 and secs. 32 thru 36.

T. 20 N., R. 13 W., unsurveyed,

Secs. 1, 2, and 3;

Secs. 4 and 5, excepting U.S. Survey No. 8795;

Secs. 6 and 7;

Secs. 8 and 9, excepting U.S. Survey No. 8794;

Secs. 10 thru 15;

Secs. 16 and 17, excepting U.S. Survey No. 8794;

Secs. 18 thru 36.

T. 21 N., R. 13 W., unsurveyed,

Sec. 1, secs. 6 thru 9, and secs. 12 thru 36.

T. 22 N., R. 13 W., unsurveyed,

Secs. 1 thru 18;

Sec. 20, N½;

Sec. 22, S½;

Secs. 35 and 36.

T. 23 N., R. 13 W., unsurveyed.

T. 24 N., R. 13 W., unsurveyed,

Sec. 1;

Secs. 2, 3, 8, 9, and 10, those portions outside the boundary of the Noatak National Preserve;

Secs. 11 thru 16;

Secs. 17 and 18, those portions outside the boundary of the Noatak National Preserve;

Secs. 19 thru 36.

T. 25 N., R. 13 W., unsurveyed,

Secs. 25 and 36, those portions outside the boundary of the Noatak National Preserve.

Tps. 5, 6, and 7 N., R. 14 W.

T. 8 N., R. 14 W.,

Secs. 1 thru 4, secs. 9 thru 16, secs. 21 thru 28, and secs. 32 thru 36.

T. 9 N., R. 14 W., unsurveyed,

Secs. 12 and 13, secs. 23 thru 26, and secs. 35 and 36.

T. 12 N., R. 14 W., unsurveyed,

Secs. 5 thru 8 and secs. 15 thru 30.

T. 13 N., R. 14 W., unsurveyed,

Sec. 31.

T. 19 N., R. 14 W.,

Secs. 1 thru 5, unsurveyed;

Sec. 6, unsurveyed, excepting U.S. Survey No. 10933;

Secs. 7 and 8;

Sec. 9, unsurveyed, excepting lot 2, U.S. Survey No. 10927;

Secs. 10 thru 14, unsurveyed;

Sec. 15, unsurveyed, excepting lots 1 and 2, U.S. Survey No. 10927;

Sec. 16;

Sec. 24, unsurveyed, excepting lot 1, U.S. Survey No. 10891.

T. 20 N., R. 14 W., unsurveyed.

T. 21 N., R. 14 W., unsurveyed,

Secs. 1 thru 29;

Secs. 30 and 31, those portions outside the boundary of the Noatak National Preserve;

Secs. 32 thru 36.

T. 22 N., R. 14 W., unsurveyed,

Secs. 1 thru 9, secs. 11 thru 14, secs. 16 thru 20, secs. 23 and 26, and secs. 29 thru 36.

T. 23 N., R. 14 W., unsurveyed,

Secs. 1 thru 4;

Secs. 5, 7, 8, and 9, those portions outside the boundary of the Noatak National Preserve;

Secs. 10 thru 17;

Sec. 18, that portion outside the boundary of the Noatak National Preserve;

Secs. 19 thru 36.

T. 24 N., R. 14 W., unsurveyed,

Secs. 13, 14, 21, 22, and 23, those portions outside the boundary of the Noatak National Preserve;

Secs. 24 and 25;

Secs. 26 thru 29 and secs. 31 and 32, those portions outside the boundary of the Noatak National Preserve;

Secs. 33 thru 36.

T. 11 N., R. 15 W., unsurveyed,

Secs. 2 and 3.

T. 12 N., R. 15 W., unsurveyed,

Secs. 1 and 2;

Sec. 3, excepting lot 1, U.S. Survey No. 11667;

Sec. 10, excepting lots 1 and 2, U.S. Survey No. 11667;

Secs. 11 thru 15;

Sec. 22, excepting lot 1, U.S. Survey No. 12330;

Secs. 23 thru 27;

Secs. 34, 35, and 36.

T. 13 N., R. 15 W., unsurveyed,

Secs. 26 and 36.

T. 19 N., R. 15 W.,

Secs. 1, 2, and 3.

T. 20 N., R. 15 W., unsurveyed,

Secs. 1, 2, 9, 10, and 11, those portions outside the boundary of the Noatak National Preserve;

Secs. 12 thru 15;

Secs. 16 and 17, those portions outside the boundary of the Noatak National Preserve;

Secs. 20 thru 29 and secs. 31 thru 36.

T. 21 N., R. 15 W., unsurveyed,

Secs. 1 thru 4;

Secs. 5, 8, and 9, those portions outside the boundary of the Noatak National Preserve;

Secs. 10 thru 14;

Secs. 15, 16, 17, 22, and 23, those portions outside the boundary of the Noatak National Preserve;

Sec. 24;

Secs. 25 and 26, those portions outside the boundary of the Noatak National Preserve.

T. 22 N., R. 15 W., unsurveyed,

Secs. 1 thru 18;

Secs. 19 and 20, those portions outside the boundary of the Noatak National Preserve;

Secs. 21 thru 27;

Secs. 28, 29, 32, and 33, those portions outside the boundary of the Noatak National Preserve;

Secs. 34, 35, and 36.

T. 23 N., R. 15 W., unsurveyed,

Secs. 6 thru 12, those portions outside the boundary of the Noatak National Preserve;

Secs. 13 thru 36.

T. 15 N., R. 16 W.,

Secs. 2 thru 6 and secs. 8, 9, 10, 15, 16, 22, and 27.

T. 16 N., R. 16 W.,

Secs. 29, 31, and 32.

T. 19 N., R. 16 W.,

Sec. 9, excepting Interim Conveyance Nos. 2150 and 2151;

Sec. 27, lots 1 and 2.

T. 22 N., R. 16 W., unsurveyed,

Secs. 1 and 2;

Secs. 3, 4, and 5, and secs. 8 thru 11, those portions outside the boundary of the Noatak National Preserve;

Sec. 12;

Secs. 13, 14, and 24, those portions outside the boundary of the Noatak National Preserve.

T. 23 N., R. 16 W., unsurveyed,

Secs. 1, 11, and 12, those portions outside the boundary of the Noatak National Preserve;

Sec. 13;

Secs. 14 and 23, those portions outside the boundary of the Noatak National Preserve;

Secs. 24 and 25;

Secs. 26, 27, 33, and 34, those portions outside the boundary of the Noatak National Preserve;

Secs. 35 and 36.

T. 15 N., R. 17 W.,

Secs. 1, 4, and 5.

T. 20 N., R. 17 W.,

Secs. 16, 17, 19, 20, and 23 and secs. 29 thru 32.

T. 26 N., R. 17 W.,

Secs. 5, 6, and 7.

T. 27 N., R. 17 W.,

Secs. 32 and 33.

T. 17 N., R. 18 W.,

Sec. 14, NW1/4, excepting Patent No. 50-97-0162; tract 37.

T. 18 N., R. 18 W.,

Sec. 25, lot 6.

T. 20 N., R. 18 W.,

Secs. 5 thru 8 and secs. 16 thru 30.

T. 21 N., R. 18 W.,

Secs. 7 thru 11, secs. 13 thru 24, and secs. 26 thru 34.

T. 22 N., R. 18 W.,

Secs. 6 and 7, secs. 17 thru 21, and secs. 28, 29, and 30.

T. 23 N., R. 18 W.,

Secs. 1, 2, and 3, secs. 10 thru 15, secs. 22, 23, 24, and 27, and secs. 31 thru 34.

T. 24 N., R. 18 W.,

Secs. 25, 26, 34, 35, and 36.

T. 25 N., R. 18 W.,

Sec. 5, lot 1;

Secs. 8 and 17;

Sec. 19, lots 1 thru 4;

Secs. 30 and 31.

T. 26 N., R. 18 W.,

Secs. 12 thru 15 and sec. 21.

T. 27 N., R. 18 W.,

Sec. 33.

T. 32 N., R. 18 W., tract A.

T. 33 N., R. 18 W., tract A.

T. 6 N., R. 19 W.,

Sec. 19 and secs. 29 thru 32.

T. 20 N., R. 19 W., unsurveyed,

Sec. 1, that portion outside the boundary of the Cape Krusenstern National Monument.

T. 21 N., R. 19 W.,

Secs. 1 thru 17;

Secs. 18, 21, and 22, those portions outside the boundary of the Cape Krusenstern National Monument;

Secs. 23, 24, and 25;

Secs. 26, 27, and 36, those portions outside the boundary of the Cape Krusenstern National Monument.

T. 22 N., R. 19 W.,

Secs. 1 thru 29 and secs. 31 thru 36.

T. 33 N., R. 19 W., tract C.

T. 21 N., R. 20 W., unsurveyed,

Secs. 1, 2, and 3;

Secs. 4, 9, 10, and 11, those portions outside the boundary of the Cape Krusenstern National Monument;

Sec. 12;

Secs. 13 and 14, those portions outside the boundary of the Cape Krusenstern National Monument.

T. 22 N., R. 20 W.,

Secs. 1 thru 4, secs. 10 thru 14, secs. 18, 19, 20, and 24, and secs. 28 thru 35.

T. 24 N., R. 20 W.,

Secs. 7, 21, and 28.

T. 25 N., R. 20 W.,

Sec. 1, secs. 5 thru 8, secs. 17 thru 20, secs. 29 thru 32, and sec. 35.

T. 26 N., R. 20 W.,

Secs. 3, 4, and 5;

Secs. 6 and 7, those portions outside the boundary of the Cape Krusenstern National Monument;

Secs. 8 thru 17;

Secs. 18 and 19, those portions outside the boundary of the Cape Krusenstern National Monument;

Secs. 20 thru 36.

T. 27 N., R. 20 W., unsurveyed,

Secs. 1, 2, and 3;

Secs. 4 thru 7, those portions outside the boundary of the Cape Krusenstern National Monument;

Secs. 8, 9, 10, 15, 16, and 17;

Secs. 18 and 19, those portions outside the boundary of the Cape Krusenstern National Monument;

Secs. 20, 21, and 22;

Secs. 23, 24, and 25, excepting lot 1, U.S. Survey No. 6734;

Sec. 26, excepting lots 1 and 2, U.S. Survey No. 6734;

Sec. 27;

Sec. 28, excepting U.S. Survey No. 6733;

Secs. 29 thru 32;

Sec. 33, excepting U.S. Survey No. 6733;

Sec. 34;

Sec. 35, excepting lot 2, U.S. Survey No. 6734;

Sec. 36.

T. 33 N., R. 20 W., that portion of tract A, within secs. 13 thru 36.

T. 24 N., R. 21 W., unsurveyed,

Secs. 1 thru 3;

Secs. 4, 9, and 10, those portions outside the boundary of the Cape Krusenstern National Monument;

Secs. 11 thru 14;

Secs. 15, 22, and 23, those portions outside the boundary of the Cape Krusenstern National Monument;

Sec. 24;

Sec. 26, those portions outside the boundary of the Cape Krusenstern National Monument, excepting U.S. Survey No. 13923.

T. 25 N., R. 21 W., unsurveyed,

Secs. 1, 12, 13, 24, 25, 26, and 35, those portions outside the boundary of the Cape Krusenstern National Monument;

Sec. 36.

T. 26 N., R. 21 W., unsurveyed,

Secs. 1, 24, 25, and 36, those portions outside the boundary of the Cape Krusenstern National Monument.

T. 27 N., R. 21 W., unsurveyed,

Secs. 4, 5, 6, 13, 24, 25, and 36, those portions outside the boundary of the Cape Krusenstern National Monument.

T. 28 N., R. 21 W., unsurveyed,

Secs. 35 and 36, those portions outside the boundary of the Cape Krusenstern National Monument.

T. 30 N., R. 21 W., unsurveyed,

Secs. 27 and 34.

T. 33 N., R. 21 W.,

That portion of tract A, within secs. 25 thru 36.

T. 34 N., R. 21 W.,

Tracts A, B, D, and E.

T. 30 N., R. 22 W., unsurveyed.

T. 31 N., R. 22 W., unsurveyed,

Secs. 19 thru 36.

T. 33 N., R. 22 W., unsurveyed,

Secs. 1 thru 12 and secs. 15 thru 19.

T. 34 N., R. 22 W., unsurveyed,

Sec. 13, secs. 24 thru 28, and secs. 33 thru 36.

T. 30 N., R. 23 W., unsurveyed.

T. 31 N., R. 23 W., unsurveyed,

Secs. 4 thru 9 and secs. 16 thru 36.

T. 32 N., R. 23 W., unsurveyed,

Secs. 4 thru 9, secs. 16 thru 21, and secs. 28 thru 33.

T. 33 N., R. 23 W., unsurveyed,

Secs. 6 and 13, secs. 23 thru 28, and secs. 30 thru 36.

T. 34 N., R. 23 W., unsurveyed,

Secs. 7 thru 24 and secs. 27 thru 33.

T. 27 N., R. 24 W.,

Secs. 1 thru 10, secs. 16 thru 21, and secs. 30 and 31.

T. 28 N., R. 24 W.,

Secs. 1 thru 12 and secs. 25, 35, and 36.

T. 29 N., R. 24 W.,

Secs. 1, 2, 11, and 12, secs. 24 thru 27, and secs. 34, 35, and 36.

T. 30 N., R. 24 W., unsurveyed,

Sec. 1;

Secs. 2 and 3, excepting U.S. Survey No. 13179;

Secs. 4 thru 16;

Secs. 17 and 18, excepting U.S. Survey No. 11923;

Secs. 19 thru 36.

T. 31 N., R. 24 W., unsurveyed.

T. 32 N., R. 24 W., unsurveyed,

Secs. 5 thru 8 and secs. 15 thru 36.

T. 33 N., R. 24 W., unsurveyed,

Secs. 1 thru 24 and secs. 26 thru 34.

T. 34 N., R. 24 W., unsurveyed.

T. 26 N., R. 25 W.,

Secs. 1, 2, 3, 11, and 12.

T. 27 N., R. 25 W.,

Secs. 1 thru 5, secs. 8 thru 30, and secs. 32 thru 36.

T. 28 N., R. 25 W.,

Secs. 1, 2, 11, 12, 14, 15, 16, 21, 22, and 23.

T. 29 N., R. 25 W.,

Secs. 1 thru 11, secs. 14 thru 22, and sec. 30.

Tps. 30 thru 34 N., R. 25 W., unsurveyed.

T. 29 N., R. 26 W., unsurveyed,

Secs. 1 thru 4;

Secs. 5 and 6, excepting U.S. Survey No. 6852;

Secs. 7, 8, and 9;

Sec. 10, excepting U.S. Survey No. 6819;

Secs. 11 thru 36.

T. 30 N., R. 26 W., unsurveyed,

Secs. 1 thru 26;

Sec. 27, excepting U.S. Survey No. 6827;

Sec. 28, excepting U.S. Survey Nos. 6827 and 6830;

Secs. 29 thru 32;

Sec. 33, excepting U.S. Survey No. 6830;

Secs. 34, 35, and 36.

Tps. 31 thru 34 N., R. 26 W., unsurveyed.

T. 1 N., R. 27 W., unsurveyed,

Sec. 1, excepting M.S. No. 2545;

Secs. 2 thru 36;

M.S. No. 2545.

T. 2 N., R. 27 W., unsurveyed,

Sec. 5, that portion outside the boundary of the Bering Land Bridge National Preserve;

Secs. 6, 7, and 8;

Secs. 9, 10, 11, and 14, those portions outside the boundary of the Bering Land Bridge National Preserve;

Secs. 15 thru 22;

Secs. 23 and 24, those portions outside the boundary of the Bering Land Bridge National Preserve;

Secs. 25 thru 36.

T. 3 N., R. 27 W., unsurveyed,

Secs. 7, 18, and 31, those portions outside the boundary of the Bering Land Bridge National Preserve.

T. 4 N., R. 27 W., unsurveyed,

Secs. 4, 5, and 6, those portions outside the boundary of the Bering Land Bridge National Preserve;

Secs. 7, 8, and 9;

Secs. 10 and 11, those portions outside the boundary of the Bering Land Bridge National Preserve;

Secs. 14 thru 21;

Secs. 22 and 23, those portions outside the boundary of the Bering Land Bridge National Preserve;

Secs. 29, 30, and 31;

Sec. 32, that portion outside the boundary of the Bering Land Bridge National Preserve.

Tps. 30 thru 34 N., R. 27 W., unsurveyed.

T. 29 N., R. 28 W., unsurveyed,

Secs. 1 and 2;

Secs. 3 and 11, those portions outside the boundary of the Alaska Maritime National Wildlife Refuge;

Secs. 12 and 13.

Tps. 31 thru 34 N., R. 28 W., unsurveyed.

T. 30 N., R. 29 W., unsurveyed,

Sec. 3, that portion outside the boundary of the Alaska Maritime National Wildlife Refuge;

Sec. 11.

T. 31 N., R. 29 W., unsurveyed,

Secs. 1 thru 4;

Secs. 5 and 8, those portions outside the boundary of the Alaska Maritime National Wildlife Refuge;

Secs. 9 thru 14;

Secs. 15, 16, 17, and 22, those portions outside the boundary of the Alaska Maritime National Wildlife Refuge;

Secs. 23 thru 26;

Secs. 27 and 34, those portions outside the boundary of the Alaska Maritime National Wildlife Refuge.

T. 32 N., R. 29 W., unsurveyed,

Secs. 1 thru 18;

Secs. 19 and 20, those portions outside the boundary of the Alaska Maritime National Wildlife Refuge;

Secs. 21 thru 27;

Secs. 28, 29, and 32, those portions outside the boundary of the Alaska Maritime National Wildlife Refuge;

Secs. 33 thru 36.

T. 32 N., R. 30 W., unsurveyed,

Secs. 1, 2, and 3;

Secs. 4 and 9, those portions outside the boundary of the Alaska Maritime National Wildlife Refuge;

Secs. 10, 11, and 12;

Secs. 13 thru 16 and secs. 23, 24, and 25, those portions outside the boundary of the Alaska Maritime National Wildlife Refuge.

T. 34 N., R. 30 W., unsurveyed,

Secs. 10 thru 15, secs. 22 thru 27, and secs. 34, 35, and 36.

T. 8 N., R. 32 W.,

Secs. 23 thru 26 and secs. 35 and 36.

T. 9 N., R. 32 W.,

Secs. 2 thru 6 and secs. 8 thru 11.

T. 8 N., R. 33 W.,

Sec. 31.

T. 10 N., R. 33 W.,

Secs. 1 and 2, secs. 11 thru 14, secs. 23 thru 26, and sec. 36.

T. 11 N., R. 33 W.,

Secs. 25, 35, and 36.

T. 8 N., R. 34 W.,

Secs. 30 thru 36.

T. 8 N., R. 35 W.,

Secs. 24, 25, and 36.

T. 1 N., R. 36 W.

T. 8 N., R. 36 W.,

Secs. 2 and 3, secs. 7 thru 11, secs. 14 thru 23, and secs. 27 thru 34.

T. 8 N., R. 37 W.,

Secs. 10 thru 15 and secs. 19 thru 36.

T. 1 N., R. 38 W.,

Tracts A and B.

T. 5 N., R. 38 W., unsurveyed,

Secs. 1 thru 5;

Sec. 6, excepting U.S. Survey No. 12266;

Secs. 7 thru 36.

T. 1 N., R. 39 W.,

Secs. 1, 2, and 3.

T. 5 N., R. 39 W., unsurveyed.

T. 4 N., R. 40 W., unsurveyed,

Secs. 1, 2, and 3, secs. 10 thru 15, and secs. 19 thru 36.

T. 2 N., R. 41 W.,

Secs. 5, 8, and 17.

T. 3 N., R. 41 W.,

Secs. 13 thru 16, secs. 21 thru 28, and secs. 32 thru 36.

T. 4 N., R. 41 W., unsurveyed,

Secs. 19 thru 36.

T. 2 N., R. 42 W.,

Secs. 4, 5, 6, 9, 16, 22, 23, and 24.

T. 3 N., R. 42 W.,

Secs. 1 thru 18.

T. 4 N., R. 42 W., unsurveyed,

Secs. 1, 2, and 3, secs. 8 thru 16, and secs. 21 thru 26;

Sec. 27, excepting U.S. Survey No. 13902;

Sec. 28;

Sec. 29, excepting U.S. Survey No. 13183;

Secs. 31 thru 36.

T. 2 N., R. 43 W.,

Secs. 5, 6, and 7.

T. 3 N., R. 43 W.,

Secs. 31 and 32.

T. 3 N., R. 44 W.,

Secs. 25, 26, and 27 and secs. 33 thru 36.

Tps. 1 and 2 S., R. 4 W., unsurveyed.

Tps. 1 thru 6 S., R. 5 W., unsurveyed.

Tps. 1 thru 5 S., R. 6 W., unsurveyed.

T. 6 S., R. 6 W., unsurveyed,

Secs. 1 thru 31;

Sec. 32, excepting U.S. Survey No. 13579;

Secs. 33 thru 36.

Tps. 7 and 8 S., R. 6 W., unsurveyed.

Tps. 1 thru 10 S., R. 7 W., unsurveyed.

T. 11 S., R. 7 W., unsurveyed,

Secs. 1 thru 28;

Sec. 29, excepting U.S. Survey No. 13578;

Secs. 30 thru 36.

Tps. 1 thru 13 S., R. 8 W., unsurveyed.

Tps. 1 thru 4 S., R. 9 W., unsurveyed.

T. 5 S., R. 9 W., unsurveyed,

Secs. 1 thru 30;

Sec. 31, excepting lot 1, U.S. Survey No. 12420;

Secs. 32 thru 36.

T. 6 S., R. 9 W., unsurveyed,

Secs. 1 thru 4;

Secs. 5 and 6, excepting U.S. Survey No. 12420;

Secs. 7 thru 36.

Tps. 7, 8, and 9 S., R. 9 W., unsurveyed.

T. 10 S., R. 9 W., unsurveyed,

Secs. 1 thru 30 and secs. 32 thru 36.

T. 11 S., R. 9 W., unsurveyed,

Secs. 1 thru 5 and secs. 8 and 9;

Sec. 10, excepting U.S. Survey No. 13575;

Secs. 11 thru 36.

Tps. 12, 13, and 14 S., R. 9 W., unsurveyed.

Tps. 4, 5, and 6 S., R. 10 W., unsurveyed.

T. 7 S., R. 10 W.,

Secs. 1 thru 18, secs. 20 thru 29, and secs. 34, 35, and 36.

T. 8 S., R. 10 W., unsurveyed,

Sec. 1, excepting U.S. Survey No. 12432;

Sec. 2 and secs. 6 thru 36.

T. 9 S., R. 10 W.,

Sec. 36; tracts A thru T.

T. 10 S., R. 10 W.,

Secs. 1, 12, 13, 24, and 25; tracts A thru U.

T. 11 S., R. 10 W., unsurveyed,

Secs. 3 thru 5;

Sec. 6, excepting U.S. Survey No. 13564;

Sec. 7, excepting M.S. Nos. 1245, 1894, 1895, 2331, and U.S. Survey No. 13564;

Sec. 8, excepting M.S. Nos. 1245, 1894, and U.S. Survey No. 13564;

Secs. 9 and 10 and secs. 13 thru 16;

Secs. 17 and 18, excepting M.S. No. 1894;

Secs. 19 thru 36.

T. 12 S., R. 10 W., unsurveyed.

T. 13 S., R. 10 W., unsurveyed,

Secs. 1 thru 5;

Secs. 6 and 7, excepting U.S. Survey No. 13903;

Secs. 8 thru 36.

Tps. 14 and 15 S., R. 10 W., unsurveyed.

T. 3 S., R. 11 W.,

T. 4 S., R. 11 W.,

Secs. 1 thru 16, sec. 18, secs. 21 thru 28, and secs. 34, 35, and 36.

T. 5 S., R. 11 W.,

Secs. 1 thru 4, secs. 9 thru 15, sec. 19, secs. 22 thru 27, secs. 30, 31, 34, 35, and 36.

T. 6 S., R. 11 W.,

Secs. 1, 2, 6, and 7, secs. 11 thru 15, secs. 22 thru 28, and secs. 32 thru 36.

T. 7 S., R. 11 W.,

Secs. 1 thru 22, secs. 24, 27, and 28.

T. 8 S., R. 11 W., unsurveyed,

Secs. 13, 14, 24, and 25.

T. 10 S., R. 11 W., unsurveyed,

Sec. 24, excepting lot 1, U.S. Survey No. 12250;

Sec. 25;

Sec. 34, excepting lot 1, U.S. Survey No. 12265;

Secs. 35 and 36.

T. 11 S., R. 11 W.,

Sec. 12;

Secs. 29 thru 36; M.S. No. 2331.

T. 12 S., R. 11 W., unsurveyed.

T. 13 S., R. 11 W.,

Secs. 19 thru 36.

T. 14 S., R. 11 W., unsurveyed,

Secs. 1 thru 28 and secs. 33 thru 36.

T. 15 S., R. 11 W.,

Secs. 1 thru 5 and secs. 8 thru 36.

T. 3 S., R. 12 W.,

Secs. 1, 2, 3, 6, and 7, secs. 10 thru 15, secs. 18 and 19, secs. 22 thru 27, secs. 30, 34, 35, and 36.

T. 4 S., R. 12 W.,

Secs. 1, 2, and 3 and secs. 10 thru 13.

T. 5 S., R. 12 W.,

Secs. 1 thru 5, secs. 8 thru 12, secs. 16, 17, 19, 20, 24, 25, and 26, and secs. 29 thru 36.

T. 12 S., R. 12 W.,

Secs. 1 thru 4, secs. 9 thru 16, and secs. 23 and 24.

T. 13 S., R. 12 W.,

Sec. 25;

U.S. Survey No. 2046.

T. 14 S., R. 12 W.,

Sec. 1.

T. 1 S., R. 13 W., that portion of tract A, within sec. 24, S½; that portion of tract A, within sec. 25, N½.

T. 3 S., R. 13 W.

T. 4 S., R. 13 W.,

Secs. 5, 6, 7, 19, 27, and 28 and secs. 33 thru 36.

T. 5 S., R. 13 W.,

Secs. 1 thru 12, secs. 14 thru 23, and secs. 28 thru 36.

T. 6 S., R. 13 W.,

Secs. 1 thru 30.

T. 7 S., R. 13 W.,

Secs. 2 thru 10, secs. 15 thru 20, and secs. 29, 30, and 31.

T. 8 S., R. 13 W.,

Sec. 6.

Tps. 3 and 4 S., R. 14 W., unsurveyed.

T. 5 S., R. 14 W.,

Sec. 12; tracts A, B, and C.

Tps. 6 and 7 S., R. 14 W.,

T. 8 S., R. 14 W.,

Secs. 1 thru 4, secs. 9 thru 12, secs. 14, 15, and 16, and secs. 21 thru 24.

Tps. 3, 4, and 5 S., R. 15 W., unsurveyed.

T. 6 S., R. 15 W.,

Secs. 1 and 2.

Tps. 3, 4 and 5 S., R. 16 W., unsurveyed.

T. 6 S., R. 16 W.,

Tract A.

T. 3 S., R. 17 W., unsurveyed,

Secs. 1, 2, 6, and 7, secs. 11 thru 15, sec. 18, secs. 22 thru 28, and secs. 33 thru 36.

T. 4 S., R. 17 W., unsurveyed,

Secs. 1 thru 29 and secs. 32 thru 36.

T. 5 S., R. 17 W.,

Secs. 1, 2, and 3, secs. 10 thru 15, and secs. 22 thru 36.

T. 6 S., R. 17 W.,

Sec. 35;

Tract A.

T. 3 S., R. 18 W.,

Secs. 1 thru 6 and secs. 10 thru 13;

Sec. 25, S½, excepting U.S. Survey No. 13777;

Sec. 36, N½, excepting U.S. Survey No. 13777.

T. 6 S., R. 18 W., unsurveyed,

Secs. 1 thru 4, secs. 9 thru 16, secs. 21 thru 29, and secs. 32 thru 36.

T. 7 S., R. 18 W.,

That portion of tract A, within secs. 1 thru 5, secs. 7 thru 11, secs. 15 thru 21, and secs. 29 thru 32.

T. 8 S., R. 18 W.,

Tract A.

T. 2 S., R. 19 W., unsurveyed.

T. 3 S., R. 19 W., unsurveyed,

Secs. 1 thru 10 and sec. 18.

T. 4 S., R. 19 W., unsurveyed,

Secs. 4 thru 9, secs. 15 thru 21, and secs. 29 and 30.

T. 7 S., R. 19 W., unsurveyed,

Secs. 24, 25, 35, and 36.

T. 9 S., R. 19 W.

T. 2 S., R. 20 W., unsurveyed,

Secs. 1, 2, and 3 and secs. 10 thru 15;

Sec. 22, that portion outside the boundary of the Bering Land Bridge National Preserve;

Sec. 23 thru 26;

Secs. 27, 32, and 33, those portions outside the boundary of the Bering Land Bridge National Preserve;

Secs. 34, 35, and 36.

T. 3 S., R. 20 W., unsurveyed,

Secs. 1 thru 4;

Secs. 5 and 6, those portions outside the boundary of the Bering Land Bridge National Preserve;

Secs. 7 thru 24 and secs. 26 thru 34.

T. 4 S., R. 20 W., unsurveyed,

Secs. 4 thru 8, secs. 13 and 14, and secs. 22 thru 29;

Sec. 30, excepting U.S. Survey No. 13778;

Secs 31 thru 34.

T. 5 S. R. 20 W., unsurveyed,

Secs. 5 thru 8, secs. 16 thru 20, and secs. 28 thru 34.

T. 6 S., R. 20 W., unsurveyed,

Secs. 5 thru 10, secs. 15 thru 22, and secs. 27 thru 33;

Sec. 34, excepting U.S. Survey No. 9550.

T. 7 S., R. 20 W., unsurveyed,

Secs 3, 4, and 5;

Sec. 6, excepting U.S. Survey No. 13781;

Secs. 7 thru 10 and secs. 16 thru 19;

Secs. 20 and 21, excepting U.S. Survey No. 13780;

Sec. 26, W½;

Sec. 27, E½;

Secs. 28 thru 33.

T. 8 S., R. 20 W., unsurveyed,

Secs. 3 thru 10 and secs. 14 thru 17;

Sec. 18, excepting U.S. Survey No. 13785;

Secs. 19 thru 23 and secs. 25 thru 36.

T. 9 S., R. 20 W.,

Secs. 1, 12, 13, and 24;

Tract A.

T. 10 S., R. 20 W.,

That portion of tract A, within secs. 6, 7, 18, and 19, and secs. 29 thru 32.

T. 11 S., R. 20 W.,

Secs. 4 thru 9, secs. 16 thru 21, and secs. 28 thru 33.

T. 12 S., R. 20 W.,

Sec. 4;

Sec. 5, excepting U.S. Survey No. 13782;

Secs. 6 thru 9 and secs. 16, 17, and 18.

T. 2 S., R. 21 W., unsurveyed,

Secs. 18, 19, 20, 27, 28, and 29, those portions outside of the Bering Land Bridge National Preserve;

Secs. 30 thru 33;

Secs. 34, 35, and 36, those portions outside the boundary of the Bering Land Bridge National Preserve.

T. 3 S., R. 21 W.,

Sec. 1, unsurveyed, that portion outside the boundary of the Bering Land Bridge National Preserve;

Secs. 2 thru 12, unsurveyed;

Sec. 13, unsurveyed, excepting lots 1 and 2, U.S. Survey No. 10284;

Sec. 14, unsurveyed, excepting lot 1, U.S. Survey No. 10284;

Secs. 15 thru 22, unsurveyed;

Sec. 24, unsurveyed, excepting tract 37, and lot 3, U.S. Survey No. 10284 and U.S. Survey No. 13775;

Sec. 25, unsurveyed, secs. 27 thru 34, and sec. 36;

Tract 37.

T. 4 S., R. 21 W., unsurveyed,

Secs. 6, 22, 23, 25, 26, 27, 34, 35, and 36.

T. 5 S., R. 21 W., unsurveyed,

Secs. 1 thru 4, secs. 9 thru 16, secs. 21 thru 28, and secs. 33 thru 36.

T. 6 S., R. 21 W., unsurveyed,

Secs. 1 thru 4 and secs. 7 and 8;

Sec. 9, excepting U.S. Survey No. 9715;

Secs. 10 thru 15;

Sec. 16, excepting U.S. Survey No. 9715;

Secs. 17 thru 22;

Secs. 23, 24, and 25, excepting U.S. Survey No. 9714;

Secs. 26 thru 36.

T. 7 S., R. 21 W., unsurveyed,

Sec. 1, excepting U.S. Survey No. 13781;

Secs. 2 thru 33;

Secs. 34 and 35, excepting U.S. Survey No. 14002;

Sec. 36.

T. 8 S., R. 21 W., unsurveyed,

Sec. 1;

Secs. 2 and 3, excepting U.S. Survey No. 14002;

Secs. 4 thru 30;

Sec. 31, excepting U.S. Survey No. 10048;

Secs. 32 thru 36.

T. 9 S., R. 21 W.,

Tract A, those portions within secs. 2 thru 5, 8 thru 17, and secs. 20 thru 36.

T. 10 S., R. 21 W.,

Tract A., excepting U.S. Survey No. 13783.

T. 11 S., R. 21 W.,

Secs. 1, 2, and 3;

Sec. 10, lot 1;

Sec. 11;

Secs 12 and 13, excepting U.S. Survey No. 13784.

T. 1 S., R. 22 W., unsurveyed,

Secs 32 and 33, those portions outside the boundary of the Bering Land Bridge National Preserve.

T. 2 S., R. 22 W., unsurveyed,

Secs. 3 thru 6, those portions outside the boundary of the Bering Land Bridge National Preserve;

Secs. 7, 8 and 9;

Secs. 10 thru 13, those portions outside the boundary of the Bering Land Bridge National Preserve;

Secs. 14 thru 36.

T. 3 S., R. 22 W., unsurveyed,

Secs. 1 thru 30 and secs. 32 thru 36.

T. 5 S., R. 22 W., unsurveyed,

Sec. 24, excepting lots 3 and 4, U.S. Survey No. 9706.

T. 6 S., R. 22 W., unsurveyed,

Secs. 7 and 8;

Sec. 9, excepting lot 1, U.S. Survey No. 9934;

Sec. 10, excepting lots 2 and 3, U.S. Survey No. 9931, lots 1 and 2, U.S. Survey No. 9934, and lots 1 thru 3, U.S. Survey No. 9935;

Secs. 11 thru 14;

Sec. 15, excepting lots 1 and 2, U.S. Survey 9930, lots 1 thru 3, U.S. Survey No. 9931, lots 1 thru 3, U.S. Survey No. 9932, lots 1 and 2, U.S. Survey No. 9933, and lot 2, U.S. Survey No. 9934.

Sec. 16, excepting lot 2, U.S. Survey No. 9930 and lot 2, U.S. Survey No. 9932;

Secs. 17, 18, and 19;

Sec. 20, excepting lot 1, U.S. Survey No. 14004;

Sec. 21, excepting lots 1 thru 3, U.S. Survey No. 14004;

Secs. 22 thru 27;

Sec. 28, excepting lots 1 and 2, U.S. Survey No. 14004;

Sec. 29, excepting U.S. Survey No. 13996 and lot 1, U.S. Survey No. 14004;

Secs. 30 thru 36.

T. 7 S., R. 22 W.,

Tract B.

T. 8 S., R. 22 W.,

Tracts A thru E.

T. 9 S., R. 22 W.,

Secs. 4 and 9;

Tract B.

T. 12 S., R. 22 W.,

Secs. 6, 7, 18, 19, and 30.

T. 1 S., R. 23 W., unsurveyed,

Sec. 33, that portion outside the boundary of the Bering Land Bridge National Preserve.

T. 2 S., R. 23 W., unsurveyed,

Secs. 1 thru 6, those portions outside the boundary of the Bering Land Bridge National Preserve;

Secs. 7, 8, and 9;

Secs. 10 and 11, those portions outside the boundary of the Bering Land Bridge National Preserve;

Secs. 12 thru 36.

T. 3 S., R. 23 W., unsurveyed,

Secs. 1 thru 33.

T. 4 S., R. 23 W., unsurveyed,

Secs. 5 and 6.

T. 5 S., R. 23 W., unsurveyed,

Secs. 31 thru 34.

T. 6 S., R. 23 W.,

That portion of tract A, within secs. 2 thru 17, and 19 thru 36.

T. 7 S., R. 23 W.,

Sec. 1, excepting U.S. Survey No. 13861;

Secs. 2 thru 10, sec. 13, secs. 16 thru 20, secs. 23 thru 26, and secs. 35 and 36.

T. 8 S., R. 23 W.,

Secs. 1 and 2, secs. 11 thru 14, and sec. 25.

T. 11 S., R. 23 W.,

Secs. 17 thru 20 and secs. 27, 28, and 29;

Secs. 34 and 35.

T. 1 S., R. 24 W., unsurveyed,

Secs. 34 and 36, that portion outside the boundary of the Bering Land Bridge National Preserve.

T. 2 S., R. 24 W., unsurveyed,

Secs. 1, 2, 3, 9, and 10, those portions outside the boundary of the Bering Land Bridge National Preserve;

Secs. 11 thru 15;

Secs. 16, 17, 19, and 20, those portions outside the boundary of the Bering Land Bridge National Preserve;

Secs. 21 thru 29;

Sec. 30, that portion outside the boundary of the Bering Land Bridge National Preserve;

Secs. 31 thru 36.

T. 3 S., R. 24 W., unsurveyed.

T. 4 S., R. 24 W., unsurveyed,

Secs. 1 thru 22 and secs. 27 thru 33.

T. 5 S., R. 24 W.,

Secs. 19, 20, 29, and 30, and secs. 33 thru 36, unsurveyed;

Tract A.

T. 6 S., R. 24 W.,

Secs. 1 thru 6, sec. 12, secs. 21 thru 28, and secs. 33 thru 36.

T. 7 S., R. 24 W.,

Secs. 4, 9, 22, 23, and 24;

Tract U.

T. 8 S., R. 24 W.,

Tract D.

T. 10 S., R. 24 W.,

Secs. 4 thru 9, secs. 16 thru 21, and secs. 28 thru 33.

T. 2 S., R. 25 W., unsurveyed,

Secs. 19, 25, 30, 31, 32, 35, and 36, those portions outside the boundary of the Bering Land Bridge National Preserve.

T. 3 S., R. 25 W. unsurveyed,

Sec. 1;

Secs. 2, 3, and 5, those portions outside the boundary of the Bering Land Bridge National Preserve;

Secs. 6 and 7;

Secs. 8, 9, and 10, those portions outside the boundary of the Bering Land Bridge National Preserve;

Secs. 11 thru 16;

Sec. 17, that portion outside the boundary of the Bering Land Bridge National Preserve;

Secs. 18 thru 36.

T. 4 S., R. 25 W., unsurveyed.

T. 6 S., R. 25 W.,

Sec. 22;

Tracts D, E, F, P thru U, X, and Y;

That portion of tract Z, within secs. 16, 21, and 33;

Tract B1.

T. 9 S., R. 25 W.,

Sec. 1, lot 2;

Secs. 2 and 3 and secs. 7 thru 24.

T. 10 S., R. 25 W.,

Secs. 1 thru 4, secs. 10 thru 15, secs. 22 thru 26, and secs. 35 and 36.

T. 1 S., R. 26 W., unsurveyed,

Secs. 7, 17 and 18, those portions outside the boundary of the Bering Land Bridge National Preserve;

Sec. 19,

Secs. 20, 21, 27, and 28, those portions outside the boundary of the Bering Land Bridge National Preserve;

Secs. 29 thru 33;

Secs. 34 and 35, those portions outside the boundary of the Bering Land Bridge National Preserve.

T. 2 S., R. 26 W., unsurveyed,

Sec. 2, that portion outside the boundary of the Bering Land Bridge National Preserve;

Secs. 3 thru 10;

Secs. 11, 12, and 13, those portions outside the boundary of the Bering Land Bridge National Preserve;

Secs. 14 thru 23;

Sec. 24, those portions outside the boundary of the Bering Land Bridge National Preserve;

Secs. 25 thru 36.

T. 3 S., R. 26 W., unsurveyed.

T. 4 S., R. 26 W., unsurveyed,

Secs. 1 thru 5;

Sec. 6, excepting U.S. Survey No. 13788;

Secs. 7 thru 36.

T. 5 S., R. 26 W., unsurveyed.

T. 1 S., R. 27 W., unsurveyed,

Secs. 1, 2 and 3, those portions outside the boundary of the Bering Land Bridge National Preserve;

Secs. 4 thru 11;

Sec. 12, that portion outside the boundary of the Bering Land Bridge National Preserve;

Secs. 13 thru 36.

Tps. 2, 3, and 4 S., R. 27 W., unsurveyed.

Tps. 1 thru 4 S., R. 28 W., unsurveyed.

T. 2 S., R. 29 W.,

Secs. 1, 2, and 3 and secs. 10 thru 14, unsurveyed;

Sec. 15, unsurveyed, excepting U.S. Survey No. 11133;

Sec. 21, unsurveyed, excepting M.S. 1144;

Secs. 22 thru 26, unsurveyed;

Sec. 27, unsurveyed, excepting M.S. 1144;

Secs. 31 thru 34, unsurveyed;

Secs. 35 and 36, unsurveyed, excepting U.S. Survey No. 14169;

Tracts F and G.

T. 4 S., R. 29 W., unsurveyed,

Secs. 1 thru 18, secs. 21 thru 28, and secs. 33 thru 36.

T. 4 S., R. 30 W.,

That portion of tract E, within secs. 7 thru 9, secs. 15 thru 22, and sec. 28;

Tracts F, G, and H;

That portion of tract X, within sec. 28;

Tracts Y and Z;

That portion of tract GG, within sec. 28.

T. 5 S., R. 30 W.,

Tract A.

T. 1 S., R. 31 W., unsurveyed,

Secs. 1 thru 7;

Sec. 8, excepting lot 1, U.S. Survey No. 11602;

Secs. 9 thru 18;

Sec. 19, excepting lot 2, U.S. Survey No. 11602;

Secs. 20 thru 36.

T. 2 S., R. 31 W., unsurveyed.

T. 3 S., R. 31 W.,

Tracts A, B, and C.

T. 5 S., R. 31 W.,

Secs. 19 thru 36, unsurveyed;

Tract B, excepting U.S. Survey No. 13910;

U.S. Survey No. 13910.

T. 6 S., R, 31 W., unsurveyed,

Secs. 5 and 6.

T. 7 S., R. 31 W.,

lot 23, U.S. Survey No. 4212;

U.S. Survey No. 13719.

T. 9 S., R. 31 W., unsurveyed,

Sec. 6, excepting U.S. Survey No. 11462;

Secs. 7, 17, and 18.

T. 10 S., R. 31 W.,

Sec. 32.

Tps. 1 and 2 S., R. 32 W., unsurveyed.

T. 3 S., R. 32 W.,

Tract E.

T. 4 S., R. 32 W.,

Sec. 19;

Sec. 27, excepting U.S. Survey No. 13917;

Sec. 28;

Sec. 29, lot 2;

That portion of tract JJ, within Sec. 35;

Tracts KK thru MM.

T. 5 S., R. 32 W., unsurveyed.

T. 6 S., R. 32 W., unsurveyed,

Secs. 1, 2, and 3;

Sec. 4, excluding that portion within Power Site Classification No. 726;

Secs. 5 thru 21.

T. 1 S., R. 33 W., unsurveyed.

T. 2 S., R. 33 W., unsurveyed,

Secs. 1 thru 21;

Sec. 22, excepting U.S. Survey No. 11603;

Secs. 23 thru 36;

Lot 2, U.S. Survey No. 11603.

T. 3 S., R. 33 W.,

Tract V.

T. 4 S., R. 33 W.,

Tract R;

That portion of tract DD, within sec. 27;

Tract EE.

T. 5 S., R. 33 W., unsurveyed,

Secs. 1 thru 4, secs. 9 thru 15, secs. 22 thru 28, and secs. 33 thru 36.

T. 1 S., R. 34 W., unsurveyed,

Secs. 1 thru 32, and secs. 34, 35, and 36.

T. 2 S., R. 34 W., unsurveyed,

Secs. 1, 2, 3, 5, and 6, secs. 10 thru 16, secs. 20 thru 29, and secs. 31 thru 36.

T. 3 S., R. 34 W., unsurveyed,

Secs. 1 thru 6, secs. 8 thru 14;

Sec. 15, excepting U.S. Survey Nos. 11194 and 11604;

Secs. 16, 23, 24 and 26.

T. 6 S., R. 34 W., unsurveyed,

Secs. 3 thru 10, secs. 15 thru 22, and secs. 27 thru 34.

T. 7 S., R. 34 W., unsurveyed,

Secs. 3 thru 10, secs. 15 thru 20, and sec. 30.

T. 1 S., R. 35 W., unsurveyed,

Secs. 1 and 2, excepting U.S. Survey No. 11198;

Secs. 3 thru 29, and secs. 32 thru 36.

T. 2 S., R. 35 W., unsurveyed,

Secs. 1 thru 5, secs. 8 thru 17, secs. 20, 21, 22, 28, 29, 31, 32, and 33.

T. 3 S., R. 35 W.,

Secs. 3 thru 10;

Sec. 11, excepting lot 2, U.S. Survey No. 14175;

Secs. 13 thru 30.

T. 5 S., R. 35 W., unsurveyed,

Sec. 7, secs. 16 thru 23, and secs. 29, 30, and 31.

T. 6 S., R. 35 W., unsurveyed,

Sec. 1 and secs. 10 thru 36.

T. 7 S., R. 35 W., unsurveyed,

Secs. 1 thru 10, secs. 12 and 13, secs. 15 thru 22, secs. 24 and 25, and secs. 27 thru 33.

T. 1 S., R. 36 W., unsurveyed,

Secs. 1, 6, 12, and 13.

T. 2 S., R. 36 W.,

Sec. 10;

Sec. 15, lot 1;

That portion of tract A, within secs. 7, 8, 11, and 12;

Tracts B and D.

T. 3 S., R. 36 W.,

Sec. 13.

T. 4 S., R. 36 W.,

Tracts C and E.

T. 5 S., R. 36 W., unsurveyed,

Secs. 2, 3, 4, and 6, secs. 9 thru 17, secs. 20 thru 28, and secs. 34, 35, and 36.

T. 6 S., R. 36 W., unsurveyed,

Sec. 3 and secs. 23 thru 36.

T. 7 S., R. 36 W., unsurveyed.

T. 8 S., R. 36 W., unsurveyed,

Secs. 6, 7, and 8.

T. 9 S., R. 36 W.,

Secs. 19 and 20 and secs. 29 thru 32.

T. 10 S., R. 36 W., unsurveyed,

Secs. 5 and 6.

T. 1 S., R. 37 W., unsurveyed,

Secs. 1 thru 19 and secs. 21, 22, 23, and 30.

T. 5 S., R. 37 W.,

Sec. 1;

Sec. 2, lot 1.

T. 6 S., R. 37 W.,

That portion of tract A, within secs. 25, 26, 27, 34, 35, and 36.

T. 7 S., R. 37 W.,

Tracts B thru G;

That portion of tract H within secs. 1, 2, 3, secs. 10 thru 15, secs. 22 thru 28, and secs. 33 thru 36.

T. 1 S., R. 38 W.,

Sec. 29;

Tract A.

T. 4 S., R. 38 W.,

Sec. 31;

That portion of tract A, within secs. 1 and 2, 11 thru 14, 21 thru 24, 27, 28, 33, and 34.

T. 5 S., R. 38 W.,

That portion of tract B, within secs. 19 and 20;

That portion of tract D, within secs. 31, 32, and 33.

T. 6 S., R. 38 W.,

Secs. 4 thru 10, secs. 15 thru 18, and secs. 20, 21, 22, and 29.

T. 4 S., R. 39 W.,

Secs. 35 and 36.

T. 5 S., R. 39 W.,

That portion of tract D, within secs. 4, 5, 8, and 17;

That portion of tract E, within secs. 1, 2, and 3, secs. 9 thru 16, and secs. 20 thru 36.

T. 6 S., R. 39 W.,

Secs. 1 thru 5;

Sec. 9, lot 1;

Secs. 10, 11 and 12.

Umiat Meridian, Alaska

T. 4 S., R. 43 W.,

Secs. 7 thru 12.

T. 9 S., R. 43 W.,

Sec. 1, that portion outside the boundary of the National Petroleum Reserve, Alaska;

Secs. 4 thru 11;

Secs. 12 and 13, those portions outside the boundary of the National Petroleum Reserve, Alaska;

Secs. 14 thru 23;

Secs. 24 and 25, those portions outside the boundary of the National Petroleum Reserve, Alaska;

Secs. 26 thru 35;

Sec. 36, that portion outside the boundary of the National Petroleum Reserve, Alaska.

T. 10 S., R. 43 W.,

Sec. 1, that portion outside the boundary of the National Petroleum Reserve, Alaska;

Secs. 2, 3, 10, and 11;

Secs. 12 and 13, those portions outside the boundary of the National Petroleum Reserve, Alaska;

Secs. 14 thru 17 and secs. 19 thru 23;

Secs. 24 and 25, those portions outside the boundary of the National Petroleum Reserve, Alaska;

Secs. 26 thru 35;

Sec. 36, that portion outside the boundary of the National Petroleum Reserve, Alaska.

T. 11 S., R. 43 W.,

Sec. 1, lots 1 and 2;

Sec. 2, that portion outside the boundary of the Noatak National Preserve;

Secs. 3 thru 6;

Sec. 7, that portion outside the boundary of the Noatak National Preserve;

Secs. 8 thru 11;

Secs. 12 and 13, those portions outside the boundary of the Noatak National Preserve;

Secs. 14, 15, and 16;

Secs. 17 and 18, secs. 20 thru 24, and sec. 27, those portions outside the boundary of the Noatak National Preserve;

Sec. 28, lots 1 and 2.

T. 4 S., R. 44 W.,

Secs. 19 and 20, and secs. 29 thru 32.

T. 9 S., R. 44 W.,

Secs. 19 thru 36.

T. 10 S., R. 44 W.,

Secs. 2 thru 10, secs. 24 and 25, and secs. 31 thru 36.

T. 11 S., R. 44 W.,

Secs. 1 thru 6;

Secs. 7 thru 14 and secs. 17 and 18, those portions outside the boundary of the Noatak National Preserve.

T. 6 S., R. 45 W.,

Secs. 4.

T. 9 S., R. 45 W.,

Secs. 19 thru 36.

T. 10 S., R. 45 W.,

Secs. 1 thru 24, secs. 29 thru 32, and secs. 35 and 36.

T. 11 S., R. 45 W.,

Secs. 1 thru 12;

Secs. 13, that portion outside the boundary of the Noatak National Preserve;

Secs. 14 thru 22;

Secs. 23, 24, 26, 27, and 28, those portions outside the boundary of the Noatak National Preserve;

Secs. 29 thru 32;

Secs. 33, that portion outside the boundary of the Noatak National Preserve.

T. 12 S., R. 45 W.,

Secs. 4 and 5, those portions outside the boundary of the Noatak National Preserve;

Secs. 6;

Secs. 7, 8, 16, 17, and 18, those portions outside the boundary of the Noatak National Preserve.

T. 6 S., R. 46 W.,

Secs. 12 thru 15.

T. 9 S., R. 46 W.,

Secs. 19 thru 36.

T. 10 S., R. 46 W.

T. 11 S., R. 46 W.,

Secs. 1 thru 12, secs. 15 thru 20, and secs. 35 and 36.

T. 12 S., R. 46 W.,

Secs. 1, 2, and 3;

Secs. 12, 13, 14, 22, and 23, those portions outside the boundary of the Noatak National Preserve.

T. 10 S., R. 47 W.,

Secs. 19 thru 36.

T. 11 S., R. 47 W.

T. 12 S., R. 47 W.,

Secs. 3 thru 10 and secs. 13 thru 18.

T. 9 S., R. 48 W.,

Secs. 13 thru 36.

T. 10 S., R. 48 W.,

Secs. 3 thru 10, secs. 15 thru 30, and secs. 32 thru 36.

T. 11 S., R. 48 W.,

Secs. 1, 2, and 3, secs. 10 thru 15, secs. 18 and 19, secs. 23 thru 26, and secs. 29 thru 32;

Secs. 35 and 36.

T. 12 S., R. 48 W.,

Secs. 1, 5, 6, 12, and 13.

T. 9 S., R. 49 W.,

Secs. 13 and 14, secs. 23 thru 26, secs. 29 thru 32, and secs. 35 and 36.

T. 10 S., R. 49 W.,

Secs. 1 and 2, secs. 5 thru 8, secs. 11 thru 14, secs. 17 thru 20, secs. 24 and 25, and secs. 28 thru 32.

T. 11 S., R. 49 W.,

Secs. 5 thru 8, secs. 17, 18, and 19, and secs. 35 and 36.

T. 12 S., R. 49 W.,

Secs. 1.

T. 7 S., R. 50 W.

T. 9 S., R. 50 W.,

Secs. 25, 26, and 27 and secs. 31 thru 36.

T. 10 S., R. 50 W.

T. 11 S., R. 50 W.,

Secs. 1 thru 24 and secs. 26 thru 33.

T. 12 S., R. 50 W.,

Secs. 6 and secs. 25 thru 27.

Tps. 10 and 11 S., R. 51 W.

T. 12 S., R. 51 W.,

Secs. 1 thru 6, secs. 9 thru 12, and secs. 14, 15, 29, and 30.

Tps. 10 thru 12 S., Rs. 52 thru 55 W.

Tps. 11 and 12 S., R. 56 W.

T. 10 S., R. 57 W.,

Secs. 4 thru 9, secs. 16 thru 21, and secs. 28 thru 33.

T. 7 S., R. 58 W., unsurveyed,

Secs. 16 thru 21 and secs. 28 thru 33.

T. 8 S., R. 58 W., unsurveyed,

Secs. 4 thru 9 and secs. 16 thru 36.

Tps. 9 and 10 S., R. 58 W., unsurveyed.

T. 11 S., R. 58 W.,

Secs. 25 and secs. 33 thru 36.

T. 12 S., R. 58 W.,

Tract A.

T. 9 S., R. 61 W.,

Secs. 36, unsurveyed, that portion outside the boundary of the Alaska Maritime National Wildlife Refuge.

T. 10 S., R. 61 W., unsurveyed,

Secs. 1 and 2, those portions outside the boundary of the Alaska Maritime National Wildlife Refuge;

Secs. 11 thru 14 and secs. 23 thru 26;

Secs. 35, that portion outside the boundary of the Alaska Maritime National Wildlife Refuge;

Secs. 36.

T. 11 S., R. 61 W., unsurveyed,

Secs. 1 and 2 and secs. 11 thru 14.

The areas described aggregate approximately 9,548,309 acres.

Ring of Fire RMP

Seward Meridian, Alaska

T. 15 N., R. 1 E.,

Secs. 20, that portion formerly within application A-053472 excluded from the Tentative Approval for A-061180 dated May 6, 1965.

T. 16 N., R. 1 E.,

Secs. 2, lot 10;

Secs. 3, lots 2 thru 6, lot 8, NW¼NE¼, and NW¼;

Secs. 4 thru 9;

Secs. 10, lots 1, 2, and 3;

Secs. 11, lot 10, lot 11, that portion lying west of lot 6, U.S. Survey No. 9023, and lot 13.

Secs. 21, SE¼SW¼ and S½SE¼;

Secs. 22, S½SW¼ and S½SE¼;

Secs. 23, S½SW¼ and S½SE¼;

Secs. 24, S½SW¼ and S½SE¼;

Secs. 25;

Secs. 26, N½, N½SW¼, N½SW¼SW¼, SE¼SW¼, and SE¼;

Secs. 27, lots 6, 7, and 9, N½NE¼, NE¼SW¼NE¼, SE¼NE¼, N½NE¼NE¼NW¼, N½NW¼NE¼NW¼, and N½NE¼NW¼NW¼;

Secs. 31;

Secs. 32, SW¼NW¼ and S½;

Secs. 33, S½SW¼ and S½SE¼;

Secs. 35, lot 1;

Secs. 36, N½, N½SW¼, SE¼SW¼, and SE¼.

T. 17 N., R. 1 E.,

Lots 5 and 6, Block 6, and Blocks 22, 27, and 36, U.S. Survey No. 1169.

T. 18 N., R. 1 E.,

Secs. 16, lot 4;

Secs. 33, lot 11.

T. 15 N., R. 2 E.,

Secs. 1 thru 4;

Secs. 6, lots 1 thru 4, lot 7, S½NE¼, N½SE¼NW¼, N½SW¼SE¼NW¼,

N½SE¼SE¼NW¼, SE¼SW¼, NE¼NE¼SE/¼, and N½NW¼NE¼SE¼;

Secs. 7, NE¼NE¼, W½NE¼, W½, W½SE¼, and SE¼SE¼;

Secs. 9, lot 7;

Secs. 10, N½, NE¼SW¼, and SE¼;

Secs. 11 and 12;

Secs. 13, N½, N½SW¼, SE¼SW¼, and SE¼;

Secs. 14, N½NE¼, SE¼NE¼, and N½NW¼;

Secs. 15, NE¼NE¼;

Secs. 16, lot 4;

Secs. 17, lot 2;

Secs. 18 thru 21;

Secs. 22, S½NE¼, W½, and SE¼;

Secs. 23, W½SW¼ and SE¼SW¼;

Secs. 24, NE¼, N½SE¼, and SE¼SE¼;

Secs. 26, lot 4, SW¼NE¼, and W½;

Secs. 27 thru 35;

Secs. 36, W½SW¼.

T. 16 N., R. 2 E.,

Secs. 2, lot 10, that portion within community grant application AA-56321;

Secs. 8, lot 9, those portions within community grant application AA-56321;

Secs. 9, lot 5, those portions within community grant application AA-56321;

Secs. 10, lot 3, those portions within community grant application AA-56321;

Secs. 11, lot 1, those portions within community grant application AA-56321;

Secs. 16, lot 1, that portion within community grant application AA-56321;

Secs. 17, lot 1, those portions within community grant application AA-56321;

Lots 1 and 2, U.S. Survey No. 3242A;

U.S. Survey No. 5554.

T. 17 N., R. 2 E.,

Secs. 14, SE¼SE¼SW¼NE¼;

Secs. 23, lots 1 and 6, and N½SW¼NE¼NE¼;

Secs. 26, lots 31 and 33, and lots 35 thru 39.

T. 18 N., R. 2 E.,

Block 9 the School Reserve, lot 1, Block 13 the Municipal Reserve, and Block 16 the Park Reserve, U.S. Survey No. 1152, Moose Townsite.

T. 16 N., R. 4 E.,

Secs. 1 thru 14;

Secs. 15, lots 1 thru 5, and lot 11, N½NE¼;

Secs. 16, lots 1 thru 4;

Secs. 17, lots 1, 2, and 3;

Secs. 20, lots 6 and 7;

Secs. 22, lots 1, 8, 9, and 18;

Secs. 23, 24, and 25;

Secs. 26, lots 1, 3, 4, and 8, NE¼, E½NW¼, SE¼;

Secs. 27, lot 4;

Secs. 29, E½SW¼NW¼, N½NW¼SW¼NW¼, SE¼NW¼SW¼NW¼, E½SW¼SW¼NW¼;

Secs. 30, W½NE¼SW¼SE¼.

Secs. 31, SW¼NE¼SE¼NW¼, W½NE¼SW¼, W½SE¼SW¼;

Secs. 33, lot 9;

Secs. 35, lots 1, 2, 3, 6, 7, 8, and 12, E½SE¼;

Secs. 36.

T. 17 N., R. 4 E.

T. 19 N., R. 4 E.,

Secs. 12, lot 7.

T. 19 N., R. 5 E.,

Secs. 2, that portion lying within the Matanuska River, unsurveyed;

Secs. 3, lots 32 and 33;

Secs. 7, lot 43;

Secs. 8, lot 16.

T. 22 N., R. 5 E.,

Tract A, that portion within sec. 28.

T. 12 N., R. 6 E., unsurveyed,

Secs. 1, that portion lying outside the boundary of the Chugach National Forest;

Secs. 2 thru 11;

Secs. 12, 13, and 14, those portions lying outside the boundary of the Chugach National Forest;

Secs. 15 thru 22;

Secs. 23, 26, and 27, those portions lying outside the boundary of the Chugach National Forest;

Secs. 28 and 29;

Secs. 30 thru 34, those portions lying outside the boundary of the Chugach National Forest.

T. 20 N., R. 6 E.,

Secs. 23, lot 28;

Secs. 24, N½SW¼SW¼SE¼SW¼ and N½SE¼SW¼SE¼SW¼;

Secs. 28, 29, 31, 32, and 33, those portions lying within the Matanuska River, unsurveyed;

Tract A, that portion within secs. 25, 26, and 27.

T. 22 N., R. 6 E.,

Secs. 24 and 25.

T. 12 N., R. 7 E., unsurveyed,

Secs. 4, 5, and 6, those portions lying outside the boundary of the Chugach National Forest.

T. 13 N., R. 7 E., unsurveyed,

Secs. 1 thru 21;

Secs. 22, 23, 24, 26 and 27, those portions lying outside the boundary of the Chugach National Forest;

Secs. 28, 29, and 30;

Secs. 31 thru 34, those portions lying outside the boundary of the Chugach National Forest.

T. 13 N., R. 8 E., unsurveyed,

Secs. 3 and 4, those portions lying outside the boundary of the Chugach National Forest;

Secs. 5, 6, and 7;

Secs. 8, 9, 17, 18, and 19, those portions lying outside the boundary of the Chugach National Forest.

T. 14 N., R. 8 E., unsurveyed,

Secs. 1 thru 22;

Secs. 23, 24, 26, and 27, those portions lying outside the boundary of the Chugach National Forest;

Secs. 28 thru 33;

Secs. 34, that portion lying outside the boundary of the Chugach National Forest.

T. 14 N., R. 9 E., unsurveyed,

Secs. 4, that portion lying outside the boundary of the Chugach National Forest;

Secs. 5 thru 8;

Secs. 9 and secs. 16 thru 19, those portions lying outside the boundary of the Chugach National Forest.

T. 15 N., R. 9 E., unsurveyed,

Secs. 1 and 2, those portions lying outside the boundary of the Chugach National Forest;

Secs. 3 thru 10;

Secs. 11, 14, and 15, those portions lying outside the boundary of the Chugach National Forest;

Secs. 16 thru 21;

Secs. 22 and 27, those portions lying outside the boundary of the Chugach National Forest;

Secs. 28 thru 32;

Secs. 33, that portion lying outside the boundary of the Chugach National Forest.

T. 20 N., R. 9 E.,

Secs. 5, that portion within regional selection application AA-11153-31, unsurveyed;

Secs. 19, lots 3 and 4, W½NE¼, E½NW¼, NE¼SW¼, and NW¼SE¼;

Secs. 20, SE¼SW¼SE¼ and S½SE¼SE¼;

Secs. 22, W½NW¼NE¼, S½NE¼, N½NW¼, SW¼NW¼, and N½SE¼NW¼;

Secs. 23, lots 28, 29, and 30, W½NW¼, and N½NW¼SW¼;

Secs. 25, NE¼NE¼;

Secs. 28, N½NW¼ and W½SW¼NW¼;

Secs. 29, E½NE¼, E½NW¼NE¼, NE¼NW¼NW¼NE¼, S½NW¼NW¼NE¼, and SW¼NW¼NE¼;

Secs. 30, lots 1 and 2;

Secs. 35, lot 5.

T. 10 N., R. 1 W.,

U.S. Survey No. 3200B.

T. 16 N., R. 1 W.,

Secs. 1;

Secs. 2, lots 5 thru 8;

Secs. 3, lot 5;

Secs. 10 and 11;

Secs. 12, lots 1 thru 4.

T. 17 N., R. 1 W.,

School Reserve, Block 3, U.S. Survey No. 1175.

T. 18 N., R. 1 W.,

Secs. 18, E½SE¼SW¼.

T. 22 N., R. 2 W.,

Tract A, excepting U.S. Survey No. 14489;

Tract B, that portion within secs. 1 thru 5, secs. 7 thru 12, and secs. 16, 17, and 18;

Tracts C thru K.

T. 15 N., R. 3 W.,

Secs. 16.

T. 16 N., R. 3 W.,

Secs. 12, E½SE¼SE¼SW¼.

T. 14 N., R. 4 W.,

Secs. 31, N½NE¼SW¼NE¼.

T. 23 N., R. 4 W.,

Secs. 17, E½NW¼NW¼, S½NW¼NW¼NW¼, and SW¼NW¼NW¼.

T. 24 N., R. 4 W.,

Secs. 6, lots 1 and 2, and NE¼SW¼, excepting U.S. Survey No. 9035;

Secs. 7, E½NW¼, excepting U.S. Survey No. 9035;

Secs. 31, lot 9 and SE¼SW¼, excepting U.S. Survey No. 9035.

T. 26 N., R. 4 W.,

Secs. 31, lots 2 and 3, W½SE¼NW¼, and NW¼NE¼SW¼.

T. 24 N., R. 5 W.,

Secs. 23, lot 4;

Secs. 24, SE¼SW¼ and SE¼.

T. 17 N., R. 7 W.,

U.S. Survey No. 938;

Lots 7, 8, 10, and 14, lots 20 thru 23, lots 26 thru 30, and lots 33, 34, and 35, U.S Survey No. 3633.

T. 2 N., R. 11 W.,

Secs. 7, SW¼SE¼.

T. 3 N., R. 11 W.,

Secs. 4, W½SW¼;

Secs. 5, E½SE¼;

Lot 2, Block 12, Block 15, and Block 16, U.S. Survey No. 3564.

T. 7 N., R. 11 W.,

Secs. 21, E½SE¼NE¼ and E½SE¼.

T. 11 N., R. 12 W.,

Lot 4, U.S. Survey No. 4549.

T. 14 N., R. 15 W.,

Tract C;

U.S. Survey No. 13288.

T. 10 N., R. 16 W.,

Secs. 4 thru 9, secs. 16 thru 21, and secs. 28 thru 33, unsurveyed.

T. 12 N., R. 16 W., unsurveyed.

T. 13 N., R. 16 W.,

U.S. Survey No. 13287.

Tps. 10, 11, and 12 N., R. 17 W., unsurveyed.

T. 3 N., R. 18 W.,

Secs. 7, 18, 19, and 20.

T. 4 N., R. 18 W.,

Secs. 5 thru 8 and secs. 18 and 19, unsurveyed.

T. 5 N., R. 18 W., unsurveyed

Secs. 4 thru 9, secs. 16 thru 21, and secs. 28 thru 33.

Tps. 10, 11, and 12 N., R. 18 W., unsurveyed.

T. 3 N., R. 19 W.,

Secs. 1, 12, and 13, unsurveyed;

Secs. 24, N½, unsurveyed.

T. 4 N., R. 19 W.,

Secs. 1, 12, 13, 24, and 36, unsurveyed.

Tps. 10, 11, and 12 N., R. 19 W., unsurveyed.

Tps. 14, 15, and 16 N., R. 19 W., unsurveyed.

T. 10 N., R. 20 W., unsurveyed,

Secs. 1, 2, and 3, secs. 10 thru 15, secs. 22 thru 26, and sec. 36.

T. 11 N., R. 20 W., unsurveyed,

Secs. 1 thru 27, secs. 29, 30, 34, 35, and 36.

T. 12 N., R. 20 W., unsurveyed,

Secs. 1 thru 4;

Secs. 5 thru 8, excepting those portions within Power Site Classification No. 395;

Secs. 9 thru 36.

Tps. 14, 15, and 16 N., R. 20 W., unsurveyed.

T. 6 S., R. 13 W.,

Secs. 3, SW¼SE¼.

T. 8 S., R. 13 W.,

Lot 3, U.S. Survey No. 4740;

Lot 6, U.S. Survey No. 4750.

T. 10 S., R. 15 W.,

Secs. 11, lot 6.

T. 4 S., R. 23 W.,

Secs. 10 and 11.

T. 3 S., R. 24 W., unsurveyed,

Secs. 17, 26, 27, and 28, those portions lying outside the boundary of the Lake Clark National Park and Wilderness;

Secs. 29 thru 33;

Secs. 34, that portion lying outside the boundary of the Lake Clark National Park and Wilderness.

T. 4 S., R. 24 W.,

Secs. 5, 6, and 7, unsurveyed.

T. 3 S., R. 25 W., unsurveyed,

Secs. 1, 2, 11, and 12, those portions lying outside the Lake Clark National Park and Wilderness;

Secs. 35 and 36.

T. 33 S., R. 25 W.,

Secs. 1, lot 1;

Secs. 12, lot 2.

T. 37 S., R., 59 W.,

Secs. 13, lot 1, N½, NE¼SW¼, and SE¼.

T. 48 S., R. 72 W.,

Tract A, those lands within secs. 19, 20, 30, 32, 33, and 34 previously excluded from the Tentative Approval for AA-5363 dated September 28, 1979, lying outside the boundary of the Alaska Maritime National Wildlife Refuge.

T. 51 S., R. 83 W.,

Secs. 24 thru 27 and secs. 34, 35, and 36.

T. 51 S., R. 84 W.,

Tract A.

T. 52 S., R. 85 W.,

Tract A.

Copper River Meridian, Alaska

T. 26 S., R. 54 E., unsurveyed,

Secs. 1, 2, and 3, secs. 10 thru 15, and secs. 23, 24, and 25.

T. 28 S., R. 54 E., partly unsurveyed,

Secs. 21, lot 1.

T. 31 S., R. 54 E., unsurveyed,

Secs. 1, that portion lying outside the boundary of Glacier Bay National Park.

T. 25 S., R. 55 E., unsurveyed.

T. 26 S., R. 55 E., unsurveyed,

Secs. 2 thru 10 and secs. 16 thru 21;

U.S. Survey No. 3743.

T. 28 S., R. 55 E., partly unsurveyed,

Secs. 22, S½ SW¼ SW¼ SW¼, S½ SE¼ SW¼ SW¼, SE¼ SW¼, and SW¼ SE¼;

Secs. 25, lots 12, 15, and 17;

Secs. 27, lots 13 thru 22.

T. 31 S., R. 55 E., unsurveyed,

Secs. 1 thru 6, secs. 8 thru 12, and secs. 15 and 16, those portions lying outside the boundary of Glacier Bay National Park.

T. 25 S., R. 56 E., unsurveyed,

Secs. 13 and 14 and secs. 21 thru 34;

Secs. 35, excepting U.S. Survey No. 13752;

Secs. 36.

T. 26 S., R. 56 E., unsurveyed,

Secs. 1 thru 4, secs. 9 thru 15, secs. 22 thru 27, and secs. 33 thru 36.

T. 27 S., R. 56 E., unsurveyed,

Secs. 1 thru 4, secs. 8 thru 30, and secs. 32 thru 36.

T. 28 S., R. 56 E., partly unsurveyed,

Secs. 1 thru 4, secs. 10 thru 14, and secs. 24 and 25;

Secs. 31, lots 1 and 10;

Secs. 35 and 36.

T. 30 S., R. 56 E., unsurveyed,

Lot 1, U.S. Survey No. 4850.

T. 31 S., R. 56 E., unsurveyed,

Secs. 1 thru 6;

Secs. 7, that portion lying outside the boundary of Glacier Bay National Park;

Secs. 8 thru 12;

Secs. 13 thru 18, those portions lying outside the boundary of Glacier Bay National Park.

T. 42 S., R. 56 E., unsurveyed,

U.S. Survey No. 2845.

Tps. 24 thru 27 S., R. 57 E., unsurveyed.

T. 31 S., R. 57 E., unsurveyed,

Secs. 1 thru 18;

Secs. 19, that portion lying outside the boundary of Glacier Bay National Park;

Secs. 20 thru 28;

Secs. 29 and 30 and secs. 32 thru 36, those portions lying outside the boundary of Glacier Bay National Park.

T. 32 S., R. 57 E., unsurveyed,

Secs. 1, 2, and 12, those portions lying outside the boundary of Glacier Bay National Park.

Tps. 24 and 25 S., R. 58 E., unsurveyed.

T. 26 S., R. 58 E., unsurveyed,

Secs. 1 thru 32;

Secs. 33 thru 36, excepting lot 8, U.S. Survey No. 5110.

T. 27 S., R. 58 E., unsurveyed,

Secs. 1 and 3, excepting lot 8, U.S. Survey No. 5110;

Secs. 4 thru 9;

Secs. 10, 11, 13, and 14, excepting lot 8, U.S. Survey No. 5110;

Secs. 15 thru 23;

Secs. 24 and 25, excepting lot 8, U.S. Survey No. 5110;

Secs. 26 thru 36.

T. 32 S., R. 58 E., unsurveyed,

Secs. 1 thru 6;

Secs. 7, that portion lying outside the boundary of Glacier Bay National Park;

Secs. 8 thru 17;

Secs. 18 and 19, those portions lying outside the boundary of Glacier Bay National Park;

Secs. 20 thru 29;

Secs. 30 and 31, those portions lying outside the boundary of Glacier Bay National Park;

Secs. 32 thru 36.

T. 33 S., R. 58 E., unsurveyed,

Secs. 1, 2, 11, 12, and 13, those portions lying outside the boundary of Glacier Bay National Park.

T. 25 S., R. 59 E., unsurveyed,

Secs. 2 thru 23;

Secs. 24, 25, and 26, excepting lot 8, U.S. Survey No. 5110;

Secs. 27 thru 33;

Secs. 34 and 35, excepting lot 8, U.S. Survey No. 5110.

T. 26 S., R. 59 E., unsurveyed,

Secs. 3, excepting lot 8, U.S. Survey No. 5110;

Secs. 4 thru 9;

Secs. 10, 15, and 16, excepting lot 8, U.S. Survey No. 5110;

Secs. 17 thru 20;

Secs. 21 and 28, excepting lot 8, U.S. Survey No. 5110;

Secs. 29, 30, and 31;

Secs. 32 and 33, excepting lot 8, U.S. Survey No. 5110.

T. 27 S., R. 59 E., unsurveyed,

Secs. 5, 6, 30, and 31, excepting lot 8, U.S. Survey No. 5110;

U.S. Survey No. 5106C;

Lot 3, U.S. Survey No. 5109.

T. 28 S., R. 59 E., unsurveyed,

Secs. 3, excepting U.S. Survey Nos. 3308, 3309, 3342, and lot 8, U.S. Survey No. 5110;

Secs. 4, 5, and 6, excepting lot 8, U.S. Survey No. 5110;

Secs. 7, 8, and 9;

Secs. 10, excepting lot 8, U.S. Survey No. 5110;

Secs. 15 and 16, excepting U.S Survey No. 1560;

Secs. 17 thru 20;

Secs. 21 and 22, excepting U.S. Survey No. 1560;

Secs. 28 thru 33;

Lots 42 and 43, tract E, U.S. Survey No. 3312.

T. 33 S., R. 59 E., unsurveyed,

Secs. 1, that portion lying outside the boundary of the Tongass National Forest;

Secs. 2 thru 9;

Secs. 10, 11, 12, 15, and 16, those portions lying outside the boundary of the Tongass National Forest;

Secs. 17;

Secs. 18, that portion lying outside the boundary of Glacier Bay National Park;

Secs. 19 and 20, those portions lying outside the boundaries of the Tongass National Forest and Glacier Bay National Park;

Secs. 21, that portion lying outside the boundary of the Tongass National Forest.

T. 25 S., R. 60 E., unsurveyed,

Secs. 7;

Secs. 18 and 19, those portions lying outside the boundary of the Klondike Gold Rush National Historical Park, excepting lot 8, U.S. Survey No. 5110;

Secs. 20, 21, 28, 33, and 34, those portions within Presidential Proclamation 810.

T. 26 S., R. 60 E., unsurveyed,

Secs. 3, 10, and 11, those portions within Presidential Proclamation 810.

T. 33 S., R. 60 E., unsurveyed,

Secs. 6, that portion lying outside the boundary of the Tongass National Forest.

T. 40 S., R. 65 E., partly unsurveyed,

Lot 2A, U.S. Survey No. 3811.

T. 52 S., R 68 E., partly unsurveyed,

Secs. 1, SE¼SW¼, S½SE¼, excepting U.S. Survey No. 2412 and U.S. Survey No. 2413, unsurveyed;

Secs. 12, NE¼, NE¼NW¼, excepting U.S. Survey No. 2412 and U.S. Survey No. 2413, unsurveyed;

Lots 19, 20, and 22, U.S. Survey No. 2412;

Lots 24, 26, and 27, U.S. Survey No. 2413.

T. 52 S., R. 69 E., unsurveyed,

Secs. 5, S½SW¼;

Secs. 6, S½SW¼ and S½SE¼;

Secs. 7, N½, excepting U.S. Survey Nos. 1480, 2413, and 10438;

Lots 26, 27, 29, and 38, U.S. Survey No. 2413.

T. 68 S., R. 75 E., partly unsurveyed,

Lot 2, U.S. Survey No. 2615;

Lots 12 and 14, U.S. Survey No. 2616.

T. 68 S., R. 79 E., partly unsurveyed,

Lot 3, U.S. Survey No. 3813.

T. 74 S., R. 81 E.,

Lots 1 and 2, U.S. Survey No. 2327A;

U.S. Survey No. 2611A;

Craig Truck Trail, U.S. Survey No. 2611.

T. 62 S., R. 83 E., unsurveyed,

Lot 4, tract B, U.S. Survey No. 3402.

T. 69 S., R. 89 E., partly unsurveyed,

Lot 1, U.S. Survey No. 12974.

T. 75 S., R. 90 E., partly unsurveyed,

Lots 13 and 16B, U.S. Survey No. 2990.

T. 75 S., R. 91 E., partly unsurveyed,

U.S. Survey No. 1698.

T. 76 S., R. 91 E.,

U.S. Survey 1698;

Lots 1 and 2, U.S. Survey 3829.

T. 68 S., R. 99 E., partly unsurveyed,

Secs. 23, that portion excluded from the Tongass National Forest by Executive Order 5947.

The areas described aggregate approximately 944,192 acres.

Bay RMP

Seward Meridian, Alaska

T. 10 N., R. 20 W., unsurveyed,

Secs. 3 thru 11, secs. 14 thru 23, and secs. 25 thru 36.

T. 11 N., R. 20 W., unsurveyed,

Secs. 20, 21, and 22, and secs. 26 thru 35.

T. 1 N., R. 32 W.,

Secs. 21, 22, 23, 28, 31, and 32.

T. 1 N., R. 35 W.

T. 2 N., R. 39 W., unsurveyed,

Secs. 10, that portion formerly within Native Allotment application A-053908 Parcel B excluded from the Tentative Approval for AA-6856 dated June 12, 1975.

T. 3 S., R. 24 W., unsurveyed,

Secs. 7, 9, 16, 17, and 18, those portions lying outside the boundary of the Lake Clark National Park;

Secs. 19 and 20;

Secs. 21, 22, and 28, those portions lying outside the boundary of the Lake Clark National Park;

Secs. 29, 30, and 31.

T. 2 S., R. 25 W., unsurveyed,

Secs. 35, that portion lying outside the boundary of the Lake Clark National Park.

T. 3 S., R. 25 W., unsurveyed,

Secs. 2 thru 9, those portions lying outside the boundary of the Lake Clark National Park;

Secs. 10 and 11;

Secs. 12, that portion lying outside the boundary of the Lake Clark National Park;

Secs. 13 thru 36.

T. 4 S., R. 26 W.,

Secs. 8, 9, and 24.

T. 2 S., R. 30 W.,

Secs. 25, 35, and 36, those portions lying outside the boundary of the Lake Clark National Park.

T. 3 S., R. 30 W., unsurveyed,

Secs. 1;

Secs. 2, 3, 10, and 11, those portions lying outside the boundary of the Lake Clark National Park;

Secs. 12, 13, and 14;

Secs. 15, 20, 21, and 22, those portions lying outside the boundary of the Lake Clark National Park;

Secs. 23 thru 36.

T. 3 S., R. 31 W.,

Secs. 25 and 27;

Secs. 28, NE¼ and S½;

Secs. 29, SE¼;

Secs. 32, E½;

Secs. 33 and 34.

T. 4 S., R. 31 W.,

Secs. 3 and 4;

Secs. 5, 6, and 7, those portions lying outside the boundary of the Lake Clark National Park;

Secs. 8, 9, 10, 17, and 18.

T. 5 S., R. 31 W.,

Secs. 12 and 34.

T. 6 S., R. 31 W.,

Secs. 4, 16, 21, 22, 27, and 34.

T. 9 S., R. 31 W.,

Lot 1, U.S. Survey No. 7128;

Lot 4, U.S. Survey No. 8501;

Lots 1 and 2, U.S. Survey No. 12089.

T. 2 S., R. 32 W.,

Lot 2, U.S. Survey No. 3863.

T. 3 S., R. 32 W.,

Secs. 35 and 36, those portions lying outside the boundary of the Lake Clark National Park.

T. 4 S., R. 32 W.,

Secs. 1, that portion lying outside the boundary of the Lake Clark National Park;

Secs. 2 and 12.

T. 5 S., R. 32 W.,

Secs. 15, 23, and 32.

T. 7 S., R. 32 W.,

Secs. 11 and 33.

T. 9 S., R. 32 W.,

Secs. 20 and 21.

T. 10 S., R. 32 W.,

Secs. 14.

T. 3 S., R. 33 W.,

Secs. 23.

T. 9 S., R. 33 W.,

Secs. 16 thru 21, and secs. 28, 29, 30, and 36.

T. 1 S., R. 34 W.,

Secs. 17 and 18.

T. 4 S., R. 34 W.,

Secs. 20, 21, and 22, and secs. 27 thru 30.

T. 9 S., R. 34 W.,

Secs. 3, 13, 14, and 15, and secs. 22 thru 27.

T. 11 S., R. 37 W.,

Secs. 2, 3, 4, 9, and 10;

Secs. 16 and 21, those portions lying outside the boundary of the Katmai National Preserve.

T. 10 S., R. 38 W.,

Secs. 31 thru 36.

T. 11 S., R. 38 W.,

Secs. 1 thru 30;

Secs. 31 and 32, excepting U.S. Survey No. 13929;

Secs. 33, 34, and 35;

Secs. 36, that portion lying outside the boundary of the Katmai National Preserve.

T. 12 S., R. 38 W.,

Secs. 2, 3, and 4;

Secs. 5 and 6, excepting U.S. Survey No. 13929;

Secs. 7 thru 10, secs. 16 thru 21, and secs. 28, 29, and 30;

Secs. 31, lot 1.

Tps. 11 and 12 S., R. 39 W.

T. 13 S., R. 39 W., unsurveyed,

Secs. 4, N½, SW¼, NE¼SE¼, and W½SE¼;

Secs. 5 and 6;

Secs. 7, N½, SW¼, NE¼SE¼, and W½SE¼;

Secs. 8, N½ and NW¼SW¼;

Secs. 9, W½NE¼ and NW¼.

T. 8 S., R. 40 W., unsurveyed,

Secs. 1, excepting U.S. Survey No. 12197;

Secs. 2 thru 36.

T. 9 S., R. 40 W.,

Secs. 4 thru 9, secs. 16 thru 21, and secs. 28 thru 33.

Tps. 11 and 12 S., R. 40 W.

T. 13 S., R. 40 W., unsurveyed,

Secs. 1 thru 12;

Secs. 13, NW¼NE¼ and W½;

Secs. 14 thru 22;

Secs. 23, N½ and NW¼SW¼;

Secs. 24, W½NW¼;

Secs. 27, N½ and N½SW¼;

Secs. 28, N½, N½SW¼, and SE¼;

Secs. 29, N½, N½SW¼, SE¼SW¼, and N½SE¼;

Secs. 30, N½, N½SW¼, SW¼SW¼, and N½SE¼.

T. 14 S., R. 40 W., unsurveyed,

Secs. 7, 8, 17, 18, 19, and 30, those portions lying outside the boundary of the Katmai National Preserve and Wilderness.

T. 7 S., R. 41 W., unsurveyed,

Secs. 1 thru 12, secs. 14 thru 18, and sec. 36.

T. 8 S., R. 41 W., unsurveyed,

Secs. 1, secs. 11 thru 14, secs. 22 thru 27, and secs. 34, 35, and 36.

T. 9 S., R. 41 W., unsurveyed.

T. 10 S., R. 41 W.,

Secs. 14, unsurveyed.

T. 13 S., R. 41 W., unsurveyed,

Secs. 1 thru 18;

Secs. 19, N½, N½SW¼, SW¼SW¼, and N½SE¼;

Secs. 20, N½, N½SW¼, and N½SE¼;

Secs. 21, N½, N½SW¼, N½SE¼, and SE¼SE¼;

Secs. 22, 23, and 24;

Secs. 25, N½, N½SW¼, and SE¼;

Secs. 26, N½, N½SW¼, and N½SE¼;

Secs. 27, E½NE¼ and NE¼SE¼;

Secs. 28, SW¼SW¼;

Secs. 29, S½SE¼;

Secs. 32;

Secs. 33, NW¼NW¼ and W½SW¼.

T. 14 S., R. 41 W., unsurveyed,

Secs. 2, SW¼SW¼;

Secs. 3, S½NE¼, SW¼NW¼, and S½;

Secs. 4;

Secs. 5, excepting U.S. Survey No. 7764;

Secs. 7 thru 10;

Secs. 11, NE¼NE¼, S½NE¼, W½NW¼, SE¼NW¼, and S½;

Secs. 12, NE¼NE¼, S½NE¼, W½NW¼, SE¼NW¼, and S½;

Secs. 13 thru 24;

Secs. 25, that portion lying outside the boundary of the Katmai National Preserve and Wilderness;

Secs. 26 thru 35;

Secs. 36, that portion lying outside the boundary of the Katmai National Preserve and Wilderness.

T. 7 S., R. 42 W.,

Tract C.

T. 9 S., R. 42 W., unsurveyed,

Secs. 3 thru 10, secs. 15 thru 22, and secs. 27 thru 34.

T. 10 S., R. 42 W., unsurveyed,

Secs. 3 thru 10 and secs. 15 thru 18.

T. 13 S., R. 42 W., unsurveyed,

Secs. 1, secs. 5 thru 8, and sec. 12;

Secs. 16, SW¼SW¼;

Secs. 17 thru 20;

Secs. 21, W½NW¼, SE¼NW¼, SW¼, W½SE¼, and SE¼SE¼, excepting U.S. Survey No. 12126;

Secs. 22, SW¼SW¼;

Secs. 27, SW¼NE¼, W½, W½SE¼, and SE¼SE¼;

Secs. 28 thru 34;

Secs. 35, S½NE¼, W½NW¼, SE¼NW¼, and S½.

T. 14 S., R. 42 W., unsurveyed,

Secs. 3 thru 9, secs. 13 and 18, secs. 23 thru 28, and secs. 31 thru 36.

T. 4 S., R. 43 W.,

Tracts A and B, those lands formerly within Native Allotment applications AA-6378 Parcel C, AA-6380 Parcel A, AA-6401, and AA-6402 excluded from the Tentative Approval for AA-6849 dated June 13, 1975.

T. 5 S., R. 43 W.,

Tracts A and B, those lands formerly within Native Allotment applications AA-6399 Parcel B and AA-6409 Parcel B excluded from the Tentative Approval for AA-21661 dated November 2, 1984.

T. 7 S., R. 43 W.,

Secs. 19 thru 36, unsurveyed.

T. 8 S., R. 43 W., unsurveyed.

T. 10 S., R. 43 W.,

Secs. 1 thru 21 and secs. 28 thru 33.

T. 11 S., R. 43 W.,

Secs. 4, 5, and 6.

T. 12 S., R. 43 W.,

Secs. 1 thru 22;

Secs. 23, N½, SW¼, N½SE¼, and SW¼SE¼;

Secs. 24, N½, N½SW¼, and NW¼SE¼;

Secs. 26, W½NE¼, NW¼, and N½SW¼;

Secs. 27 thru 32.

T. 13 S., R. 43 W., unsurveyed,

Secs. 1, 2, and 3;

Secs. 4, E½ and E½SW¼;

Secs. 5, W½SW¼, excepting U.S. Survey No. 12198;

Secs. 6;

Secs. 9, E½, E½NW¼, and E½SW¼;

Secs. 10 thru 16;

Secs. 17, S½NE¼, W½NW¼, SE¼NW¼, and S½;

Secs. 18 thru 36.

T. 14 S., R. 43 W., unsurveyed,

Secs. 1 thru 23 and secs. 27 thru 33.

T. 5 S., R. 44 W.,

Tracts H, J, and K, those lands within regional selection application AA-10665 previously excluded from the Tentative Approval for AA-21662 dated November 2, 1984.

T. 8 S., R. 44 W., unsurveyed.

T. 9 S., R. 44 W., unsurveyed,

Secs. 4 thru 9, secs. 16 thru 21, and secs. 28 thru 33.

T. 11 S., R. 44 W.,

Secs. 1, secs. 5 thru 8, and secs. 17, 18, and 19.

T. 14 S., R. 44 W.

T. 15 S., R. 44 W.,

Secs. 1 thru 21 and secs. 28 thru 33.

T. 19 S., R. 44 W.,

Secs. 10, NW¼;

Secs. 17, NW¼;

Secs. 18, N½ and SW¼.

T. 5 S., R. 45 W.,

Secs. 20;

Secs. 31, lot 5, those lands formerly within Native Allotment Application AA-6387 Parcel A excluded from Interim Conveyance Nos. 228 and 229.

T. 7 S., R. 45 W.,

Secs. 1 thru 4 and secs. 7 thru 36.

Tps. 8 and 9 S., R. 45 W., unsurveyed.

T. 10 S., R. 45 W., unsurveyed,

Secs. 1 thru 21 and secs. 28 thru 33.

T. 14 S., R. 45 W.,

Secs. 1 thru 5 and secs. 7 thru 36.

T. 17 S., R. 45 W.,

Secs. 10, N½SE¼NE¼, SE¼SE¼NE¼, N½NE¼SE¼SW¼, N½NW¼SE¼SW¼, E½NE¼SE¼, N½NW¼SW¼SE¼, NE¼SE¼SW¼SE¼, and S½SE¼SW¼SE¼;

Secs. 11, S½NW¼;

Secs. 21, lots 2, 9, and 10;

Secs. 22, lots 9 and 10;

Secs. 24, S½SE¼SW¼;

Secs. 25, NE¼NW¼SW¼NE¼;

Lot 5, U.S. Survey No. 4688;

Lot 2, U.S. Survey No. 8517.

T. 6 S., R. 46 W.,

Secs. 30, 31, and 32.

T. 7 S., R. 46 W.,

Secs. 30.

Tps. 9 and 10 S., R. 46 W., unsurveyed.

T. 11 S., R. 46 W.

T. 14 S., R. 46 W.,

Secs. 24, 25, and 36.

T. 15 S., R. 46 W.,

Secs. 1, 7, 12, 13, 24, 25, and 36.

T. 6 S., R. 47 W.,

Secs. 2, 3, and 4, secs. 9 thru 16, sec. 19, and secs. 22 thru 36.

T. 7 S., R. 47 W.,

Secs. 1 thru 25 and secs. 28 thru 33.

T. 9 S., R. 47 W.,

Secs. 1 thru 4;

Secs. 7, lot 1;

Secs. 8 thru 36;

Lot 4, U.S. Survey No. 7724.

T. 10 S., R. 47 W.,

Secs. 1, 2, and 3, secs. 10 thru 15, secs. 17 and 18, secs. 22 thru 27, and secs. 34, 35, and 36.

T. 11 S., R. 47 W.,

Secs. 1, 2, and 3, secs. 10 thru 15, secs. 22 thru 27, and secs. 34, 35, and 36.

T. 14 S., R. 47 W.,

Secs. 4, 5, 8, 9, 16, 17, 20, 21, 28, 29, 32, and 33.

T. 15 S., R. 47 W.,

Secs. 4 thru 7.

T. 17 S., R. 47 W.,

Secs. 2, NE¼NW¼NW¼;

Lot 23, U.S. Survey No. 3539.

T. 5 S., R. 48 W.,

Secs. 15 and 16;

Secs. 17, lot 2;

Secs. 18.

T. 6 S., R. 48 W.,

Secs. 1 thru 7;

Secs. 8 and 9, excepting U.S. Survey No. 8147;

Secs. 10 thru 36.

T. 7 S., R. 48 W.,

Secs. 1 thru 28, sec. 31, and secs. 33 thru 36.

T. 8 S., R. 48 W.,

Secs. 1 thru 4 and sec. 6.

T. 10 S., R. 48 W.,

Secs. 13 and 24.

T. 11 S., R. 48 W.,

Secs. 19 thru 36.

Tps. 12, 13, and 14 S., R. 48 W., unsurveyed.

T. 15 S., R. 48 W.,

Secs. 1 thru 12 and secs. 14 thru 18.

T. 5 S., R. 49 W.,

Secs. 13.

T. 6 S., R. 49 W.,

Secs. 25;

Secs. 26, excepting U.S. Survey No. 14057;

Secs. 27 thru 34;

Secs. 35, excepting U.S. Survey No. 14057;

Secs. 36;

U.S. Survey No. 14057.

T. 7 S., R. 49 W.

T. 8 S., R. 49 W.,

Secs. 1 thru 12, secs. 14 thru 23, and secs. 27 thru 34.

T. 10 S., R. 49 W.,

Secs. 26.

Tps. 13, 14, and 15 S., R. 49 W.

T. 16 S., R. 49 W.,

Secs. 4, 5, and 6.

T. 9 S., R. 50 W.,

Secs. 1 thru 6, secs. 8 thru 11, and secs. 15, 16, 17, and 20.

T. 10 S., R. 50 W.,

Secs. 29, lot 6.

T. 15 S., R. 50 W.,

Secs. 1, 2, 3, and 8, secs. 10 thru 15, secs. 17 thru 20, secs. 22 thru 27, and secs. 30, 34, 35, and 36.

T. 16 S., R. 50 W.,

Secs. 1 thru 12 and secs. 14 thru 23.

T. 13 S., R. 51 W.,

Secs. 34.

T. 15 S., R. 52 W.,

Secs. 23, 24, and 25.

T. 8 S., R. 53 W.,

Secs. 36.

T. 10 S., R. 53 W., unsurveyed,

Secs. 7, 18, and 19.

T. 12 S., R. 53 W.,

Secs. 22 and 23, unsurveyed;

Secs. 24, 25 and 36.

T. 13 S., R. 53 W.,

Secs. 31 and 32.

T. 10 S., R. 54 W.,

Secs. 9 thru 16 and secs. 22, 23, and 24.

T. 11 S., R. 54 W.,

Secs. 11, 12, 13, 18, 19, 24, 25, 29, and 32.

T. 12 S., R. 54 W.,

Secs. 14 and 17.

T. 13 S., R. 54 W.,

Secs. 34, 35, and 36.

T. 9 S., R. 55 W.,

Tract C, that portion within sec. 3.

T. 10 S., R. 55 W.,

Secs. 31, those lands formerly within Native Allotment Application AA-7238 excluded from Interim Conveyance Nos. 286 and 287;

Tract 37;

Lots 1 and 2, U.S. Survey No. 12403.

T. 11 S., R. 55 W.,

Secs. 3;

Secs. 15, lots 2 and 5, and SE¼.

T. 12 S., R. 55 W.,

Secs. 16, lots 2 thru 5, E½SW¼NE¼, and E½NW¼SE¼;

Secs. 17 and 21.

T. 15 S., R. 55 W.,

Secs. 6, 7, and 18, those portions lying outside the boundary of the Alaska Maritime National Wildlife Refuge.

T. 10 S., R. 56 W.,

Tracts R and S;

Lots 13 and 14, U.S. Survey No. 4927.

T. 11 S., R. 56 W.,

Secs. 15;

Secs. 35, those lands formerly within Native Allotment Application AA-7758 excluded from Interim Conveyance Nos. 335 and 336.

The areas described aggregate approximately 1,244,730 acres.

Bering Sea—Western Interior RMP

Fairbanks Meridian, Alaska

T. 11 S., R. 23 W.,

Secs. 19, 20, 21, 28, 29, and 30, unsurveyed.

T. 12 S., R. 24 W.,

U.S. Survey No. 2655, excepting that land conveyed to the Iditarod Area School District by Quit Claim Deed on April 2, 1996, recorded in the Fairbanks Recording District, document No. 1997-0712 and that portion within Air Navigation Site No. 190.

T. 22 S., R. 27 W., unsurveyed,

Secs. 1 thru 5;

Secs. 6, excepting lot 1, U.S. Survey No. 5934;

Secs. 7, excepting lots 1 and 2, U.S. Survey No. 5934;

Secs. 8 thru 21 and secs. 28 thru 33.

T. 12 S., R. 28 W., unsurveyed.

T. 17 S., R. 28 W.,

Secs. 1 thru 12 and secs. 32 thru 36.

Kateel River Meridian, Alaska

Tps. 1 thru 6 N., R. 1 E., unsurveyed.

T. 7 N., R. 1 E., unsurveyed,

Secs. 1 thru 5;

Secs. 6 and 7, those portions outside the boundary of the Selawik National Wildlife Refuge;

Secs. 8 thru 36.

T. 8 N., R. 1 E., unsurveyed,

Secs. 24 thru 28, those portions outside the boundary of the Koyukuk National Wildlife Refuge;

Secs. 31, that portion outside the boundary of the Koyukuk and Selawik National Wildlife Refuges;

Secs. 32, 33, and 34, those portions outside the boundary of the Koyukuk National Wildlife Refuge;

Secs. 35 and 36.

Tps. 1, 2, and 3 N., R. 2 E., unsurveyed.

T. 4 N., R. 2 E., unsurveyed,

Secs. 1, that portion outside the boundary of the Koyukuk National Wildlife Refuge;

Secs. 2 thru 11;

Secs. 12 and 13, those portions outside the boundary of the Koyukuk National Wildlife Refuge;

Secs. 14 thru 23;

Secs. 24 and 25, those portions outside the boundary of the Koyukuk National Wildlife Refuge;

Secs. 26 thru 36.

T. 5 N., R. 2 E., unsurveyed,

Secs. 2, that portion outside the boundary of the Koyukuk National Wildlife Refuge;

Secs. 3 thru 10;

Secs. 11, 12, and 13, those portions outside the boundary of the Koyukuk National Wildlife Refuge;

Secs. 14 thru 23;

Secs. 24 and 25, those portions outside the boundary of the Koyukuk National Wildlife Refuge;

Secs. 26 thru 34;

Secs. 35 and 36, those portions outside the boundary of the Koyukuk National Wildlife Refuge.

T. 6 N., R. 2 E., unsurveyed,

Secs. 1 thru 12;

Secs. 13, that portion outside the boundary of the Koyukuk National Wildlife Refuge;

Secs. 14 thru 21;

Secs. 22, 23, 24, and 27, those portions outside the boundary of the Koyukuk National Wildlife Refuge;

Secs. 28 thru 33;

Secs. 34 and 35, those portions outside the boundary of the Koyukuk National Wildlife Refuge.

T. 7 N., R. 2 E., unsurveyed,

Secs. 1, that portion outside the boundary of the Koyukuk National Wildlife Refuge;

Secs. 2 thru 36.

T. 8 N., R. 2 E., unsurveyed,

Secs. 19 thru 25, those portions outside the boundary of the Koyukuk National Wildlife Refuge;

Secs. 26 thru 29;

Secs. 30, that portion outside the boundary of the Koyukuk National Wildlife Refuge;

Secs. 31 thru 34;

Secs. 35 and 36, those portions outside the boundary of the Koyukuk National Wildlife Refuge.

Tps. 1, 2, and 3 N., R. 3 E., unsurveyed.

T. 4 N., R. 3 E., unsurveyed,

Secs. 13, 14, 22, and 23, those portions outside the boundary of the Koyukuk National Wildlife Refuge;

Secs. 24, 25, and 26;

Secs. 27 thru 30, those portions outside the boundary of the Koyukuk National Wildlife Refuge;

Secs. 31 thru 36.

T. 5 N., R. 3 E., unsurveyed,

Secs. 19 and 30, those portions outside the boundary of the Koyukuk National Wildlife Refuge.

T. 6 N., R. 3 E., unsurveyed,

Secs. 5, that portion outside the boundary of the Koyukuk National Wildlife Refuge;

Secs. 6 and 7;

Secs. 8, 17, and 18, those portions outside the boundary of the Koyukuk National Wildlife Refuge.

T. 7 N., R. 3 E., unsurveyed,

Secs. 6, 7, 18, 19, 20, 29, and 30, those portions outside the boundary of the Koyukuk National Wildlife Refuge;

Secs. 31;

Secs. 32, that portion outside the boundary of the Koyukuk National Wildlife Refuge.

T. 1 N., R. 4 E., unsurveyed,

Secs. 1 thru 24 and secs. 26 thru 34.

Tps. 2 and 3 N., R. 4 E., unsurveyed.

T. 4 N., R. 4 E., unsurveyed,

Secs. 1 thru 4;

Secs. 5, 7, and 8, those portions outside the boundary of the Koyukuk National Wildlife Refuge;

Secs. 9 thru 17;

Secs. 18, that portion outside the boundary of the Koyukuk National Wildlife Refuge;

Secs. 19 thru 36.

Tps. 3 and 4 N., R. 5 E., unsurveyed.

T. 1 N., R. 1 W., unsurveyed.

T. 2 N., R. 1 W., unsurveyed,

Secs. 1 thru 5;

Secs. 6, excepting U.S. Survey No. 9229;

Secs. 7 thru 36.

Tps. 3 thru 6 N., R. 1 W., unsurveyed.

T. 7 N., R. 1 W., unsurveyed,

Secs. 25 thru 36.

T. 1 N., R. 2 W., unsurveyed.

T. 2 N., R. 2 W., unsurveyed,

Secs. 1, excepting U.S. Survey No. 9229;

Secs. 2 thru 36.

Tps. 3 and 4 N., R. 2 W., unsurveyed.

T. 5 N., R. 2 W., unsurveyed,

Secs. 1 thru 23;

Secs. 24, excepting U.S. survey No. 12985;

Secs. 25 thru 36.

T. 6 N., R. 2 W., unsurveyed,

Secs. 1;

Secs. 2, excepting lot 2, U.S. Survey No. 12998;

Secs. 3, excepting U.S. Survey No. 12998;

Secs. 4 thru 36.

Tps. 1 thru 6 N., R. 3 W., unsurveyed.

Tps. 2 thru 6 N., R. 4 W., unsurveyed.

Tps. 1 thru 10 S., R. 1 W., unsurveyed.

T. 18 S., R. 1 W., unsurveyed,

Secs. 6, that portion outside the boundary of the Innoko National Wildlife Refuge, excepting U.S. Survey No. 7742.

Tps. 1 thru 11 S., R. 2 W., unsurveyed.

T. 13 S., R. 2 W.

Tps. 20 and 21 S., R. 2 W.

Tps. 1 thru 12 S., R. 3 W., unsurveyed.

T. 13 S., R. 3 W., unsurveyed,

Secs. 1 thru 25;

Secs. 27, N½ and SW¼;

Secs. 28 thru 32;

Secs. 33, NW¼;

Secs. 35, S½;

Secs. 36.

T. 14 S., R. 3 W., unsurveyed,

Secs. 1 and 2;

Secs. 3, E½ and SW¼;

Secs. 5, NW¼;

Secs. 6;

Secs. 7, NW¼;

Secs. 9, E½;

Secs. 10 thru 16;

Secs. 17, E½;

Secs. 20 thru 29;

Secs. 30, E½;

Secs. 31, E½;

Secs. 32, 33, and 34.

T. 15 S., R. 3 W., unsurveyed,

Secs. 4 and 5;

Secs. 6, E½ and SW¼;

Secs. 7.

T. 18 S., R. 3 W.,

Secs. 1, 2, and 3, and secs. 10 thru 15.

Tps. 3 thru 13 S., R. 4 W., unsurveyed.

T. 14 S., R. 4 W., unsurveyed,

Secs. 1 thru 12;

Secs. 13, N½ and SW¼;

Secs. 14 thru 23;

Secs. 24, W½;

Secs. 26 thru 35.

T. 15 S., R. 4 W., unsurveyed,

Secs. 2, NW¼;

Secs. 3 thru 10;

Secs. 12, E½;

Secs. 15, N½ and SW¼;

Secs. 16 thru 21;

Secs. 28, N½ and SW¼;

Secs. 29 thru 32;

Secs. 33, NW¼;

Secs. 35 and 36.

T. 16 S., R. 4 W., unsurveyed,

Secs. 1 and 2;

Secs. 5, NW¼;

Secs. 6;

Secs. 7, NW¼;

Secs. 9, SE¼;

Secs. 10 thru 16;

Secs. 17, SE¼;

Secs. 19, E½ and SW¼;

Secs. 20 thru 36.

Tps. 17, 18, and 19 S., R. 4 W, partly unsurveyed.

Tps. 7 thru 15 S., R. 5 W., unsurveyed.

T. 16 S., R. 5 W., unsurveyed,

Secs. 1 thru 12;

Secs. 15, N½;

Secs. 16, N½;

Secs. 17, N½ and SW¼;

Secs. 18;

Secs. 19, N½ and SW¼;

Secs. 23, SE¼;

Secs. 24, S½;

Secs. 25, 26, and 27;

Secs. 28, E½ and SW¼;

Secs. 30, NW¼;

Secs. 32, SE¼;

Secs. 33 thru 36.

T. 17 S., R. 5 W., unsurveyed,

Secs. 1 thru 5;

Secs. 6, NE¼ and S½;

Secs. 7 thru 36.

Tps. 18 thru 21 S., R. 5 W., partly unsurveyed.

T. 22 S., R. 5 W.,

Secs. 1 thru 22 and secs. 27 thru 34.

T. 23 S., R. 5 W.,

Secs. 3 thru 10 and secs. 13 thru 36.

T. 24 S., R. 5 W.,

Secs. 1 thru 12, secs. 16 thru 21, and secs. 28 thru 33.

Tps. 9 thru 15 S., R. 6 W., unsurveyed.

T. 16 S., R. 6 W., unsurveyed,

Secs. 1 thru 24;

Secs. 25, N½ and SW¼;

Secs. 26 thru 34;

Secs. 35, N½ and SW¼.

T. 17 S., R. 6 W., unsurveyed,

Secs. 1, SE¼;

Secs. 3, N½;

Secs. 4 thru 7;

Secs. 8, NW¼;

Secs. 11, SE¼;

Secs. 12, 13, and 14;

Secs. 15, excepting U.S. Survey No. 11771;

Secs. 16, SE¼;

Secs. 18, NW¼;

Secs. 20, SE¼;

Secs. 21 thru 29;

Secs. 31, E½ and SW¼;

Secs. 32 thru 36;

U.S. Survey No. 11771.

Tps. 18 thru 24 S., R. 6 W., unsurveyed.

T. 25 S., R. 6 W.,

Secs. 1, 2 and 3, secs. 10 thru 15, secs. 22 thru 27, and secs. 34, 35, and 36.

T. 26 S., R. 6 W.,

Secs. 3, 10, 15, 22, 27, and 34.

T. 27 S., R. 6 W.,

Secs. 3, 10, 15, 20, 29, and 32.

Tps. 12 thru 16 S., R. 7 W., unsurveyed.

T. 17 S., R. 7 W., unsurveyed,

Secs. 1 thru 23;

Secs. 24, NW¼;

Secs. 27 thru 32;

Secs. 33, NW¼;

Secs. 36, SE¼.

T. 18 S., R. 7 W., unsurveyed,

Secs. 1;

Secs. 2, S½;

Secs. 5, N½ and SW¼, excepting lot 1, U.S. Survey No. 14101;

Secs. 6, excepting lot 1, U.S. Survey No. 5454;

Secs. 10, E½ and SW¼;

Secs. 11 thru 16;

Secs. 17, excepting lot 1, U.S. Survey No. 14118;

Secs. 19, E½ and SW¼;

Secs. 20 thru 36.

Tps. 19 thru 27 S., R. 7 W., partly unsurveyed.

T. 29 S., R. 7 W.,

Secs. 2, lot 4.

T. 14 S., R. 8 W., unsurveyed,

Secs. 1 thru 17;

Secs. 18, excepting U.S. Survey No. 13566;

Secs. 19 thru 36.

Tps. 15, 16, and 17 S., R. 8 W., unsurveyed.

T. 18 S., R. 8 W., unsurveyed,

Secs. 1, excepting lot 1, U.S. Survey No. 5454;

Secs. 2 thru 6;

Secs. 7, excepting lots 1 and 5, U.S. Survey No. 5344;

Secs. 8, excepting lots 5, 7, 8, 10, 11, and 12, U.S. Survey No. 5344;

Secs. 9, excepting lots 7 and 9, U.S. Survey No. 5344, and lot 2, U.S. Survey No. 5369;

Secs. 10, excepting U.S. Survey No. 5369;

Secs. 11;

Secs. 12, N½ and SW¼, excepting lot 1, U.S. Survey No. 5454 and lot 1, U.S. Survey No. 9698;

Secs. 19, S½, excepting lot 3, U.S. Survey No. 5451;

Secs. 20, 21, and 22;

Secs. 23, S½;

Secs. 24, S½;

Secs. 25 thru 29;

Secs. 30, excepting lots 2 and 3, U.S. Survey No. 5451;

Secs. 31 thru 36;

Lot 12, U.S. Survey No. 5344.

T. 19 S., R. 8 W., unsurveyed,

Secs. 1 thru 30;

Secs. 31, excepting U.S. Survey No. 11768;

Secs. 32 thru 36.

T. 20 S., R. 8 W., unsurveyed,

Secs. 1 thru 5;

Secs. 6, excepting U.S. Survey No. 11768;

Secs. 7 thru 36.

Tps. 21 and 22 S., R. 8 W., unsurveyed.

T. 23 S., R. 8 W., unsurveyed,

Secs. 1 thru 28;

Secs. 29 and 30, excepting U.S. Survey No. 13638;

Secs. 31 thru 36.

Tps. 24 thru 29 S., R. 8 W., partly unsurveyed.

T. 15 S., R. 9 W., unsurveyed.

T. 16 S., R. 9 W., partly unsurveyed,

Secs. 1 thru 12, secs. 14 thru 21, secs. 29 thru 32, and sec. 36.

T. 17 S., R. 9 W.,

Secs. 1, 2, and 6, secs. 11 thru 15, secs. 21 thru 29, and secs. 32, 33, and 34.

T. 18 S., R. 9 W.,

Secs. 5.

T. 19 S., R. 9 W.,

Secs. 21 thru 36.

Tps. 20 thru 28 S., R. 9 W., unsurveyed.

T. 16 S., R. 10 W., partly unsurveyed,

Secs. 1 thru 5 and secs. 8 thru 36.

T. 17 S., R. 10 W.,

Secs. 1 thru 12, secs. 14 thru 23, and secs. 27 thru 34, unsurveyed.

T. 19 S., R. 10 W.,

Secs. 25 and 36.

T. 20 S., R. 10 W.,

Secs. 1, 12, and 13, secs. 23 thru 26, and secs. 31, 32, 35, and 36.

T. 21 S., R. 10 W.,

Secs. 1, 2, 3, 6, and 7, secs. 10 thru 15, and secs. 18 thru 36, unsurveyed.

Tps. 22 thru 29 S., R. 10 W., unsurveyed.

T. 16 S., R. 11 W.,

Secs. 2, 3, 4, 9, 10, 16, 25, 34, 35, and 36.

T. 17 S., R. 11 W.,

Secs. 1 thru 4, secs. 9 thru 16, secs. 22 thru 26, and secs. 35 and 36, unsurveyed.

T. 21 S., R. 11 W.,

Secs. 1, secs. 11 thru 14, secs. 22 thru 27, and secs. 33 thru 36.

Tps. 22 thru 29 S., R. 11 W., unsurveyed.

T. 22 S., R. 12 W., unsurveyed,

Secs. 1 and 2, secs. 9 thru 16, secs. 21 thru 29, and secs. 31 thru 36.

Tps. 23 thru 29 S., R. 12 W., unsurveyed.

T. 23 S., R. 13 W., unsurveyed,

Secs. 12 and 13 and secs. 21 thru 36.

T. 24 S., R. 13 W., unsurveyed,

Secs. 1 thru 30;

Secs. 31 and 32, excepting U.S. Survey No. 14458;

Secs. 33 thru 36;

U.S. Survey No. 14458.

T. 25 S., R. 13 W., unsurveyed,

Secs. 1, 2, and 3;

Secs. 4, excepting U.S. Survey No. 12505 and U.S. Survey No. 14458;

Secs. 5 and 6, excepting U.S. Survey No. 14458;

Secs. 7, 8, and 9;

Secs. 10, excepting U.S. Survey No. 14458;

Secs. 11 thru 14;

Secs. 15, excepting U.S. Survey No. 14458;

Secs. 16, 17, and 18;

Secs. 19, excepting U.S. Survey No. 12504;

Secs. 20 and 21;

Secs. 22 and 23, excepting U.S. Survey No. 14458;

Secs. 24;

Secs. 25 and 26, excepting U.S. Survey No. 14458;

Secs. 27 thru 35;

Secs. 36, excepting U.S. Survey No. 14458;

U.S. Survey No. 14458.

T. 26 S., R. 13 W., unsurveyed,

Secs. 1 and 2, excepting U.S. Survey No. 14458;

Secs. 3 thru 11;

Secs. 12, excepting U.S. Survey No. 14458;

Secs. 13 thru 36;

U.S. Survey No. 14458.

T. 27 S., R. 13 W., unsurveyed.

T. 28 S., R. 13 W., unsurveyed,

Secs. 1 thru 18;

Secs. 20, E½;

Secs. 21 thru 28;

Secs. 29, E½;

Secs. 32, E½;

Secs. 33 thru 36.

T. 29 S., R. 13 W., unsurveyed,

Secs. 1 thru 4;

Secs. 5, E½.

T. 23 S., R. 14 W., unsurveyed,

Secs. 33 thru 36.

T. 24 S., R. 14 W., unsurveyed,

Secs. 1, 2, and 3;

Secs. 4, excepting U.S. Survey No. 14458;

Secs. 5, excepting lot 1, U.S. Survey No. 13563 and U.S. Survey No. 14458;

Secs. 6, excepting lot 1, U.S. Survey No. 13563;

Secs. 7 and 8;

Secs. 9 and 10, excepting U.S. Survey No. 14458;

Secs. 11 and 12;

Secs. 13, 14, and 15, excepting U.S. Survey No. 14458;

Secs. 16 thru 23;

Secs. 24 and 25, excepting U.S. Survey No. 14458;

Secs. 26 thru 35;

Secs. 36, excepting U.S. Survey No. 14458.

T. 25 S., R. 14 W., unsurveyed,

Secs. 1 thru 20;

Secs. 21, excepting U.S. Survey No. 13560;

Secs. 22 thru 36.

T. 26 S., R. 14 W., unsurveyed,

Secs. 1 thru 21;

Secs. 22 and 23, excepting U.S. Survey No. 6485;

Secs. 24, 25, and 26;

Secs. 27, excepting U.S. Survey No. 6485;

Secs. 28 thru 36.

T. 27 S., R. 14 W., unsurveyed.

T. 28 S., R. 14 W., unsurveyed,

Secs. 1 thru 9, secs. 11 thru 14, and secs. 17 thru 20.

T. 24 S., R. 15 W.,

Secs. 13, 24, 25, and 36.

T. 25 S., R. 15 W., unsurveyed.

T. 26 S., R. 15 W., unsurveyed,

Secs. 1 thru 5, secs. 8 thru 17, secs. 20 thru 29, and secs. 32 thru 36.

T. 27 S., R. 15 W., unsurveyed,

Secs. 1 thru 5, secs. 9 thru 14, secs. 23 thru 26, and secs. 35 and 36.

T. 28 S., R. 15 W., unsurveyed,

Secs. 1 and 2, secs. 11 thru 14, and secs. 23 and 24.

T. 25 S., R. 16 W.,

Secs. 25 thru 36.

T. 25 S., R. 17 W.,

Secs. 7 thru 30 and secs. 33 thru 36.

T. 24 S., R. 18 W.,

Secs. 25, 26, and 35.

T. 25 S., R. 18 W.,

Secs. 1 and 2, and secs. 11 thru 14.

Tps. 1 thru 10 S., R. 1 E., unsurveyed.

Tps. 1 thru 6 S., R. 2 E., unsurveyed.

T. 7 S., R. 2 E.,

Secs. 1 thru 21 and secs. 28 thru 33.

T. 9 S., R. 2 E.,

Secs. 2 thru 11, secs. 16 thru 19.

Tps. 1 thru 6 S., R. 3 E., unsurveyed.

T. 1 S., R. 4 E., unsurveyed,

Secs. 3 thru 10 and secs. 15 thru 21;

Secs. 22, N½;

Secs. 28, N½;

Secs. 29, 30, and 31;

Secs. 32, N½ and SW¼.

T. 2 S., R. 4 E., unsurveyed,

Secs. 1 thru 35;

Secs. 36, N½NE¼, N½SW¼NE¼, N½SE¼NE¼, N½NW¼, N½SW¼NW¼, and N½SE¼NW¼.

T. 3 S., R. 4 E., unsurveyed,

Secs. 3 thru 9;

Secs. 10, W½;

Secs. 16 thru 20;

Secs. 21, N½ and SW¼;

Secs. 29 thru 33.

T. 4 S., R. 4 E., unsurveyed,

Secs. 4 thru 9, secs. 16 thru 23, and secs. 26 thru 35.

T. 5 S., R. 4 E., unsurveyed,

Secs. 2, W½;

Secs. 3 thru 9, secs. 16 thru 20, and secs. 29, 30, and 31;

Secs. 32, W½.

T. 29 S., R. 6 E., unsurveyed,

Secs. 1, 2, and 3.

T. 28 S., R. 12 E.,

Mineral Survey No. 2394.

T. 21 S., R. 13 E.,

Lots 5 and 6, U.S. Survey No. 12656.

T. 27 S., R. 13 E.,

Mineral Survey No. 2394.

T. 29 S., R. 15 E.,

Secs. 2 and 3.

T. 27 S., R. 22 E.,

Secs. 25, 26, and 27;

Secs. 32, lots 4 and 6, lots 9 thru 14, and NW¼NW¼;

Secs. 33 thru 36;

Lots 3 thru 6, U.S. Survey No. 2625;

Lot 6, U.S. Survey No. 5845;

U.S. Survey No. 10551.

T. 27 S., R. 24 E.,

Secs. 9, excepting U.S. Survey No. 13980;

Secs. 10 and 15;

Secs. 16, excepting U.S. Survey No. 13980.

T. 23 S., R. 25 E.,

Secs. 1, 2, and 3, secs. 10 thru 15, secs. 22 thru 27, and secs. 34, 35, and 36, unsurveyed.

T. 20 S., R. 27 E., unsurveyed,

Secs. 1 thru 18.

T. 22 S., R. 28 E.,

Secs. 26.

T. 23 S., R. 28 E.,

Secs. 2, 11, 14, and 15.

T. 27 S., R. 28 E., unsurveyed,

Secs. 1, 2, and 3;

Secs. 4, excepting U. S. Survey No. 5837;

Secs. 5 thru 8;

Secs. 9, excepting U.S. Survey No. 5837;

Secs. 10 thru 36.

T. 28 S., R. 28 E., unsurveyed,

Secs. 1, 2, and 3, secs. 10 thru 15, secs. 22 thru 27, and secs. 34, 35, and 36.

T. 29 S., R. 28 E., unsurveyed,

Secs. 1, 2, and 3.

T. 23 S., R. 29 E.,

Secs. 28.

T. 28 S., R. 29 E., unsurveyed,

Secs. 4 thru 9 and secs. 16 thru 36.

T. 29 S., R. 29 E., unsurveyed.

Tps. 18 and 19 S., R. 30 E., unsurveyed.

T. 23 S., R. 30 E.,

Secs. 26 thru 29 and secs. 32 thru 35.

T. 28 S., R. 30 E., unsurveyed,

Secs. 31 thru 36.

T. 29 S., R. 30 E., unsurveyed.

T. 28 S., R. 31 E., unsurveyed,

Sec. 31.

T. 29 S., R. 31 E., unsurveyed.

Seward Meridian, Alaska

T. 33 N., R. 17 W., unsurveyed,

Secs. 13 thru 28;

Secs. 29 and 30, excepting U.S. Survey No. 6258;

Secs. 31 thru 36.

T. 33 N., R. 18 W., unsurveyed.

T. 33 N., R. 19 W., unsurveyed,

Secs. 13 thru 16;

Sec. 17, excepting U.S. Survey No. 6439;

Secs. 18 and 19;

Sec. 20, excepting U.S. Survey No. 6439;

Secs. 21 thru 36.

T. 33 N., R. 20 W., unsurveyed.

T. 34 N., R. 20 W., unsurveyed,

Secs. 31 thru 34,

Sec. 35, excepting U.S. Survey No. 6314.

T. 32 N., R. 21 W., unsurveyed,

Secs. 1, 2, and 3, secs. 10 thru 15, secs. 22 thru 27, and secs. 34, 35, and 36.

T. 33 N., R. 21 W., unsurveyed,

Secs. 19 thru 36.

T. 33 N., R. 22 W., unsurveyed,

Secs. 19 thru 36.

T. 28 N., R. 23 W.,

Sec. 7.

T. 33 N., R. 23 W., unsurveyed,

Secs. 19 thru 36.

Tps. 29 and 30 N., R. 26 W., unsurveyed.

T. 31 N., R. 26 W., unsurveyed.

T. 32 N., R. 26 W., unsurveyed,

Secs. 4 thru 9 and 16 thru 36.

Tps. 27 thru 32 N., R. 27 W., unsurveyed.

Tps. 27 thru 30 N., R. 28 W., unsurveyed.

T. 31 N., R. 28 W., unsurveyed,

Sec. 1;

Secs. 2 and 3, excepting U.S. Survey No. 12629;

Secs. 4 thru 9;

Secs. 10 and 11, excepting U.S. Survey No. 12629;

Secs. 12 thru 36.

T. 32 N., R. 28 W., unsurveyed,

Secs. 1 and 2;

Sec. 3, excepting lot 1, U.S. Survey No. 8017;

Sec. 4, excepting lots 1 and 2, U.S. Survey No. 8017;

Sec. 5, excepting lots 2, 3, and 4, U.S. Survey No. 8017;

Secs. 6 thru 36.

Tps. 26 thru 30 N., R. 29 W., unsurveyed.

T. 25 N., R. 30 W., unsurveyed.

T. 26 N., R. 30 W., unsurveyed,

Secs. 1 thru 16;

Sec. 17, excepting lot 1, U.S. Survey No. 12581;

Sec. 18;

Secs. 19, excepting lot 2, U.S. Survey No. 12581;

Sec. 20, excepting lots 1 and 2, U.S. Survey No. 12581;

Secs. 21 thru 36.

Tps. 27, 28, and 29 N., R. 30 W., unsurveyed.

T. 13 N., R. 31 W.,

Those portions within regional selection applications AA-9345, AA-11749, AA-11750, and AA-11754 excluded from Tentative Approval 1981-0146, Serial No. F-15369, dated September 25, 1981;

U.S Survey No. 14323.

Tps. 25 thru 29 N., R. 31 W., unsurveyed.

T. 32 N., R. 31 W., unsurveyed,

Secs. 17 and 18.

T. 12 N., R., 32 W., unsurveyed,

Secs. 1, 2, and 3;

Sec. 4, excepting U.S. Survey No. 6968;

Secs. 8 thru 36.

T. 13 N., R. 32 W., unsurveyed,

Secs. 2, 3, and 4;

Sec. 5, excepting U.S. Survey No. 14322;

Secs. thru 11, secs. 15 thru 21, and secs. 25, 29, 30, 31, 35, and 36;

U.S. Survey No. 14322.

T. 14 N., R. 32 W.,

Secs. 1 thru 29.

T. 15 N., R. 32 W., unsurveyed.

T. 16 N., R. 32 W., unsurveyed,

Secs. 4 thru 9 and 16 thru 36.

T. 17 N., R. 32 W., unsurveyed.

Tps. 18 thru 21 N., R. 32 W., unsurveyed.

T. 25 N., R. 32 W., unsurveyed.

T. 26 N., R. 32 W., unsurveyed,

Secs. 1 thru 23;

Secs. 24 and 25, excepting U.S. Survey No. 8056;

Secs. 26 thru 36.

Tps. 27 thru 30 N., R. 32 W., unsurveyed.

T. 12 N., R. 33 W., unsurveyed,

Secs. 3 thru 9, sec. 18, secs. 23 thru 29, and secs. 31 thru 36.

T. 13 N., R. 33 W., unsurveyed.

T. 14 N., R. 33 W.,

Secs. 1 thru 6, secs. 8 thru 16, secs. 19, 23, 24, and secs. 28 thru 33.

Tps. 15 and 16 N., R. 33 W., unsurveyed.

T. 17 N., R. 33 W., unsurveyed,

Secs. 21 thru 27 and secs. 34 and 35.

T. 18 N., R. 33 W., unsurveyed,

Secs. 4, 5, 6, 31, and 32.

T. 19 N., R. 33 W., unsurveyed,

Secs. 1 thru 26;

Sec. 27, excepting U.S. Survey No. 12572;

Secs. 28 thru 36.

Tps. 20, 21, and 25 thru 29 N., R. 33 W., unsurveyed.

T. 32 N., R. 33 W.,

Secs. 25 thru 36.

T. 33 N., R. 33 W.,

Lots 1 and 3, U.S. Survey No. 2646.

T. 12 N., R. 34 W., unsurveyed,

Secs. 1 thru 14;

Secs. 15 and 16, excepting U.S. Survey No. 7025;

Secs. 17, 18, and 32 thru 36.

T. 13 N., R. 34 W., unsurveyed.

T. 14 N., R. 34 W.,

Sec. 8 and 9, Secs. 13 thru 17, Secs. 20 thru 29, and Secs. 31 thru 36.

T. 17 N., R. 34 W., unsurveyed,

Secs. 3 thru 10, secs. 15 thru 22, and secs. 25 thru 29.

T. 18 N., R. 34 W., unsurveyed,

Secs. 1 thru 11, secs. 14 thru 23, and secs. 25 thru 36.

Tps. 19 thru 22 N., R. 34 W., unsurveyed.

T. 23 N., R. 34 W., unsurveyed,

Secs. 1, 2, and 3, secs. 10 thru 16, and secs. 20 thru 36.

T. 24 N., R. 34 W., unsurveyed,

Secs. 5 and 6.

Tps. 25 thru 28 N., R. 34 W., unsurveyed.

T. 30 N., R. 34 W.,

Tracts A and B.

T. 31 N., R. 34 W.,

Sec. 9;

Sec. 31, lot 2;

Secs. 32 and 33.

T. 12 N., R. 35 W., unsurveyed,

Secs. 1 thru 18;

Sec. 19, excluding Public Land Order No. 1142;

Secs. 20 thru 24;

Secs. 27, 28 and 29;

Sec. 30, excluding Public Land Order No. 1142.

T. 13 N., R. 35 W.,

Secs. 1 and 2, secs. 10 thru 16, and secs. 19 thru 36.

T. 14 N., R. 35 W.,

Sec. 36.

T. 17 N., R. 35 W.,

Sec. 1, excepting U.S. Survey No. 9403, unsurveyed;

Secs. 2 thru 15 and secs. 22, 23, 24, and 27, unsurveyed.

T. 18 N., R. 35 W., unsurveyed,

Secs. 1 thru 27,

Secs. 28 and 29, excepting U.S. Survey No. 13814;

Secs. 30 thru 36.

Tps. 19, and 20 N., R. 35 W., unsurveyed.

T. 21 N., R. 35 W., unsurveyed,

Secs. 1 thru 24;

Sec. 25, excepting U.S. Survey No. 12533;

Secs. 26 thru 35;

Sec. 36, excepting U.S. Survey No. 12533.

T. 22 N., R. 35 W., unsurveyed,

Secs. 1, 2, and 6, secs. 10 thru 16, and secs. 19 thru 36.

T. 23 N., R. 35 W., unsurveyed,

Secs. 1, 2, 11, 31, 32, and 33.

T. 24 N., R. 35 W., unsurveyed,

Secs. 1 thru 26 and Secs. 30, 35, and 36.

Tps. 25 and 26 N., R. 35 W., unsurveyed.

T. 30 N., R. 35 W.,

Tracts A thru E.

T. 31 N., R. 35 W.,

Sec. 12, lot 1.

T. 33 N., R. 35 W.,

Secs. 3 and 4.

T. 34 N., R. 35 W.,

Sec. 31;

Sec. 32, lots 2, 3, 4, and 6.

Sec. 33, lots 1, 3, 8, and 9;

Sec. 34, 35, and 36.

T. 12 N., R. 36 W., unsurveyed,

Secs. 1 thru 22;

Secs. 23, 24, and 25, excluding Public Land Order No. 1142;

Sec. 26, excluding Public Land Order No. 1472;

Secs. 27 thru 33.

T. 13 N., R. 36 W.,

Secs. 24 thru 36.

T. 16 N., R. 36 W.,

Secs. 2 thru 11, secs. 14 thru 23, and secs. 27 and 28.

Tps. 17, 18, and 19 N., R. 36 W., unsurveyed.

T. 20 N., R. 36 W., unsurveyed,

Secs. 5 and 6, secs. 11 thru 15, secs. 19 thru 29, and secs. 33 thru 36.

T. 21 N., R. 36 W., unsurveyed,

Secs. 1 thru 35.

T. 22 N., R. 36 W., unsurveyed,

Secs. 1 thru 12 and secs. 15 thru 20.

T. 23 N., R. 36 W., unsurveyed,

Secs. 1 thru 11, secs. 14 thru 23, and secs. 26 thru 36.

Tps. 24 and 25 N., R. 36 W., unsurveyed.

T. 26 N., R. 36 W., partly unsurveyed,

Secs. 1, 2, 3, secs. 10 thru 15, secs. 22 thru 27, and secs. 34, 35, and 36.

T. 33 N., R. 36 W.,

Sec. 11, lot 2;

Secs. 12, 13, 14, 23, and 24.

Tps. 17, 18, and 19 N., R. 37 W., unsurveyed.

T. 20 N., R. 37 W., unsurveyed,

Secs. 1 thru 4 and secs. 10 and 11;

Secs. 19, 24, 30, 31, and 32;

U.S. Survey No. 14317.

T. 21 N., R. 37 W., unsurveyed,

Secs. 8 thru 17, secs. 21 thru 27, and secs. 35 and 36.

T. 22 N., R. 37 W., unsurveyed,

Secs. 1 thru 24.

T. 23 N., R. 37 W.,

Secs. 1, 2, 3, secs. 10 thru 15, secs. 22 thru 27, and secs. 34, 35, and 36, unsurveyed;

Tract A, that portion within sec. 9, E½NE¼SW¼.

T. 24 N., R. 37 W.,

Secs. 1, 2, and 3, secs. 10 thru 15, secs. 22 thru 27, and secs. 34, 35, and 36, unsurveyed.

T. 18 N., R. 38 W.,

Secs. 18, 19, and 20.

T. 21 N., R. 38 W.,

Secs. 1, 2, 6 and 7, secs. 11 thru 15, sec. 18, secs. 25 thru 29, and secs. 32 thru 36.

T. 22 N., R. 38 W.,

Secs. 4 thru 8, secs. 13 and 14, secs. 17 thru 20, and secs. 24, 25, 30, and 31.

T. 18 N., R. 39 W.,

Sec. 9, secs. 13 thru 17, and sec. 24.

T. 20 N., R. 39 W.,

Sec. 1.

Tps. 21 and 22 N., R. 39 W., unsurveyed.

T. 23 N., R. 39 W.,

Secs. 19, 20, and 21, and secs. 28 thru 33, unsurveyed.

T. 26 N., R. 39 W.,

Secs. 4 thru 9 and secs. 16, 17, and 18, unsurveyed.

T. 27 N., R. 39 W.

T. 19 N., R. 40 W.,

Sec. 18.

Tps. 21 and 22 N., R. 40 W., unsurveyed.

T. 23 N., R. 40 W.,

Secs. 4 thru 9 and secs. 16 thru 36, unsurveyed.

T. 24 N., R. 40 W.,

Secs. 4 thru 9, secs. 16 thru 21, and secs. 28 thru 33, unsurveyed.

T. 25 N., R. 40 W.

Secs. 1, 2, and 3, and secs. 9 thru 36, unsurveyed.

T. 26 N., R. 40 W.,

Secs. 1, 2, and 12, unsurveyed;

tract B.

T. 27 N., R. 40 W., unsurveyed,

Secs. 1 thru 32 and secs. 35 and 36.

T. 20 N., R. 41 W.,

Secs. 1 and 2, secs. 11 thru 14, secs. 23 and 24.

Tps. 21 thru 24 N., R. 41 W., unsurveyed.

T. 25 N., R. 41 W.,

Secs. 22 thru 28, and secs. 33 thru 36, unsurveyed;

Tract B.

T. 26 N., R. 41 W.,

Tract A.

T. 27 N., R. 41 W.,

Secs. 1 thru 6, secs. 9 thru 16, secs. 21 thru 26, and secs. 35 and 36, unsurveyed;

tract C.

T. 20 N., R. 42 W.,

Secs. 1 thru 24 and secs. 26 thru 34.

Tps. 21, 22 and 23 N., R. 42 W., unsurveyed.

T. 24 N., R. 42 W., unsurveyed,

Secs. 1 thru 9;

Sec. 10, excepting Survey No. 12623;

Secs. 11 thru 36.

T. 25 N., R. 42 W., unsurveyed,

Secs. 15 and 16, and secs. 20 thru 36, unsurveyed.

T. 26 N., R. 42 W. unsurveyed,

Secs. 25, 26, 27, 34, 35, and 36.

T. 27 N., R. 42 W.,

Secs. 1 thru 5, unsurveyed.

T. 17 N., R. 43 W.,

Lot 6, U.S. Survey No. 9533.

T. 18 N., R. 43 W.,

Sec. 31.

T. 19 N., R. 43 W.,

Secs. 1 thru 18, secs. 20 thru 29.

T. 20 N., R. 43 W.,

T. 21 N., R. 43 W.,

Secs. 1 thru 5, secs. 9 thru 15, secs 22 thru 27, and secs. 34, 35, and 36.

Tps. 22 and 23 N., R. 43 W., unsurveyed.

T. 24 N., R. 43 W., unsurveyed,

Secs. 1 thru 14;

Sec. 13, excepting lot 1, U.S. Survey No. 13670;

Secs. 14 thru 22;

Sec. 23, excepting lot 2, U.S. Survey No. 13670;

Sec. 24, excepting U.S. Survey No. 13670;

Secs. 25 thru 36.

T. 25 N., R. 43 W., unsurveyed,

Secs. 2 thru 9, secs. 17 and 18, and secs. 33 thru 36.

T. 26 N., R. 43 W., unsurveyed,

Secs. 2 thru 11, secs. 14 thru 23, and secs. 27 thru 34.

T. 27 N., R. 43 W.,

Secs. 2 thru 11, secs. 14 thru 23, and secs. 26 thru 36.

T. 18 N., R. 44 W.,

Secs. 5 thru 8 and secs. 17, 18, and 36.

T. 19 N., R. 44 W.,

Sec. 5, excepting U.S. Survey No. 9428;

Secs. 6, 7, and 8;

U.S. Survey Nos. 13450 and 14428.

T. 21 N., R. 44 W.,

Secs. 3 thru 10, secs. 14 thru 23, and 26 thru 35.

T. 22 N., R. 44 W.,

Secs. 1 thru 4, secs. 8 thru 17, and secs. 20 thru 26.

T. 23 N., R. 44 W.,

Secs. 1 thru 21;

Secs. 22 and 23, excepting U.S. Survey No. 13687;

Secs. 24 thru 27, secs. 29, 30, 34, 35, and 36.

T. 24 N., R. 44 W.,

Secs. 1, 12, and 13, and secs. 19 thru 36, unsurveyed.

T. 25 N., R. 44 W., unsurveyed,

Secs. 1 thru 19 and secs. 30 and 31.

Tps. 26 and 27 N., R. 44 W., unsurveyed.

T. 17 N., R. 45 W.,

Secs. 5 thru 8 and secs. 16 thru 36.

T. 18 N., R. 45 W.,

Secs. 1 thru 24 and secs. 26 thru 34.

T. 19 N., R. 45 W.,

Secs. 4 thru 9, secs. 18 and 19, secs. 23 thru 26, and secs. 30 thru 36.

T. 21 N., R. 45 W.,

T. 22 N., R. 45 W.,

Secs. 25 thru 28 and secs. 33 thru 36.

T. 23 N., R. 45 W.,

Secs. 1 thru 19, secs. 22 thru 27, and secs. 34, 35, and 36.

T. 24 N., R. 45 W.,

Secs. 3 thru 10 and secs. 13 thru 36, unsurveyed.

Tps. 25, 26, and 27 N., R. 45 W., unsurveyed.

T. 17 N., R. 46 W.,

Tps. 18 and 19 N., R. 46 W., unsurveyed.

T. 20 N., R. 46 W.,

Secs. 5, 6, 15, 16, 18, 21, and secs. 28 thru 33.

T. 22 N., R. 46 W.,

Secs. 2 thru 11, secs. 17 thru 23, and secs. 27 thru 30.

T. 23 N., R. 46 W.,

Secs. 1 thru 35.

T. 24 N., R. 46 W., unsurveyed.

T. 25 N., R. 46 W., unsurveyed,

Secs. 1 thru 4, secs. 9 thru 16, and secs. 19 thru 36.

T. 30 N., R. 46 W.,

Sec. 4, that portion within the native allotment application F-17434, Parcel B, excluded from TA 1975-0078, Serial No. F-15319, dated August 8, 1975.

Tps. 19 and 20 N., R. 47 W., unsurveyed.

T. 21 N., R. 47 W.,

Secs. 1 thru 22 and secs. 35 and 36.

Tps. 22 and 23 N., R. 47 W.

T. 24 N., R. 47 W., unsurveyed,

Secs. 1, 2, and 3, secs. 10 thru 15, secs. 21 thru 29, and secs. 32 thru 36.

T. 25 N., R. 47 W., unsurveyed,

Sec. 6.

T. 10 N., R. 48 W.,

U.S. Survey No. 12631.

T. 19 N., R. 48 W., unsurveyed.

T. 20 N., R. 48 W.,

Secs. 1, 2, secs. 11 thru 15, and secs. 19 thru 36.

T. 22 N., R. 48 W.,

Secs. 1, 2, and 3, secs. 10 thru 16, secs. 21 thru 30, and secs. 32 thru 36.

T. 23 N., R., 48 W.,

Secs. 13 and 14, secs. 23 thru 26, and secs. 35 and 36.

T. 25 N., R. 48 W., unsurveyed,

Secs. 1 thru 15.

T. 26 N., R. 48 W., unsurveyed,

Secs. 3 thru 10, secs. 15 thru 22, and secs. 27 thru 36.

T. 27 N., R. 48 W., unsurveyed,

Secs. 4 thru 8, secs. 17 thru 21, and secs. 28 thru 33.

T. 20 N., R. 49 W.,

Secs. 8 and 9, secs. 16 thru 21, and secs. 25, 34, 35 and 36.

T. 21 N., R. 49 W.,

Secs. 4, 5, 7, 8 and 9, secs. 15 thru 23 and secs. 26 thru 33.

T. 22 N., R. 49 W.,

Sec. 25.

T. 25 N., R. 49 W., unsurveyed,

Secs. 1 thru 12, secs. 15 thru 21, and secs. 28 thru 32.

T. 26 and 27 N., R. 49 W., unsurveyed.

T. 17 N., R. 50 W.,

Secs. 1 thru 4, secs. 7 thru 10, and secs. 15 thru 18.

T. 18 N., R. 50 W.,

Secs. 4 thru 9, secs. 16 thru 21, and secs. 28 and 29.

T. 19 N., R. 50 W.,

Secs. 1 thru 4, secs. 9 thru 17, and secs. 20, 21, 28, 29, 32, and 33.

T. 20 N., R. 50 W., unsurveyed,

Secs. 33 thru 36.

T. 21 N., R. 50 W.,

Secs. 18, 19, 20, and secs. 29 thru 32.

T. 22 N., R. 50 W.,

Secs. 6 thru 10, secs. 15 thru 22, and secs. 27 thru 31.

T. 24 N., R. 50 W., unsurveyed,

Secs. 3 thru 9 and secs. 17, 18, and 19.

Tps. 25, 26 and 27 N., R. 50 W., unsurveyed.

T. 18 N., R. 51 W.,

Secs. 6, 7, 18, and 19.

T. 19 N., R. 51 W.,

Secs. 5 thru 8 and secs. 17, 18, 19, and 31.

T. 20 N., R. 51 W., unsurveyed,

Secs. 1 thru 24 and secs. 30 and 31.

Tps. 21 thru 27 N., R. 51 W., unsurveyed.

T. 18 N., R. 52 W.,

Secs. 1, 2, and 3, secs. 5 thru 8, secs. 10 thru 15, secs. 17 thru 20, secs. 22 thru 27, secs. 29 thru 32, and secs. 34, 35, and 36.

T. 19 N., R. 52 W.,

Secs. 1 thru 24 and secs. 26 thru 32.

Tps. 20 through 24 N., R. 52 W., unsurveyed.

T. 25 N., R. 52 W., unsurveyed,

Secs. 1 thru 18, secs. 21 thru 28, and secs. 33 thru 36.

Tps. 26, 27, 29, and 30 N., R. 52 W., unsurveyed.

T. 17 N., R. 53 W.,

Secs. 1, 2, and 3;

Sec. 6, lot 1;

Secs. 11, 12, 21, 22, and 23, and secs. 25 thru 36.

T. 18 N., R. 53 W.,

Secs. 1 thru 4, secs. 6 and 7, secs. 9 thru 16, sec. 18, secs. 21 thru 28, and secs. 33 thru 36.

T. 19 N., R. 53 W.,

Secs. 1 thru 20 and secs. 22 thru 27, secs. 29, 30, and 31, and secs. 34, 35, and 36.

Tps. 20 thru 23 N., R. 53 W., unsurveyed.

T. 24 N., R. 53 W., unsurveyed,

Secs. 1, 12, 13, 14, and 19, and secs. 23 thru 36.

T. 25 N., R. 53 W.,

Secs. 1 thru 22 and secs. 27 thru 34, unsurveyed.

Tps. 26, 27, 28, and 30 N., R. 53 W., unsurveyed.

T. 17 N., R. 54 W.,

Secs. 20, 22, and 23, and secs. 25 thru 36.

T. 18 N., R. 54 W.,

Secs. 1, 2, and 3, secs. 10 thru 15, and secs. 22 and 23.

T. 19 N., R. 54 W.,

Secs. 1 thru 30 and secs. 34, 35, and 36.

T. 20 N., R. 54 W., unsurveyed.

T. 21 N., R. 54 W., unsurveyed,

Secs. 1 thru 14, and sec. 18, secs. 23 thru 27, 34, 35, and 36.

Tps. 22 and 23 N., R. 54 W., unsurveyed.

T. 24 N., R. 54 W., unsurveyed,

Secs. 1 thru 10 and secs. 24 thru 36.

Tps. 25, 26, and 27 N., R. 54 W., unsurveyed.

T. 29 N., R. 54 W., unsurveyed,

Secs. 1 thru 28;

Secs. 29 and 30, excepting U.S. Survey No. 6623;

Secs. 31 thru 36.

T. 31 N., R. 54 W.,

Secs. 1, 2, 3, and 7;

Secs. 8 and 9, excepting U.S. Survey No. 13856;

Secs. 10 thru 16, secs. 21 thru 29, and secs. 32 thru 36.

T. 18 N., R. 55 W.,

Secs. 4, 5, 8, and 9.

T. 19 N., R. 55 W.,

Secs. 1, 2, 5, and 8, secs. 10 thru 16, secs. 21 thru 28, and secs. 32 and 33.

T. 20 N., R. 55 W.,

Tract A, those lands within sec. 1, secs. 11 thru 14, and sec. 36.

T. 21 N., R. 55 W., unsurveyed,

Secs. 1 thru 5, secs. 8 thru 17, secs. 20 thru 29, and secs. 32 thru 35.

T. 22 N., R. 55 W., unsurveyed,

Secs. 1 thru 30 and secs. 32 thru 36.

T. 24 N., R. 55 W.,

Secs. 1 thru 12 and secs. 14, 15, 22, 23, 26, and 27.

T. 26 N., R. 55 W.,

Secs. 1, 2, and 3, secs. 9 thru 16, secs. 21 thru 28, and secs. 33 thru 36.

T. 27 N., R. 55 W., unsurveyed,

Secs. 1 thru 4;

Sec. 5, excepting U.S. Survey No. 6579;

Sec. 6, excepting U.S Survey Nos. 6579 and 7136;

Secs. 7 thru 16;

Sec. 17, excepting U.S. Survey No. 13425;

Sec. 18, excepting U.S. Survey Nos. 13425 and 13647;

Sec. 19, excepting U.S. Survey No. 13647;

Secs. 20 thru 36.

T. 28 N., R. 55 W.,

Secs. 1 thru 4, secs. 9 thru 17, secs. 19 thru 28;

Sec. 29, lots 5 and 8;

Secs. 32 thru 36.

T. 13 N., R. 56 W., unsurveyed,

Secs. 1, 2, and 12, secs. 16 thru 22, and secs. 27 thru 30.

T. 14 N., R. 56 W., unsurveyed,

Secs. 13, 14, 18, 19, and 20, secs. 23 thru 28, and secs. 34, 35, and 36.

T. 18 N., R. 56 W.,

Sec. 2, secs. 5 thru 8, secs. 17 thru 20, and secs. 29 and 30.

T. 19 N., R. 56 W.,

Secs. 1, 2, 3, 6, 7, 10, 11, 12, 14, 15, 18, 19, 22, 23, 26, 27, 30, 31, and 35.

T. 20 N., R. 56 W., unsurveyed,

Secs. 1, 2, 3, 6, and 7, secs. 10 thru 15, secs. 18 and 19, secs. 22 thru 27, secs. 30, 31, 34, 35, and 36.

T. 21 N., R. 56 W., unsurveyed,

Secs. 2 thru 7;

Sec. 8, excepting U.S. Survey No. 13849;

Secs. 9 and 10;

Sec. 11, excepting U.S. Survey No. 7334;

Secs. 14 thru 23, and secs. 26 thru 34.

T. 23 N., R. 56 W.,

Secs. 13 thru 20, secs. 23, 24, and 25, secs. 29 thru 33, and sec. 36.

T. 25 N., R. 56 W.,

Secs. 1 thru 18.

T. 27 N., R. 56 W., unsurveyed,

Sec. 1, excepting U.S. Survey No. 9602;

Secs. 2 thru 10;

Sec. 11, excepting U.S. Survey No. 13971;

Secs. 12 and 13;

Sec. 14, excepting U.S. Survey No. 13971;

Secs. 15 thru 36.

T. 29 N., R. 56 W.,

Secs. 1 thru 24 and secs. 28 thru 34.

T. 31 N., R. 56 W.,

Secs. 1, 2, 3, 10, 11, and 12, and secs. 17 thru 36.

T. 13 N., R. 57 W., unsurveyed,

Secs. 1 thru 35.

T. 14 N., R. 57 W., unsurveyed.

Secs. 13 and 14.

T. 18 N., R. 57 W., unsurveyed,

Secs. 1 thru 26;

Sec. 27, N½;

Sec. 28, N½;

Sec. 29, N½;

Sec. 30, N½.

T. 19 N., R. 57 W.

T. 20 N., R. 57 W., unsurveyed.

T. 21 N., R. 57 W., unsurveyed,

Secs. 1 thru 5;

Secs. 6 and 7, excepting U.S. Survey No. 7242;

Secs. 8 thru 11;

Secs. 12 and 13, excepting U.S. Survey No. 13945;

Secs. 14 thru 26;

Secs. 27 and 28, excepting U.S. Survey No. 7308;

Secs. 29 thru 36.

T. 22 N., R. 57 W., unsurveyed.

T. 26 N., R. 57 W., unsurveyed,

Secs. 1 thru 25;

Secs. 26 and 27, excepting U.S. Survey No. 6607;

Secs. 28 thru 36.

T. 27 N., R. 57 W., unsurveyed,

Sec. 1, excepting U.S. Survey No. 6577;

Sec. 2;

Secs. 3 and 4, excepting U.S. Survey No. 9504;

Sec. 5;

Sec. 6, excepting U.S. Survey No. 7654;

Sec. 7, excepting lot 2, U.S. Survey No. 7654;

Sec. 8;

Secs. 9 and 10, excepting U.S. Survey No. 9504;

Secs. 11 thru 36.

T. 28 N., R. 57 W.,

Secs. 1 thru 18;

Sec. 19, excepting U.S. Survey No. 13429;

Secs. 20 thru 29;

Sec. 30, excepting U.S. Survey No. 13429;

Secs. 31 thru 36.

T. 30 N., R. 57 W.,

T. 31 N., R. 57 W.,

Secs. 7 and 18.

T. 34 N., R. 57 W.,

Secs. 31, 32, and 33.

T. 13 N., R. 58 W., unsurveyed.

T. 14 N., R. 58 W., unsurveyed,

Secs. 13 thru 36.

T. 18 N., R. 58 W.,

Secs. 1 thru 24.

T. 19 N., R. 58 W.

T. 20 N., R. 58 W., unsurveyed.

T. 21 N., R. 58 W., unsurveyed,

Secs. 1 thru 4, secs. 9 thru 16, secs. 23 thru 26, and secs. 35 and 36.

T. 23 N., R. 58 W.,

Secs. 13 thru 16 and secs. 20 thru 36.

T. 25 N., R. 58 W.,

Secs. 1, 12, and 13.

T. 27 N., R. 58 W., unsurveyed,

Sec. 1, excepting U.S. Survey No. 7654;

Secs. 2, 3, and 4;

Sec. 5, excepting U.S. Survey No. 9601;

Secs. 6 and 7;

Sec. 8, excepting U.S. Survey No. 9601;

Secs. 9, 10, and 11;

Sec. 12, excepting lot 2, U.S. Survey No. 7654;

Secs. 13 thru 17;

Sec. 18, excepting lot 1, U.S. Survey No. 6576;

Secs. 19 and 20;

Sec. 21, excepting U.S. Survey No. 9565;

Secs. 22 thru 27;

Sec. 28, excepting lot 1, U.S. Survey No. 9565;

Secs. 29 thru 36.

T. 29 N., R. 58 W.,

Secs. 1, 12, 13, 24, 25, and 36.

T. 31 N., R. 58 W.,

Secs. 3 thru 9;

Sec. 10, lot 4;

Secs. 17 thru 20, and secs. 30 and 31.

T. 33 N., R. 58 W., unsurveyed.

T. 9 N., R. 59 W.,

Tracts A and B.

T. 10 N., R. 59 W.,

Tract A, those portions within secs. 6 and 7, secs. 17 thru 21, and secs. 27 thru 36.

T. 12 N., R. 59 W.,

Tract A.

T. 13 N., R. 59 W., unsurveyed,

Secs. 23, 24, 25, and 36.

T. 17 N., R. 59 W.,

Secs. 1 thru 4.

Tps. 18 and 19 N., R. 59 W.

T. 20 N., R. 59 W., unsurveyed,

Secs. 23 thru 26, and secs. 31 thru 36.

T. 24 N., R. 59 W.,

Sec. 1;

Sec. 2, excepting U.S. Survey Nos. 12385 and 14176;

Sec. 3, excepting U.S. Survey No. 14176;

Secs. 4 thru 36.

T. 25 N., R. 59 W., unsurveyed,

Secs. 1 thru 11;

Sec. 12, excepting U.S. Survey No. 6555;

Secs. 13 thru 24;

Sec. 25, excepting U.S. Survey No. 6554 and lot 1, U.S. Survey No. 13510;

Sec. 26, excepting U.S. Survey No. 13510;

Secs. 27 thru 34;

Sec. 35, excepting lot 2, U.S. Survey No, 13510;

Sec. 36, excepting U.S. Survey Nos. 7282 and 10403.

T. 26 N., R. 59 W., unsurveyed.

T. 27 N., R. 59 W., unsurveyed,

Secs. 1 and 2, excepting U.S. Survey No. 6620;

Secs. 3 thru 10;

Sec. 11, excepting lot 2, U.S. Survey No. 6576;

Sec. 12;

Secs. 13, U.S. Survey No. 6576;

Sec. 14, excepting lot 2, U.S. Survey No. 6576;

Secs. 15 thru 36.

T. 28 N., R. 59 W.,

Secs. 19, 20, and 21;

Sec. 25, lots 3 and 4;

Secs. 26 thru 36.

T. 30 N., R. 59 W.,

Sec. 1, secs. 3 thru 10, and sec. 12.

T. 32 N., R. 59 W., unsurveyed.

T. 34 N., R. 59 W., unsurveyed,

Sec. 31;

Sec. 32, excepting U.S. Survey No. 6589;

Secs. 33 thru 36.

T. 6 N., R. 60 W., unsurveyed,

Secs. 1 thru 4 and secs. 9 thru 12.

T. 7 N., R. 60 W., unsurveyed,

Secs. 1 thru 4 and sec. 6;

Sec. 7, N½ and SW¼;

Secs. 9 thru 16, secs 21 thru 28, and secs. 33 thru 36.

T. 8 N., R. 60 W.,

Tract A.

T. 9 N., R. 60 W., unsurveyed.

T. 10 N., R. 60 W.,

Sec. 19;

Tract A.

T. 18 N., R. 60 W.,

Secs. 1 and 12.

T. 19 N., R. 60 W.,

Secs. 1, 2, and 3, secs. 9 thru 16, secs. 21 thru 28, and sec. 36.

T. 20 N., R. 60 W., unsurveyed,

Secs. 25, 26, 34, 35, and 36.

T. 22 N., R. 60 W., unsurveyed,

Secs. 1 thru 22;

Sec. 23, excepting lot 2, U.S. Survey No. 7860;

Sec. 24;

Sec. 25, excepting U.S. Survey No. 14343;

Sec. 26, excepting U.S. Survey Nos. 4141, 7860, and 14464;

Sec. 27, excepting lot 1, U.S. Survey No. 7860;

Secs. 28 thru 30;

Sec. 31, that portion lying north of the right bank of the Yukon River;

U.S. Survey No. 14343.

Tps. 23 thru 26 N., R. 60 W., unsurveyed.

T. 27 N., R. 60 W., unsurveyed,

Secs. 1 thru 10;

Secs. 11, excepting lots 1 and 2, U.S. Survey No. 13972;

Sec. 12, excepting lot 1, U.S. Survey No. 13972;

Secs. 13 thru 36.

T. 28 N., R. 60 W.,

Secs. 2 and 11.

T. 29 N., R. 60 W.

T. 31 N., R. 60 W., unsurveyed.

T. 33 N., R. 60 W., unsurveyed,

Secs. 1 thru 16;

Sec. 17, excepting U.S. Survey No. 6444;

Secs. 18 thru 28;

Sec. 29, excepting U.S. Survey No. 6590;

Secs. 30 and 31;

Sec. 32, excepting U.S. Survey No. 6590;

Secs. 33 thru 36.

T. 34 N., R. 60 W., unsurveyed.

T. 7 N., R. 61 W., unsurveyed,

Secs. 1, 2, and 3, secs. 10 thru 15, and secs. 22, 23, 26, 27, 34, and 35.

T. 8 N., R. 61 W., unsurveyed,

Secs. 1 thru 4 and secs. 9 thru 15, secs. 22 thru 27, and secs. 34, 35, and 36.

T. 9 N., R. 61 W., unsurveyed,

Secs. 1 and 2, secs. 11 thru 14, secs. 23 thru 26, and secs. 35 and 36.

T. 10 N., R. 61 W.,

Tract A.

T. 12 N., R. 61 W.,

Tract A.

T. 22 N., R. 61 W., unsurveyed,

Secs. 1 thru 30;

Secs. 31 thru 36, those portions north of the left bank of the Yukon River.

Tps. 23 thru 27 N., R. 61 W., unsurveyed.

T. 28 N., R. 61 W., unsurveyed,

Secs. 1 thru 15;

Sec. 16, excepting U.S. Survey No. 9438;

Secs. 17 thru 20,

Sec. 21, excepting U.S. Survey No. 9438;

Secs. 22, 23, and 24;

Sec. 25, excepting U.S. Survey No. 6642;

Secs. 26 thru 36.

Tps. 29 and 30 N., R. 61 W., unsurveyed.

T. 31 N., R. 61 W., unsurveyed,

Secs. 1 and 2;

Sec. 3, excepting U.S. Survey No. 6631;

Secs. 4 thru 21;

Sec. 22, excepting U.S. Survey No. 6629;

Secs. 23 thru 26;

Sec. 27, excepting U.S. Survey Nos. 6629 and 6674;

Secs. 28 thru 33;

Sec. 34, excepting U.S. Survey No. 6674;

Secs. 35 and 36.

T. 32 N., R. 61 W., unsurveyed,

Secs. 1 thru 9;

Sec. 10, excepting U.S. Survey No. 6402;

Secs. 11 thru 14;

Sec. 15, excepting U.S. Survey No. 6402;

Secs. 16 thru 20;

Secs. 21 and 22, excepting U.S. Survey No 6634;

Secs. 23 thru 36.

Tps. 33 and 34 N., R. 61 W., unsurveyed.

T. 22 N., R. 62 W., unsurveyed,

Secs. 1 thru 7;

Sec. 8, that portion lying north of the right bank of Tuckers Slough excepting lot 2, U.S. Survey No. 14114;

Sec. 9, that portion lying north and east of the right bank of Tuckers Slough excepting lots 1 and 2, U.S. Survey No. 14114;

Secs. 10 thru 14;

Secs. 15 thru 18, and sec. 22, those portions north and east of the right bank of Tuckers Slough;

Secs. 23, 24, and 25;

Secs. 26, 35, and 36, those portions lying north and east of the right bank of Tuckers Slough.

Tps. 23 and 24 N., R. 62 W., unsurveyed.

T. 25 N., R. 62 W., unsurveyed,

Secs. 1 thru 12;

Secs. 13 and 14, excepting U.S. Survey No. 6553;

Secs. 15 thru 22;

Secs. 23 and 24, excepting U.S. Survey No. 6553;

Secs. 25 thru 36.

T. 26 N., R. 62 W., unsurveyed.

T. 27 N., R. 62 W., unsurveyed,

Sec. 1;

Sec. 2, excepting lot 2, U.S. Survey No. 6692;

Sec. 3, excepting U.S. Survey No. 6692;

Secs. 4 thru 36.

T. 28 N., R. 62 W., unsurveyed,

Secs. 1 thru 29;

Secs. 30 and 31, excepting U.S. Survey No. 5644;

Sec. 32, excepting U.S. Survey No. 13636;

Sec. 33;

Sec. 34, excepting U.S. Survey No. 6692;

Sec. 35, excepting lot 2, U.S. Survey No. 6692;

Sec. 36.

Tps. 29 thru 34 N., R. 62 W., unsurveyed.

T. 22 N., R. 63 W., unsurveyed,

Secs. 1 thru 12;

Secs. 13, that portion lying north and west of the right bank of Tuckers Slough;

Sec. 14, that portion lying north and west of the right bank of Tuckers Slough excepting lot 3, U.S. Survey No. 7194;

Sec. 15, excepting lot 3, U.S. Survey No. 7184;

Secs. 16, 17, and 18;

Sec. 19, that portion lying north and west of the right bank of Tuckers Slough excepting U.S. Survey No. 7194;

Secs. 20 and 21, those portions lying north and west of the right bank of Tuckers Slough;

Secs. 22 and 23, those portions lying north and west of the right bank of Tuckers Slough excepting lot 3 U.S. Survey No. 7194;

Sec. 30, those portions lying north and west of the right bank of Tuckers Slough.

Tps. 23 thru 29 N., R., 63 W., unsurveyed.

T. 30 N., R. 63 W., unsurveyed,

Sec. 1, excepting U.S. Survey No. 6628;

Secs. 2 thru 19;

Secs. 20 and 21, excepting U.S. Survey No. 6632;

Secs. 22 thru 27;

Secs. 28 and 29, excepting U.S. Survey No. 6632;

Secs. 30 thru 36.

T. 31 N., R. 63 W., unsurveyed,

Secs. 1 thru 35;

Sec. 36, excepting U.S. Survey No. 6628.

T. 32 N., R. 63 W., unsurveyed,

Secs. 1 thru 22;

Sec. 23, excepting U.S. Survey No. 6630;

Secs. 24 and 25;

Sec. 26, excepting U.S. Survey No. 6630;

Secs. 27 thru 36.

T. 33 N., R. 63 W., unsurveyed,

Secs. 1 and 2, secs. 11 thru 14, secs. 22 thru 28, and secs. 33 thru 36.

T. 34 N., R. 63 W., unsurveyed,

Secs. 35 and 36.

T. 21 N., R. 64 W.,

Secs. 4 thru 8.

T. 22 N., R. 64 W.,

Secs. 1 thru 24 and secs. 27 thru 34.

T. 23 N., R. 64 W.,

Secs. 1 thru 12, and secs. 18, 19, and 36.

Tps. 24 and 25 N., R. 64 W., unsurveyed.

T. 26 N., R. 64 W., unsurveyed,

Secs. 1 thru 4, secs. 9 thru 17, secs. 20 thru 29, and secs. 31 thru 36.

T. 27, and 28 N., R. 64 W., unsurveyed.

T. 29 N., R. 64 W., unsurveyed,

Secs. 1 thru 5;

Sec. 6, S½;

Secs. 7 thru 36.

T. 30 N., R. 64 W., unsurveyed,

Secs. 1, 2, and 3, secs. 11 thru 14, secs. 22 thru 27, and secs. 33 thru 36.

T. 31 N., R. 64 W., unsurveyed,

Secs. 1 thru 4, secs. 9 thru 16, secs. 22 thru 27 and secs. 34, 35, and 36.

T. 32 N., R. 64 W., unsurveyed,

Secs. 1 thru 4, secs. 9 thru 16, secs. 21 thru 28, and secs. 33 thru 36.

T. 21 N., R. 65 W.,

Secs. 1, 2, 6, 7, 10, 11, and 12.

T. 22 N., R. 65 W.,

Secs. 1 thru 26, and secs. 30, 31, 35, and 36.

T. 23 N., R. 65 W.,

Secs. 1 thru 24, and secs. 27 and 28.

T. 24 N., R. 65 W., unsurveyed.

T. 25 N., R. 65 W., unsurveyed,

Secs. 1, 2, and 6, secs. 10 thru 15, and secs. 21 thru 36.

T. 27 N., R. 65 W., unsurveyed,

Secs. 1 thru 27 and secs. 30, 34, 35, and 36.

T. 28 N., R. 65 W., unsurveyed.

T. 29 N., R. 65 W., unsurveyed,

Sec. 16, S½;

Secs. 20 and 21;

Sec. 22, W½ and SE¼;

Secs. 25 thru 29;

Sec. 30, E½ and SW¼;

Secs. 31 thru 36.

T. 21 N., R. 66 W.,

Secs. 1, 2, 6, 11, and 12.

T. 22 N., R. 66 W.,

Secs. 1 thru 32 and secs. 35 and 36.

Tps. 23 and 24 N., R. 66 W.

T. 25 N., R. 66 W., unsurveyed,

Sec. 1, secs. 5 thru 8, and secs. 11 thru 30;

Sec. 31, N½;

Secs. 32 thru 36.

T. 26 N., R. 66 W., unsurveyed,

Secs. 2 thru 10, secs. 15 thru 22, and secs. 27 thru 33.

Tps. 27 and 28 N., R. 66 W., unsurveyed.

T. 29 N., R. 66 W., unsurveyed,

Sec. 36, E½ and SW¼.

T. 18 N., R. 67 W.,

Sec. 6.

T. 19 N., R. 67 W.,

Secs. 4 thru 9, secs. 16 thru 21, and secs. 28 thru 33.

T. 20 N., R. 67 W.,

Sec. 1, that portion excluded from Interim Conveyance No. 2223 and 2224 as FLPMA Lease AA-59715;

Secs. 19, 20, and 21, and secs. 28 thru 33.

T. 21 N., R. 67 W.,

Secs. 1, 2, and 3.

T. 22 N., R. 67 W.,

Secs. 1 thru 31 and secs. 34, 35, and 36.

T. 23 N., R. 67 W., unsurveyed,

Secs. 1 and 2;

Sec. 3, S½;

Sec. 8, S½;

Sec. 9, S½;

Secs. 10 thru 17;

Sec. 18, S½;

Secs. 19 thru 36.

T. 24 N., R. 67 W., unsurveyed,

Secs. 1 and 2;

Sec. 3; E½;

Sec. 10, E½;

Secs. 11 thru 14;

Sec. 15, E½;

Sec. 22, NE¼;

Sec. 23, N½;

Sec. 24.

T. 18 N., R. 68 W.,

Secs. 1 thru 12 and secs. 17 and 18;

Sec. 24, lot 2.

T. 19 N., R. 68 W.

T. 20 N, R. 68 W.,

Secs. 1 and 12 and secs. 21 thru 36.

T. 21 N., R. 68 W.,

Secs. 5 and 8.

T. 22 N., R. 68 W.,

Secs. 1 thru 4, secs. 9 thru 16, secs. 21 thru 28, and secs. 35 and 36.

T. 23 N., R. 68 W., unsurveyed,

Sec. 13, S½;

Sec. 14, SE¼;

Sec. 22, E½;

Secs. 23 thru 26;

Sec. 27, E½;

Sec. 34, E½;

Secs. 35 and 36.

T. 18 N., R. 69 W.,

Secs. 1 thru 21, and secs. 29 and 30.

T. 19 N., R. 69 W.,

Secs. 1 thru 15, sec. 18, secs. 23 thru 26, and secs. 35 and 36.

T. 20 N., R. 69 W.,

Secs. 1 thru 5, secs. 25 thru 29, and secs. 31 thru 36.

T. 18 N., R. 70 W.,

Sec. 2, that portion outside the boundary of the Yukon Delta National Wildlife Refuge;

Sec. 12, lots 12 and 15;

Sec. 13;

Sec. 15, lot 6;

Secs. 24 and 25.

T. 19 N., R. 70 W.,

Secs. 1, 12, and 13.

T. 20 N., R. 70 W.,

Sec. 36.

T. 8 N., R. 72 W.,

Lot 1, U. S. Survey No. 4383.

The areas described aggregate approximately 13,314,736 acres.

East Alaska RMP

Copper River Meridian, Alaska

T. 6 N., R. 1 E.,

Sec. 17, lot 25;

Sec. 18, lot 20.

T. 1 N., R. 2 E.,

Sec. 30, lots 4 thru 17 and E½SW¼.

T. 8 N., R. 3 E.,

Sec. 11, lots 2 thru 7 and lots 10 thru 16;

Sec. 14, lots 3 and 4;

Sec. 23, lot 2;

Sec. 27, lots 2 and 3;

Sec. 33, lots 2, 3, and 4.

T. 9 N., R. 4 E.,

Lot 3, U.S. Survey No. 4981.

T. 10 N., R. 4 E.,

Secs. 5, 8, 17, 20, 28, 29, and 33.

T. 14 N., R. 4 E., unsurveyed,

Sec. 25 and secs. 31 thru 36.

T. 10 N., R. 5 E.,

Sec. 21, lots 1 and 2, lots 4 thru 7, and lot 9;

Sec. 22, lots 2, 3, and 4.

T. 14 N., R. 5 E., unsurveyed,

Secs. 28 thru 33.

T. 11 N., R. 8 E.,

Sec. 24, NE¼NE¼, E½NE¼NW¼NE¼, E½SW¼NW¼NW¼NE¼, NE¼NW¼SW¼NW¼NE¼, NE¼SW¼NW¼NE¼, N½SE¼NW¼NE¼, E½SE¼SE¼NW¼NE¼, E½NE¼NE¼SW¼NE¼, E½SE¼NE¼SW¼NE¼, S½NW¼SW¼SW¼NE¼, SW¼SW¼SW¼NE¼, E½NE¼SE¼SW¼NE¼, NE¼SE¼NE¼, NW¼SE¼NE¼, E½SW¼SE¼NE¼, NW¼SW¼SE¼NE¼, SE¼SE¼NE¼, NW¼NE¼NE¼NW¼, E½SW¼NE¼NE¼NW¼, W½SE¼NE¼NE¼NW¼, NE¼NW¼NE¼NW¼, NW¼NW¼NE¼NW¼, SW¼NW¼NE¼NW¼, W½SE¼NW¼NE¼NW¼, W½NE¼SW¼NE¼NW¼, NW¼SW¼NE¼NW¼, SW¼SW¼NE¼NW¼, SE¼SW¼NE¼NW¼, W½NE¼SE¼NE¼NW¼, E½NW¼SE¼NE¼NW¼, SW¼SE¼NE¼NW¼, SE¼SE¼NE¼NW¼, NE¼NW¼NW¼, NW¼NW¼NW¼, NE¼SW¼NW¼NW¼, NW¼SW¼NW¼NW¼, SE¼SW¼NW¼NW¼, SE¼NW¼NW¼, NE¼SW¼NW¼, N½NE¼NW¼SW¼NW¼, W½SW¼NW¼SW¼NW¼, SW¼SW¼NW¼, SE¼SW¼NW¼, SE¼NW¼, NE¼SW¼, NW¼SW¼, NE¼SW¼SW¼, E½NW¼SW¼SW¼, SW¼SW¼SW¼, SE¼SW¼SW¼, NE¼NE¼SE¼SW¼, NW¼NE¼SE¼SW¼, N½SW¼NE¼SE¼SW¼, N½SE¼NE¼SE¼SW¼, NW¼SE¼SW¼, SW¼SE¼SW¼, S½SE¼SE¼SW¼, W½NE¼NE¼SE¼, N½NW¼NE¼SE¼, NW¼SW¼NE¼SE¼, N½SW¼SW¼NE¼SE¼, SE¼SW¼NE¼SE¼, E½SE¼NE¼SE¼, SW¼SE¼NE¼SE¼, E½NE¼NE¼NW¼SE¼, SW¼NE¼NW¼SE¼, SE¼NE¼NW¼SE¼, W½NW¼NW¼SE¼, SE¼NW¼NW¼SE¼, NW¼SW¼NW¼SE¼, N½SW¼SW¼NW¼SE¼, SW¼SE¼NW¼SE¼, S½SE¼SE¼NW¼SE¼, E½NE¼SW¼SE¼, S½NW¼NW¼SW¼SE¼, N½SW¼NW¼SW¼SE¼, S½SW¼SW¼SE¼, E½SE¼SW¼SE¼, SW¼SE¼SW¼SE¼, E½SE¼SE¼, E½NW¼SE¼SE¼, S½SW¼NW¼SE¼SE¼, and SW¼SE¼SE¼, excepting U.S. Survey No. 6738;

Sec. 25, NE¼NE¼, E½NW¼NE¼, NE¼NW¼NW¼NE¼, W½NW¼NW¼NE¼, W½SW¼NW¼NE¼, SE¼SW¼NW¼NE¼, S½NE¼, N½NE¼NW¼, N½SW¼NE¼NW¼, E½SE¼SW¼NE¼NW¼, SE¼NE¼NW¼, N½NE¼NW¼NW¼, N½SW¼NE¼NW¼NW¼, N½SE¼NE¼NW¼NW¼, N½NW¼NW¼NW¼, SW¼NW¼NW¼NW¼, W½SW¼NW¼NW¼, NW¼NW¼SW¼NW¼, W½SW¼NW¼SW¼NW¼, W½NW¼SW¼SW¼NW¼, W½SW¼SW¼SW¼NW¼, SE¼SE¼SW¼NW¼, E½SE¼NW¼, E½NE¼NW¼SE¼NW¼, E½SE¼NW¼SE¼NW¼, E½NE¼SW¼SE¼NW¼, S½SW¼SE¼NW¼, N½NE¼SW¼, N½SW¼NE¼SW¼, N½SW¼SW¼NE¼SW¼, N½SE¼SW¼NW¼SW¼, SE¼NE¼SW¼, E½NE¼NW¼SW¼, SW¼NE14NW¼SW¼, W½NW¼NW¼NW¼SW¼, S½NW¼NW¼SW¼, SW¼NW¼SW¼, N½NE¼SE¼NW¼SW¼, N½SW¼NE¼SE¼NW¼SW¼, N½SE¼NE¼SE¼NW¼SW¼, N½NW¼SE¼NW¼SW¼, N½SW¼NW¼SE¼NW¼SW¼, N½SE¼NW¼SE¼NW¼SW¼, S½SW¼NE¼NE¼SW¼SW¼, S½SE¼NE¼NE¼SW¼SW¼, S½SW¼NW¼NE¼SW¼SW¼, S½SE¼NW¼NE¼SW¼SW¼, S½NE¼SW¼SW¼, W½SW¼SW¼, SE¼SW¼SW¼, E½NE¼SE¼SW¼, N½NW¼NE¼SE¼SW¼, S½SW¼NE¼SE¼SW¼, S½NW¼NW¼SE¼SW¼, SW¼NW¼SE¼SW¼, S½SE¼NW¼SE¼SW¼, W½SW¼SE¼SW¼, N½SE¼SE¼SW¼, SE¼SE¼SE¼SW¼, and SE¼;

Sec. 26, NE¼NE¼NE¼, E½NW¼NE¼NE¼, S½NE¼NE¼, W½NE¼, SE¼NE¼, W½NE¼NE¼NW¼, W½NE¼NW¼, SE¼NE¼NW¼, E½NE¼NW¼NW¼, N½NW¼NE¼NW¼NW¼, N½SW¼NW¼NE¼NW¼NW¼, N½SE¼NW¼NE¼NW¼NW¼, NW¼NW¼NW¼, SW¼NW¼NW¼, NE¼SE¼NW¼NW¼, S½SW¼NW¼SE¼NW¼NW¼, S½SE¼NW¼SE¼NW¼NW¼, S½NW¼, SW¼, W½NE¼NE¼SE¼, NW¼NE¼SE¼, S½NE¼SE¼, NW¼SE¼, and S½SE¼;

Sec. 27, S½NE¼NE¼NE¼, NW¼NE¼NE¼, S½NE¼NE¼, NE¼NW¼NE¼, E½NW¼NW¼NE¼, N½NE¼SW¼NW¼NE¼, SW¼NE¼SW¼NW¼NE¼, NW¼SW¼NW¼NE¼, SW¼SW¼NW¼NE¼, NW¼SE¼SW¼NW¼NE¼, S½SE¼SW¼NW¼NE¼, N½NE¼SE¼NW¼NE¼, SE¼NE¼SE¼NW¼NE¼, N½NW¼SE¼NW¼NE¼, S½SW¼SE¼NW¼NE¼, NE¼SE¼SE¼NW¼NE¼, S½SE¼SE¼NW¼NE¼, S½NE¼, E½NW¼, N½NW¼NW¼, E½NE¼SW¼NW¼NW¼, W½NW¼SW¼NW¼NW¼, W½SW¼SW¼NW¼NW¼, E½SE¼SW¼NW¼NW¼, SE¼NW¼NW¼, NE¼NE¼SW¼NW¼, E½NW¼NE¼SW¼NW¼, E½SW¼NE¼SW¼NW¼, SE¼NE¼SW¼NW¼, W½NE¼NW¼SW¼NW¼, NW¼NW¼SW¼NW¼, SW¼NW¼SW¼NW¼, W½SE¼NW¼SW¼NW¼, N½SW¼SW¼NW¼, NE¼SE¼SW¼NW¼, E½SW¼, S½NE¼NW¼SW¼, SW¼NW¼SW¼, N½SE¼NW¼SW¼, SE¼SE¼NW¼SW¼, NE¼NE¼SW¼SW¼, S½NE¼SW¼SW¼, S½NW¼SW¼SW¼, S½SW¼SW¼, and SE¼;

Sec. 28, that portion lying left of the right bank of the Slana River, partly unsurveyed;

Sec. 33, lots 2 and 3, E½NE¼NE¼NE¼, E½NW¼NE¼NE¼NE¼, SE¼NE¼NE¼, and N½SW¼NE¼NE¼, excepting U.S. Survey No. 8875, U.S. Survey No. 8902, U.S. Survey No. 8899, lots 1 and 2, U.S. Survey No. 11901, U.S. Survey No. 11903, lots 1 thru 5, U.S. Survey No. 11236, lot 4, U.S. Survey No. 11237, and U.S. Survey No. 11697;

Sec. 34, lots 1, 2, and 3, N½NE¼, NE¼SW¼NE¼, E½NW¼SW¼NE¼, N½NW¼NW¼SW¼NE¼, S½SW¼SW¼NE¼, S½SE¼SW¼NE¼, N½SE¼NE¼, N½SW¼SE¼NE¼, SE¼SW¼SE¼NE¼, SE¼SE¼NE¼, N½NW¼, SW¼NW¼, N½NE¼SE¼NW¼, N½SW¼NE¼SE¼NW¼, N½SE¼NE¼SE¼NW¼, W½SE¼NW¼, S½NW¼SE¼SE¼NW¼, S½SE¼SE¼NW¼, N½NE¼SW¼, N½SW¼NE¼SW¼, E½SW¼SW¼NE¼SW¼, SE¼SW¼NE¼SW¼, N½SE¼NE¼SW¼, N½SW¼SE¼NE¼SW¼, SE¼SE¼NE¼SW¼, NE¼NE¼SE¼, E½NW¼NE¼SE¼, S½NE¼SE¼, E½NE¼NE¼NW¼SE¼, N½SW¼NE¼NW¼SE¼, W½NE¼NW¼NW¼SE¼, SE¼NW¼NW¼SE¼, NE¼SW¼NW¼SE¼, W½SE¼SW¼NW¼SE¼, NE¼SE¼SW¼NW¼SE¼, NE¼SE¼NW¼SE¼, N½SE¼SE¼NW¼SE¼, SE¼SE¼SE¼NW¼SE¼, NE¼NE¼NE¼SW¼SE¼, S½SW¼NE¼SW¼SE¼, SW¼SE¼NE¼SW¼SE¼, W½NE¼NW¼SW¼SE¼, W½NW¼SW¼SE¼, W½SE¼NW¼SW¼SE¼, SE¼SE¼NW¼SW¼SE¼, N½NE¼SW¼SW¼SE¼, N½NW¼SW¼SW¼SE¼, SW¼NW¼SW¼SW¼SE¼, W½SW¼SW¼SW¼SE¼, NW¼NE¼SE¼SW¼SE¼, SE¼NE¼SE¼SW¼SE¼, N½NW¼SE¼SW¼SE¼, N½NE¼NE¼SE¼SE¼, SE¼NE¼NE¼SE¼SE¼, N½NW¼NE¼SE¼SE¼, E½SE¼NE¼SE¼SE¼, N½NE¼NW¼SE¼SE¼, SW¼NE¼NW¼SE¼SE¼, N½NW¼NW¼SE¼SE¼, SE¼NW¼NW¼SE¼SE¼, E½SW¼NW¼SE¼SE¼, W½SE¼NW¼SE¼SE¼, W½NE¼SW¼SE¼SE¼, NE¼NW¼SW¼SE¼SE¼, S½NW¼SW¼SE¼SE¼, and E½NE¼SE¼SE¼SE¼, excepting SE¼SE¼NW¼SW¼, W½SW¼SW¼NE¼SW¼, U.S. Survey No. 8722, U.S. Survey No. 8855, U.S. Survey No. 8875, U.S. Survey No. 8957, U.S. Survey No. 9727, and U.S. Survey No. 11240;

Sec. 35, NE¼, N½NE¼NW¼, E½SW¼NE¼NW¼, SE¼NE¼NW¼, NW¼NW¼, S½NW¼, NE¼NE¼SW¼, E½NW¼NE¼SW¼, E½NW¼NW¼NE¼SW¼, E½SW¼NW¼NE¼SW¼, S½NE¼SW¼, W½NE¼NE¼NW¼SW¼, W½NE¼NW¼SW¼, W½SE¼NE¼NW¼SW¼, NW¼NW¼SW¼, N½SW¼NW¼SW¼, W½SW¼SW¼NW¼SW¼, E½SE¼SW¼NW¼SW¼, SE¼NW¼SW¼, N½NE¼SW¼SW¼, SE¼NE¼SW¼SW¼, E½NE¼NW¼SW¼SW¼, W½NW¼NW¼SW¼SW¼, S½NW¼SW¼SW¼, N½SW¼SW¼SW¼, E½SE¼SE¼SW¼SW¼, N½SE¼SW¼, NE¼SW¼SE¼SW¼, W½SW¼SW¼SE¼SW¼, N½SE¼SE¼SW¼, N½SE¼, N½SW¼SE¼, N½SW¼SW¼SE¼, E½SW¼SW¼SW¼SE¼, SE¼SW¼SW¼SE¼, SE¼SW¼SE¼, N½SE¼SE¼, SW¼SE¼SE¼, and N½SE¼SE¼SE¼;

Sec. 36, lots 1 and 2, E½NE¼, N½NW¼NE¼, E½NE¼SW¼NW¼NE¼, E½NE¼SW¼SW¼NW¼NE¼, E½SE¼SW¼SW¼NW¼NE¼, SE¼SW¼NW¼NE¼, SE¼NW¼NE¼, NE¼NE¼SW¼NE¼, S½NE¼SW¼NE¼, NE¼NW¼NW¼SW¼NE¼, S½NW¼NW¼SW¼NE¼, S½NW¼SW¼NE¼, W½SW¼SW¼NE¼, SE¼SW¼NE¼, NE¼NE¼NE¼NW¼, S½NE¼NE¼NW¼, W½NE¼NW¼, W½NE¼SE¼NE¼NW¼, W½SE¼NE¼NW¼, W½NW¼SE¼SE¼NE¼NW¼, W½SW¼SE¼SE¼NE¼NW¼, W½NW¼, W½NE¼NE¼SE¼NW¼, SE¼NE¼NE¼SE¼NW¼, W½NE¼SE¼NW¼, SE¼NE¼SE¼NW¼, W½SE¼NW¼, SE¼SE¼NW¼, W½NW¼NE¼SW¼, N½NW¼SW¼NE¼SW¼, NW¼SW¼, N½NE¼NE¼SW¼SW¼, N½NW¼NE¼SW¼SW¼, N½NE¼NW¼SW¼SW¼, N½NW¼NW¼SW¼SW¼, S½SE¼NE¼SE¼, S½SW¼NE¼SE¼, SE¼SE¼NW¼SE¼, NE¼NE¼SW¼SE¼, S½NE¼SW¼SE¼, S½NW¼SW¼SE¼, S½SW¼SE¼, N½NE¼NE¼SE¼SE¼, SE¼NE¼NE¼SE¼SE¼, N½NW¼NE¼SE¼SE¼, S½SW¼NE¼SE¼SE¼, NE¼SE¼NE¼SE¼SE¼, S½SE¼NE¼SE¼SE¼, N½NE¼NW¼SE¼SE¼, SW¼NE¼NW¼SE¼SE¼, W½NW¼SE¼SE¼, NW¼SE¼NW¼SE¼SE¼, S½SE¼NW¼SE¼SE¼, and S½SE¼SE¼.

T. 11 N., R. 9 E.,

Sec. 7, the land lying between U.S. Survey No. 5046 and the centerline of the Glenn Highway.

T. 12 N. R. 9 E.,

Sec. 12, N½NE¼, NE¼SW¼NE¼, N½NW¼SW¼NE¼, SE¼NW¼SW¼NE¼, SW¼SW¼NE¼, N½SE¼SW¼NE¼, SW¼SE¼SW¼NE¼, N½SE¼NE¼, W½NE¼SW¼SE¼NE¼, NW¼SW¼SE¼NE¼, S½SW¼SE¼NE¼, E½NE¼SE¼SE¼NE¼, N½NE¼NE¼NW¼, SE¼NE¼NE¼NW¼, N½NW¼NE¼NW¼, SW¼NW¼NE¼NW¼, S½NE¼NW¼, NW¼NW¼, N½NE¼SW¼NW¼, W½SW¼NW¼, E½SE¼SW¼NW¼, N½NE¼SE¼NW¼, SW¼NE¼SE¼NW¼, NW¼SE¼NW¼, S½SE¼NW¼, N½SW¼, N½SW¼SW¼, E½SW¼SW¼SW¼, SE¼SW¼SW¼, SE¼SW¼, N½NE¼SE¼, E½NE¼SW¼NE¼SE¼, S½SW¼NE¼SE¼, SE¼NE¼SE¼, W½NE¼NW¼SE¼, SE¼NE¼NW¼SE¼, W½NW¼SE¼, W½NE¼SE¼NW¼SE¼, NW¼SE¼NW¼SE¼, S½SE¼NW¼SE¼, N½SW¼SE¼, W½SW¼SW¼SE¼, SE¼SW¼SE¼, N½SE¼SE¼, SW¼SE¼SE¼, N½SE¼SE¼SE¼, and SW¼SE¼SE¼SE¼;

Sec. 13, W½NE¼NE¼NE¼, SE¼NE¼NE¼NE¼, N½NW¼NE¼NE¼, N½NE¼SW¼NW¼NE¼NE¼, N½NW¼SW¼NW¼NE¼NE¼, N½SE¼NW¼NE¼NE¼, SE¼SE¼NW¼NE¼NE¼, NE¼NE¼SW¼NE¼NE¼, S½NE¼SW¼NE¼NE¼, S½SE¼NW¼SW¼NE¼NE¼, S½SW¼NW¼SW¼NE¼NE¼, S½SW¼NE¼NE¼, SE¼NE¼NE¼, NE¼NW¼NE¼, E½NW¼NW¼NE¼, N½NW¼NW¼NW¼NE¼, S½SW¼NW¼NW¼NE¼, S½NW¼NE¼, S½NE¼, N½NE¼NE¼NE¼NW¼, S½SE¼NE¼NE¼NW¼, W½NE¼NW¼, SE¼NE¼NW¼, NW¼NW¼, W½NE¼SW¼NW¼, SE¼NE¼SW¼NW¼, W½SW¼NW¼, SE¼SW¼NW¼, S½NE¼SE¼NW¼, NE¼NW¼SE¼NW¼, S½NW¼SE¼NW¼, S½SE¼NW¼, and S½;

Sec. 24, N½NE¼NE¼, N½SW¼NE¼NE¼, SW¼SW¼NE¼NE¼, W½SE¼SW¼NE¼NE¼, E½SE¼NE¼NE¼, N½NW¼SE¼NE¼NE¼, NW¼NE¼, N½NE¼SW¼NE¼, SW¼NE¼SW¼NE¼, N½SE¼NE¼SW¼NE¼, SW¼SE¼NE¼SW¼NE¼, W½SW¼NE¼, W½NE¼SE¼SW¼NE¼, SE¼NE¼SE¼SW¼NE¼, W½SE¼SW¼NE¼, SE¼SE¼SW¼NE¼, E½SE¼NE¼, N½NW¼SE¼NE¼, N½SW¼NW¼SE¼NE¼, N½SE¼NW¼SE¼NE¼, SE¼SE¼NW¼SE¼NE¼, NE¼NE¼SW¼SE¼NE¼, S½NE¼SW¼SE¼NE¼, S½NW¼SW¼SE¼NE¼, S½SW¼SE¼NE¼, N½NE¼NW¼, N½SW¼NE¼NW¼, SE¼NE¼NW¼, W½NW¼, SE¼NW¼, and S½;

Sec. 25, E½, N½NW¼, E½SW¼NW¼, N½NW¼SW¼NW¼, N½SW¼SW¼NW¼, SE¼SW¼SW¼NW¼, SE¼NW¼, E½SW¼, NE¼NW¼SW¼, NE¼NW¼NW¼SW¼, S½NW¼NW¼SW¼, S½NW¼SW¼, N½SW¼SW¼, W½NE¼SW¼SW¼SW¼, NW¼SW¼SW¼SW¼, SW¼SW¼SW¼SW¼, W½SE¼SW¼SW¼SW¼, NE¼SE¼SW¼SW¼, E½NW¼SE¼SW¼SW¼, E½SW¼SE¼SW¼SW¼, and SE¼SE¼SW¼SW¼;

Sec. 26, E½NE¼, N½NW¼NE¼, SW¼NW¼NE¼, N½SE¼NW¼NE¼, N½SW¼SE¼NW¼NE¼, N½SE¼SE¼NW¼NE¼, S½NE¼NE¼SW¼NE¼, S½NW¼NE¼SW¼NE¼, N½NE¼SW¼NW¼SW¼NE¼, N½NW¼SW¼NW¼SW¼NE¼, N½NE¼SE¼NW¼SW¼NE¼, N½NW¼SE¼NW¼SW¼NE¼, SW¼SE¼SW¼SW¼NE¼, NE¼SE¼SW¼NE¼, N½NW¼SE¼SW¼NE¼, N½SE¼SE¼SW¼NE¼, SE¼SE¼SE¼SW¼NE¼, NE¼NE¼NW¼, S½NW¼NE¼NW¼, S½NE¼NW¼, W½NW¼, SE¼NW¼, SW¼, NE¼SE¼, NE¼NE¼NE¼NW¼SE¼, NW¼NE¼NW¼NW¼SE¼, S½NE¼NW¼NW¼SE¼, W½NW¼NW¼SE¼, SE¼NW¼NW¼SE¼, SW¼NW¼SE¼, S½NE¼SE¼NW¼SE¼, S½NW¼SE¼NW¼SE¼, S½SE¼NW¼SE¼, SW¼SE¼, S½NE¼SE¼SE¼, W½SE¼SE¼, and SE¼SE¼SE¼;

Sec. 27, NE¼, E½NE¼NW¼, E½NW¼NE¼NW¼, E½SW¼NE¼NW¼, W½NE¼NW¼NW¼, W½NW¼NW¼, N½NE¼SE¼NW¼NW¼, SW¼NE¼SE¼NW¼NW¼, W½SE¼NW¼NW¼, S½NE¼NE¼SW¼NW¼, W½NE¼SW¼NW¼, SE¼NE¼SW¼NW¼, W½SW¼NW¼, SE¼SW¼NW¼, NE¼SE¼NW¼, NE¼NW¼SE¼NW¼, NE¼NW¼NW¼SE¼NW¼, S½NW¼NW¼SE¼NW¼, S½NW¼SE¼NW¼, S½SE¼NW¼, and S½;

Sec. 32, lot 1;

Secs. 34 and 35;

Sec. 36, E½NE¼NE¼NE¼, W½NE¼NE¼, SE¼NE¼NE¼, N½NW¼NE¼, SW¼NW¼NE¼, N½SE¼NW¼NE¼, N½SW¼SE¼NW¼NE¼, SE¼SE¼NW¼NE¼, E½NE¼SW¼NE¼, S½SW¼NE¼SW¼NE¼, W½SW¼NE¼, SE¼SW¼NE¼, SE¼NE¼, NE¼NW¼, N½NE¼NW¼NW¼, SE¼NE¼NW¼NW¼, W½NW¼NW¼, NE¼SE¼NW¼NW¼, S½SE¼NW¼NW¼, S½NW¼, SW¼, NE¼NE¼SE¼, N½NW¼NE¼SE¼, N½SW¼NW¼NE¼SE¼, N½SE¼NW¼NE¼SE¼, S½SW¼SW¼NE¼SE¼, S½SE¼SW¼NE¼SE¼, N½NE¼SE¼NE¼SE¼, N½NW¼SE¼NE¼SE¼, S½SW¼SE¼NE¼SE¼, S½SE¼SE¼NE¼SE¼, N½NW¼SE¼, N½NE¼SW¼NW¼SE¼, SW¼NE¼SW¼NW¼SE¼, W½SW¼NW¼SE¼, NW¼SE¼SW¼NW¼SE¼, S½SE¼SW¼NW¼SE¼, N½NE¼SE¼NW¼SE¼, SE¼NE¼SE¼NW¼SE¼, N½NW¼SE¼NW¼SE¼, S½SW¼SE¼NW¼SE¼, NE¼SE¼SE¼NW¼SE¼, S½SE¼SE¼NW¼SE¼, N½NE¼SW¼SE¼, E½SE¼NE¼SW¼SE¼, N½NW¼SW¼SE¼, SW¼NW¼SW¼SE¼, W½SE¼NW¼SW¼SE¼, SW¼SW¼SE¼, N½SE¼SW¼SE¼, and SE¼SE¼.

T. 14 N., R. 9 E.,

Tract D, those portions within secs. 20 thru 26 and secs. 28 and 29.

T. 12 N., R. 10 E.

T. 11 N., R. 12 E., unsurveyed,

Secs. 1, 2, 11, and 12.

T. 12 N., R. 12 E.,

Tract A, that portion within secs. 4 thru 9, secs. 16 thru 22, and secs. 26, 35, and 36.

T. 13 N., R. 12 E.,

Tract A, that portion within secs. 1 thru 5, secs. 8 thru 15, and secs. 22 and 23.

T. 14 N., R. 12 E.,

Tract A.

T. 11 N., R. 13 E., unsurveyed,

Sec. 5, excepting U.S. Survey No. 2547;

Sec. 6;

Secs. 7, 8, and 18, excepting U.S. Survey No. 2547.

T. 12 N., R. 13 E., unsurveyed,

Secs. 31 and 32, excepting U.S. Survey No. 2547.

T. 13 N., R. 13 E., unsurveyed,

Sec. 6, excepting U.S. Survey No. 2547.

T. 14 N., R. 13 E., unsurveyed,

Secs. 17 thru 20 and secs. 30 and 31, excepting U.S. Survey No. 2547.

T. 1 N., R. 1 W.,

Secs. 1 thru 5 and secs. 7 thru 36.

T. 4 N., R. 1 W.,

Sec. 19, lots 114 and 116;

Sec. 29, NW¼.

T. 5 N., R. 1 W.,

Sec. 19, S½SE¼NE¼SE¼, NE¼SE¼SE¼, and N½SE¼SE¼SE¼;

Sec. 20, S½SW¼NW¼SW¼, NW¼SW¼SW¼, N½SW¼SW¼SW¼, and S½SE¼SE¼SW¼;

Sec. 29, N½NE¼NE¼NW¼;

Sec. 34, lots 5, 6, 7, and 12.

T. 6 N., R. 1 W.,

Sec. 2, lot 17;

Sec. 3, lots 1 and 2;

Block 4A, Tract E, U.S. Survey No. 4861.

T. 7 N., R. 1 W.,

Sec. 2, N½NE¼SW¼ and N½NW¼SW¼;

Sec. 3, SW¼NE¼, NE¼SW¼, and NW¼SE¼.

T. 1 N., R. 2 W.,

Secs. 15, 16, 18, 19, 21, and 22, and secs. 28 thru 33.

T. 4 N., R. 2 W.,

Sec. 20, lots 36, 39, 48, and 50, and lots 55 thru 59;

Sec. 22, lot 36;

Sec. 23, lots 29, 31, 32, and 35;

Sec. 24, lots 46, 53, 63, and 67, and lots 71 thru 74;

Sec. 29, lots 3, 9, 11, 13, 15, and 17.

Lot 2, U.S. Survey No. 10679.

T. 10 N., R. 2 W., partly unsurveyed,

Tract A that potion within secs. 4 thru 9, secs. 16 thru 21, and sec. 28;

Tract B.

T. 11 N., R. 2 W., partly unsurveyed,

Tract B.

T. 12 N., R. 2 W., partly unsurveyed,

Tract A, excepting U.S. Survey No. 14434 and that portion within Public Land Order No. 225;

U.S. Survey No. 14434.

T. 13 N., R. 2 W., partly unsurveyed,

Tract A, those portions within secs. 2, 11, 14, 23, 27, 32, and 34, excepting that portion within Public Land Order No. 225;

Tract B, that portion within sec. 35, excepting U.S. Survey No. 14433 and that portion within Public Land Order No. 225;

Lots 2 and 4, U.S. Survey No. 2696;

Lots 1 and 2, U.S. Survey No. 2698;

Lot 1, U.S. Survey No. 2699;

U.S. Survey No. 4031;

U.S. Survey No. 4206;

U.S. Survey No. 14433.

T. 14 N., R. 2 W., unsurveyed,

Sec. 35, excepting that portion within Public Land Order No. 225.

T. 1 N., R. 3 W.,

Secs. 2 thru 36.

T. 2 N., R. 3 W.,

Secs. 22, 25, 26, and 27, and secs. 31 thru 35.

T. 8 N., R. 3 W.,

Secs. 1 thru 9, secs. 16 thru 20, and secs. 30 and 31.

T. 9 N., R. 3 W., partly unsurveyed,

Tract A that portion within secs. 8, 31, and 32.

T. 10 N., R. 3 W., partly unsurveyed,

Tract B.

T. 12 N., R. 3 W., partly unsurveyed,

Tract B, those portions within secs. 2, 6, and 7, secs. 11 thru 14, and secs. 18, 19, 22, 23, 30, and 31.

T. 13 N., R. 3 W., partly unsurveyed,

Tracts A and B.

T. 14 N., R. 3 W., unsurveyed,

Secs. 31 thru 36.

T. 1 N., R. 4 W., unsurveyed,

Secs. 20, 28, 29, 32, and 33.

T. 4 N., R. 4 W.,

Lot 2, U.S Survey No. 3732.

T. 7 N., R. 4 W.,

Lot 1, U.S Survey No. 5674.

T. 9 N., R. 4 W., partly unsurveyed,

Tract A, those portions within secs. 12 and 13;

Tract B.

T. 10 N., R. 4 W., partly unsurveyed,

Tract B, that portion within sec. 28.

T. 12 N., R. 4 W., unsurveyed,

Secs. 1, 2, and 3, secs. 10 thru 14, and secs. 23 and 24.

T. 13 N., R. 4 W., partly unsurveyed,

Tract A, that portion within secs. 7, 8, and 9, secs. 14 thru 30, and secs. 33 thru 36,

Tracts B, C, and D.

T. 14 N., R. 4 W., partly unsurveyed,

Tract A.

T. 1 N., R. 5 W.,

Secs. 25 and 36.

T. 4 N., R. 5 W.,

Tract A, that portion within sec. 30, the land lying between U.S. Survey No. 3121 and the centerline of the Glenn Highway.

T. 12 N., R. 5 W., unsurveyed,

Secs. 19, 20, and 21, and secs. 28 thru 33.

T. 13 N., R. 5 W., partly unsurveyed,

Tract A, that portion within secs. 4 thru 9 and secs. 13 thru 18 excepting U.S. Survey No. 14337;

Tracts B, C and D.

T. 14 N., R. 5 W., partly unsurveyed,

Tract A.

T. 2 N., R. 6 W.,

Sec. 3;

Sec. 4, lot 1.

T. 11 N., R. 6 W., partly unsurveyed,

Tract A that portion within secs. 4, 5, 23, 25, and 26.

T. 12 N., R. 6 W., unsurveyed,

Secs. 19 thru 36.

T. 13 N., R. 6 W., unsurveyed,

Secs. 1 thru 18.

T. 14 N., R. 6 W., unsurveyed.

T. 2 N., R. 7 W.,

Secs. 2, 11, and 12.

T. 3 N., R. 7 W.,

Lots 3 and 7, U.S. Survey No. 4680.

T. 7 N., R. 7 W.,

Tract A, that portion of secs. 20, 21, 28, and 29, formerly within PLO 1537 and that portion of lot 11, U.S. Survey No. 3495, formerly within PLO 1537, all excluded from TA 1982-0027.

T. 11 N., R. 7 W., partly unsurveyed,

Tract B.

T. 13 N., R. 7 W., unsurveyed,

Secs. 1 thru 18.

T. 14 N., R. 7 W., unsurveyed,

Secs. 32 thru 36.

T. 2 N., R. 8 W.,

Lot 2, U.S. Survey No. 3336A.

T. 3 N., R. 8 W.,

Lots 2 and 3, U.S. Survey No. 3336A.

T. 4 N., R. 8 W.,

Tract A, those portions within secs. 10 thru 14 formerly within Native allotment applications AA-6973, AA-6974, and AA-7696, all excluded from TA 1982-0107.

T. 8 N., R. 8 W.,

Lot 6, U.S. Survey No. 4586.

T. 9 N., R. 8 W., unsurveyed,

Sec. 16, excepting lot 2, U.S. Survey No. 11529;

Sec. 21, excepting lots 1 and 2, U.S. Survey No. 11529;

U.S. Survey No. 11529.

T. 10 N., R. 9 W., unsurveyed,

Secs. 33 and 34;

Sec. 36, excepting U.S. Survey No. 14339;

U.S. Survey No. 14339.

T. 11 N., R. 9 W., unsurveyed,

Sec. 14.

T. 12 N., R. 9 W., unsurveyed,

Secs. 14 thru 17, secs. 20 thru 23, secs. 26 thru 29, and secs. 32 thru 35.

T. 1 S., R. 1 W.

T. 8 S., R. 1 W., unsurveyed,

Secs. 19 thru 36.

T. 9 S., R. 1 W.,

Secs. 1 thru 5, those portions lying outside the boundary of the Chugach National Forest, unsurveyed;

Sec. 6, unsurveyed;

Sec. 18, that portion lying outside the boundary of the Chugach National Forest, unsurveyed.

T. 1 S., R. 2 W.,

Secs. 1, 5, 6, 7, 11, 15, 18, 22, 28, 29, and 31.

T. 9 S., R. 2 W.,

Secs. 5 thru 11, partly unsurveyed;

Secs. 13 and 14, those portions lying outside the boundary of the Chugach National Forest, unsurveyed;

Secs. 15 thru 22, unsurveyed;

Secs. 23 and 26, those portions lying outside the boundary of the Chugach National Forest, unsurveyed;

Secs. 27 thru 34, unsurveyed;

Sec. 35, that portion lying outside the boundary of the Chugach National Forest, unsurveyed.

T. 1 S., R. 4 W., unsurveyed,

Sec. 20;

Sec. 28, excepting lot 3, U.S. Survey No. 11066;

Secs. 29 and 32;

Sec. 33, excepting U.S. Survey No. 6726 and U.S. Survey No. 11066.

T. 3 S., R. 4 W., unsurveyed,

Sec. 19.

T. 8 S., R. 4 W., unsurveyed.

T. 2 S., R. 5 W., unsurveyed,

Secs. 1 thru 5 and secs. 8 thru 12.

T. 10 S., R. 5 W., unsurveyed,

Sec. 1, excepting U.S. Survey No. 14130;

Secs. 2 thru 29;

Secs. 30 thru 33, those portions lying outside the boundary of the Chugach National Forest;

Secs. 34, 35, and 36.

T. 11 S., R. 5 W., unsurveyed,

Secs. 1 and 2;

Secs. 3 and 4 and secs. 10 thru 13, those portions lying outside the boundary of the Chugach National Forest.

T. 10 S., R. 6 W., unsurveyed,

Secs. 1 thru 5;

Secs. 6, 7, and 8, those portions lying outside the boundary of the Chugach National Forest;

Sec. 9, excepting M.S. No. 1011;

Sec. 10, excepting M.S. Nos. 779 and 1011;

Secs. 11 thru 14;

Secs. 15, 16, and 17, and 22 thru 25, those portions lying outside the boundary of the Chugach National Forest.

T. 8 S., R. 7 W.,

Secs. 1 thru 24;

Sec. 26, N½, SW¼, N½SE¼, and SW¼SE¼;

Secs. 27, 28, and 29;

Sec. 30, E½, E½NW¼, and E½SW¼;

Sec. 31, lots 1, 8, and 9, NE¼NE¼, and NE¼NW¼;

Sec. 32, lots 1 thru 11, E½NE¼, SW¼NW¼, and NW¼SW¼;

Sec. 33, N½NE¼, SW¼NE¼, and NW¼;

Sec. 34, N½NW¼;

M.S. No. 1038.

T. 2 S., R. 8 W., unsurveyed,

Secs. 4 thru 9 and secs. 13 thru 36.

T. 3 S., R. 8 W., unsurveyed,

Secs. 1 thru 12.

T. 8 S., R. 8 W., partly unsurveyed,

Sec. 1;

Secs. 2 and 3, excepting M.S. No. 1533;

Secs. 4, 5, 7, and 8, those portions lying outside the boundary of the Chugach National Forest;

Sec. 9;

Sec. 10, excepting M.S. No. 1533;

Secs. 11 thru 17;

Secs. 18 and 19, those portions lying outside the boundary of the Chugach National Forest;

Secs. 20 and 29;

Secs. 30 and 31, those portions lying outside the boundary of the Chugach National Forest;

Secs. 32 and 33.

T. 9 S., R. 8 W.,

Sec. 4, unsurveyed;

Secs. 5, 6, and 7, those portions lying outside the boundary of the Chugach National Forest, unsurveyed;

Secs. 8, 9, 10, 16, 17, and 18, unsurveyed.

T. 2 S., R. 9 W., unsurveyed,

Secs. 1 thru 5, secs. 8 thru 17, secs. 20 thru 29, and sec. 36.

T. 3 S., R. 9 W., unsurveyed,

Secs. 1 and 12.

T. 8 S., R. 9 W., unsurveyed,

Secs. 24 and 25, those portions lying outside the boundary of the Chugach National Forest.

T. 9 S., R. 9 W.,

Secs. 1 thru 4 and secs. 8 thru 12, those portions lying outside the boundary of the Chugach National Forest, unsurveyed;

Secs. 13 thru 16, partly unsurveyed;

Sec. 17, that portion lying outside the boundary of the Chugach National Forest, unsurveyed.

T. 2 S., R. 10 W., unsurveyed,

Secs. 18, 19, 30, and 31.

T. 2 S., R. 11 W., unsurveyed,

Secs. 13 and 14, secs. 23 thru 26, and secs. 35 and 36.

T. 1 S., R. 1 E.,

Sec. 14, lots 10 and 15.

T. 5 S., R. 1 E., unsurveyed,

Secs. 3 and 4.

T. 8 S., R. 1 E., unsurveyed,

Secs. 19 and 20;

Secs. 21, 22, and 23, those portions lying outside the boundary of the Chugach National Forest;

Sec. 24;

Secs. 25, 26, 28, and 29, those portions lying outside the boundary of the Chugach National Forest;

Sec. 30;

Secs. 31, 32, and 33, those portions lying outside the boundary of the Chugach National Forest.

T. 9 S., R. 1 E.,

Sec. 6, that portion lying outside the boundary of the Chugach National Forest, unsurveyed.

T. 1 S., R. 2 E.,

Sec. 22, NW¼NE¼, NE¼NE¼SW¼NE¼, S½NE¼SW¼NE¼, NW¼NW¼SW¼NE¼, S½NW¼SW¼NE¼, S½SW¼NE¼, E½NE¼NW¼, E½NW¼NE¼NW¼, E½SW¼NE¼NW¼, E½NE¼SE¼NW¼, and E½SE¼SE¼NW¼;

Sec. 24, lot 3.

T. 2 S., R. 2 E.,

Sec. 7, lots 6, 9, and 12;

Sec. 9, lots 1, 2, and 3, N½SW¼, SW¼SW¼, NW¼SE¼, and that portion lying right of the left bank of the Tonsina River, partly unsurveyed;

Sec. 10, lots 1, 2, 4, and 5, and that portion lying right of the left bank of the Tonsina River, partly unsurveyed;

Sec. 16, lots 1 and 2, and that portion lying right of the left bank of the Tonsina River, partly unsurveyed.

T. 8 S., R. 2 E., unsurveyed,

Secs. 7 thru 24;

Secs. 25 thru 30 and sec. 36, those portions lying outside the boundary of the Chugach National Forest.

T. 1 S., R. 3 E.,

Sec. 19, lots 7 and 8;

Lots 9A, 10, 11, and 12, U.S. Survey No. 3579.

T. 8 S., R. 3 E.,

Sec. 3, that portion lying outside the boundary of Wrangell—St. Elias National Park, unsurveyed;

Secs. 6 and 7, unsurveyed;

Secs. 9, 16, 20, 28, and 29, those portions lying outside the boundary of Wrangell—St. Elias National Park, unsurveyed;

Secs. 32, 33, and 34, those portions lying outside the boundary of Wrangell—St. Elias National Park and Chugach National Forest, partly unsurveyed.

T. 3 S., R. 4 E.,

Sec. 1, lot 6, excepting corrected IC Nos. 2291 and 2292;

Secs. 4 and 5, secs. 8 thru 11, secs. 14 thru 17, and secs. 20 thru 23.

T. 3 S., R. 5 E.,

Lot 7, U.S. Survey No. 3550.

T. 4 S., R. 5 E.,

Sec. 23, lot 1, excepting IC Nos. 947 and 948;

Sec. 24, lot 1, excepting IC Nos. 947 and 948;

Lot 3, U.S. Survey No. 11699.

T. 22 S., R. 25 E.,

Secs. 1, 2, secs. 10 thru 17, and secs. 19 thru 36, unsurveyed.

T. 23 S., R. 25 E.,

Secs. 1 thru 18, secs. 20 thru 28, and secs. 33 thru 36, unsurveyed.

T. 24 S., R. 25 E.,

Secs. 1, 2, and 12, unsurveyed.

Fairbanks Meridian, Alaska

T. 18 S., R. 1 W., unsurveyed,

Secs. 33 thru 36.

T. 19 S., R. 1 W., unsurveyed,

Secs. 1 thru 4, and sec. 15;

T. 22 S., R. 1 W., unsurveyed,

Secs. 25 thru 27 and secs. 34 thru 36.

T. 17 S., R. 3 W., unsurveyed.

T. 18 S., R. 3 W., unsurveyed,

Sec. 13;

Sec. 19, NW¼NE¼, S½NE¼, S½NW¼, and S½;

Sec. 20, S½NE¼, NE¼NW¼, S½NW¼, and S½;

Sec. 21, S½;

Sec. 22, S½NE¼, SE¼NW¼, SW¼, and NW¼SE¼;

Sec. 26, SW¼SW¼;

Sec. 27, W½, NW¼SE¼, and S½SE¼;

Secs. 28 and 30;

Sec. 31, NE¼;

Sec. 32, NE¼, N½NW¼, N½SE¼, and SE¼SE¼;

Sec. 33, N½, SW¼SW¼, and NE¼SE¼;

Sec. 34, N½, N½SW¼, and N½SE¼.

T. 16 S., R. 4 W., unsurveyed.

T. 17 S., R. 4 W., unsurveyed,

Secs. 1 thru 12.

T. 18 S., R. 4 W., unsurveyed,

Sec. 6, NE¼NE¼.

Tps. 20 and 21 S., R. 4 W., unsurveyed.

T. 22 S., R. 4 W., unsurveyed,

Secs. 1 thru 18.

T. 17 S., R. 5 W.,

Secs. 33 and 36.

T. 18 S., R. 5 W.,

Secs. 7 thru 11;

Sec. 12, NW¼NE¼, S½NE¼, W½, and SE¼;

Secs. 13 thru 21 and secs. 28 thru 33.

T. 21 S., R. 5 W., unsurveyed.

T. 22 S., R. 5 W., unsurveyed,

Secs. 1 thru 18.

T. 15 S., R. 6 W.,

Secs. 4, 9, and 16.

T. 17 S., R. 6 W.,

Sec. 36, NW¼NE¼, S½NE¼, NW¼, and S½;

Tract B, those portions lying within Power Site Classification No. 403.

T. 21 S., R. 6 W., unsurveyed.

T. 22 S., R.6 W., unsurveyed,

Secs. 1 thru 18.

T. 16 S. R. 7 W.,

Lot 2, U.S. Survey No. 4398.

T. 17 S. R. 7 W.,

Lot 3, U.S. Survey No. 5595.

T. 18 S. R. 7 W.,

Secs. 18 and 19;

Lots 10A, 10C, and 11, U.S. Survey No. 3229.

T. 21 S., R. 7 W., unsurveyed.

T. 22 S., R. 7 W., unsurveyed,

Secs. 1 thru 18.

T. 18 S. R. 8 W.,

Sec. 2, lot 1;

Secs. 10 and 11, secs. 13 thru 17, and sec. 19;

Sec. 20, lots 2 thru 11;

Secs. 21 thru 24, and secs. 26, 27, and 28;

Sec. 29, lot 8;

Sec. 30, lots 1 thru 4, N½NW¼NE¼, NE¼NW¼, and N½SE¼NW¼;

Sec. 31, lots 1 thru 4;

Secs. 32, 33, and 34.

T. 19 S. R. 8 W.,

Secs. 19 thru 36.

T. 21 S., R. 8 W., unsurveyed.

T. 22 S., R. 8 W., unsurveyed,

Secs. 1 thru 18.

T. 20 S., R. 9 W.,

Secs. 22 thru 27 and secs. 34 thru 36, unsurveyed.

T. 21 S., R. 9 W., unsurveyed,

Secs. 1 and 2, secs. 11 thru 14, and secs. 23 thru 36.

T. 22 S., R. 9 W., unsurveyed,

Secs. 1 thru 18.

T. 20 S., R. 10 W.,

U.S. Survey No. 5583;

U.S. Survey No. 11155.

T. 15 S., R. 1 E., unsurveyed.

T. 16 S., R. 1 E, unsurveyed,

Secs. 1 thru 19, secs. 23 thru 26, and secs. 35 and 36.

T. 17 S., R. 1 E., unsurveyed,

Secs. 1 thru 3 and secs. 10 thru 36.

T. 18 S., R. 1 E., unsurveyed.

T. 19 S., R. 1 E., unsurveyed,

Secs. 1 thru 35;

Sec. 36, those portions lying within Power Site Classification 443.

T. 20 S., R. 1 E., unsurveyed,

Sec. 1, those portions lying within Power Site Classification 443.

Secs. 2 and 3;

Sec. 4, excepting that land within regional selection AA-11125 Parcel K;

Sec. 5, secs. 8 thru 16, and secs. 19 and 20;

Sec. 22;

Sec. 23, excepting those portions within regional selections AA-11127, AA-58729, AA-58730, and AA-58731;

Sec. 24, excepting U.S. Survey No. 14342 and those portions within regional selections AA-11127, AA-58728, AA-58732, AA-58733, AA-58734 and AA-58735;

Secs. 25 thru 32;

Sec. 33, excepting that land conveyed to the State of Alaska by quit claim deed on June 30, 1959;

Sec. 34, excepting U.S. Survey No. 4351 and that land conveyed to the State of Alaska by quit claim deed on June 30, 1959;

Secs. 35 and 36;

Lots 4 and 6, U.S. Survey No. 14342.

T. 21 S., R. 1 E., unsurveyed,

Sec. 2, those lands west of the left bank of the Susitna River;

Sec. 3, those lands west of the left bank of the Susitna River, excepting U.S. Survey No. 4314 and Tentative Approval No. 2009-0021;

Sec. 4;

Sec. 9, excepting U.S. Survey No. 4062, and lot 1, U.S. Survey No. 12140;

Sec. 10, those lands west of the left bank of the Susitna River, excepting U.S. Survey No. 4062, lots 1 and 3, U.S. Survey No. 4314, and Public Land Order No. 1536;

Sec. 13, excepting U.S. Survey No. 4274 and U.S. Survey No. 4339;

Sec. 14, excepting U.S. Survey No. 4274;

Secs. 15 thru 17, secs. 20 thru 24, and sec. 27;

Sec. 28, excepting regional selections AA-11125 Parcel I and AA-11127 Parcel H;

Secs. 29 thru 34.

T. 22 S., R. 1 E., unsurveyed,

Secs. 2, 3, 4, 9, 10, and 11, secs. 13 thru 16, secs. 22 thru 27, and sec. 36.

Tps. 15 thru 18 S., R. 2 E., unsurveyed.

T. 19 S., R. 2 E., unsurveyed,

Secs. 1 thru 27, secs. 29, 30, and 31, and secs. 34, 35, and 36.

T. 21 S., R. 2 E., unsurveyed,

Sec. 30, NE¼, N½NW¼, N½SW¼NW¼, N½SE¼NW¼, and SE¼;

Secs. 33, 34, and 35.

T. 22 S., R. 2 E., unsurveyed,

Sec. 1, W½;

Secs. 2, 3, and 4, and secs. 9 thru 29;

Sec. 30, excepting regional selections AA-11125 Parcel V and AA-11127 Parcel V;

Secs. 31 thru 36.

Tps. 15 thru 19 S., R. 3 E., unsurveyed.

T. 22 S., R. 3 E., unsurveyed,

Secs. 18, 19, 30, 31 and 32.

Tps. 15 thru 18 S., R. 4 E., unsurveyed.

T. 19 S., R. 4 E., unsurveyed,

Secs. 1 thru 11, secs. 15 thru 21, and secs. 29 and 30.

T. 21 S., R. 4 E., unsurveyed,

U.S. Survey No. 3690.

T. 22 S., R. 4 E., unsurveyed,

Sec. 1, excepting U.S. Survey No. 3690, U.S. Survey No. 4014, U.S. Survey No. 12159, and U.S. Survey No. 14132;

U.S. Survey No. 3690.

Tps. 15 and 16 S., R. 5 E., unsurveyed.

T. 17 S., R. 5 E., unsurveyed,

Secs. 1 thru 35.

T. 18 S., R. 5 E., unsurveyed,

Secs. 3 thru 9 and secs. 17 thru 19.

T. 16 S., R. 6 E., unsurveyed.

T. 17 S., R. 6 E., unsurveyed,

Secs. 1 thru 30.

T. 21 S., R. 6 E., unsurveyed,

Sec. 35.

T. 16 S., R. 7 E., unsurveyed.

T. 17 S., R. 7 E., unsurveyed,

Secs. 1 thru 31.

T. 21 S., R. 7 E., unsurveyed,

Sec. 13, that portion lying southerly of the centerline of the Denali Highway, excepting U.S. Survey No. 12147 and U.S. Survey No. 14511;

Secs. 21 and 22, that portion lying southerly and westerly of the centerline of the Denali Highway.

T. 22 S., R. 7 E., unsurveyed.

T. 16 S., R. 8 E., unsurveyed.

T. 17 S., R. 8 E., unsurveyed,

Secs. 1 thru 24 and sec. 30.

T. 22 S., R. 8 E.,

Tracts A, B, and C.

T. 21 S., R. 9 E.,

Sec. 35, SE¼SW¼ and SE¼, that portion lying southerly of the centerline of the Denali Highway;

T. 22 S., R 9 E.,

Tracts A and B.

T. 22 S., R. 10 E., unsurveyed,

Secs 1 thru 4;

Sec. 5 excepting U.S. Survey No. 4357;

Secs. 6 thru 19;

Sec. 20, excepting U.S. Survey No. 5312;

Secs. 21 thru 36;

Lots 2 and 3, U.S. Survey No. 4357.

T. 22 S., R. 12 E., unsurveyed,

Secs. 1, 2, 6, and 7, secs. 11 thru 14, and secs. 23 thru 27;

Sec. 33, excepting a portion described in a deed dated November 14, 1983 and recorded in the Chitina Recording District, in Book 18, pages 694 thru 697;

Secs. 34, 35, and 36.

T. 20 S., R. 15 E., unsurveyed,

M.S. No. 1077, M.S. No. 1079, and M.S. No. 1080.

Seward Meridian, Alaska

T. 32 N., R.1 E., unsurveyed,

Sec. 7, those portions excluded from the Interim Conveyance No. 1376 as mining claims AA-29404, AA-29407, AA-29408 and AA_29409;

Sec. 8, those portions excluded from the Interim Conveyance No. 1376 as mining claims AA-29440, AA-29441, AA-29442, AA-29497 and AA-29498;

Sec. 9, those portions excluded from the Interim Conveyance No. 1376 as mining claims AA-29440, AA-29488, AA-29497 and AA-29530;

Sec. 18, those portions excluded from the Interim Conveyance No. 1376 as mining claims AA-29409, AA-29414, AA-29428 and AA-29439.

T. 33 N., R. 1 E., unsurveyed,

Secs. 14 thru 23 and secs. 28 thru 33.

T. 29 N., R. 2 E., unsurveyed,

Secs. 34 and 35.

T. 32 N., R. 2 E., unsurveyed,

Secs. 1 thru 18 and secs. 23 thru 26.

T. 33 N., R. 2 E., unsurveyed,

Secs. 13, 14, and 15, secs. 22 thru 28, and secs. 32 thru 36.

T. 29 N., R. 3 E., unsurveyed,

Sec. 4.

T. 30 N., 3 E., unsurveyed,

Secs. 23 thru 27 and secs. 33 thru 36.

T. 32 N., R. 3 E., unsurveyed,

Secs. 4 thru 9 and secs. 16 thru 21.

T. 30 N., R. 4 E., unsurveyed,

Sec. 10, secs. 15 thru 22, and secs. 27 thru 34.

T. 29 N., R. 5 E., unsurveyed,

Secs. 7 thru 36.

T. 30 N., R. 5 E., unsurveyed,

Secs. 1 thru 4 and secs. 7 thru 24.

T. 29 N., R. 6 E., unsurveyed,

Secs. 5 thru 8.

T. 30 N., R. 6 E., unsurveyed,

Secs. 28 thru 33.

T. 32 N., R. 6 E., unsurveyed,

Secs. 15, 22, 23, 24, and 30, excepting those portions within Power Site Classification No. 443.

T. 29 N., R. 7 E., unsurveyed,

Secs. 3, 4, and 5, secs. 7 thru 10, secs. 15 thru 22, and secs. 27 thru 34.

T. 30 N., R. 7 E., unsurveyed,

Secs. 13 thru 29 and secs. 32 thru 36.

T. 31 N., R. 7 E., unsurveyed,

Secs. 1, 2, and 12, those portions lying north of the left bank of the Susitna River, excepting those portions within Power Site Classification No. 443.

T. 32 N., R. 7 E., unsurveyed,

Secs. 3, 4, 8, 9, 17, 18, 19, and 29, excepting those portions within Power Site Classification No. 443;

Secs. 32 thru 34, those portions lying north of the left bank of the Susitna River; excepting those portions within Power Site Classification No. 443.

T. 31 N., R. 8 E., unsurveyed,

Secs. 1, 2, and 3;

Secs. 7 thru 18 and secs. 21 and 22, excepting those portions within Power Site Classification No. 443.

T. 32 N., R. 8 E., unsurveyed,

Secs. 1 thru 18.

T. 33 N., R. 8 E., unsurveyed,

Secs. 13, 14, and 15, secs. 22 thru 27, and secs. 34, 35, and 36.

T. 30 N., R. 9 E., unsurveyed,

Secs. 1 and 12, excepting those portions within Power Site Classification No. 443;

Sec. 21, excepting U.S. Survey No. 5212;

Sec. 22.

T. 31 N., R. 9 E., unsurveyed,

Secs. 17 thru 23, excepting those portions within Power Site Classification No. 443;

Sec. 24;

Secs. 25 thru 28 and sec. 36, excepting those portions within Power Site Classification No. 443.

T. 32 N., R. 9 E., unsurveyed,

Secs. 1 thru 18.

T. 33 N., R. 9 E., unsurveyed.

T. 30 N., R. 10 E., unsurveyed,

Secs. 6 thru 17, excepting those portions within Power Site Classification No. 443.

T. 16 N., R. 11 E., unsurveyed,

Secs. 1 thru 7;

Secs. 8 thru 12 and secs. 15 thru 19, those portions lying outside the boundary of the Chugach National Forest.

T. 29 N., R. 11 E., unsurveyed,

Secs. 1 thru 7 and secs. 9, 10, and 16, excepting those portions within Power Site Classification No. 443.

T. 30 N., R. 11 E., unsurveyed,

Secs. 7, 8, 17, 18, 20, 21, 25, 26, 28, and 29, and secs. 32 thru 36, excepting those portions within Power Site Classification No. 443.

T. 33 N., R. 11 E., unsurveyed,

Secs. 17 and 20.

T. 16 N., R. 12 E., unsurveyed,

Sec. 1 thru 9, those portions lying outside the boundary of the Chugach National Forest.

T. 19 N., R. 12 E., unsurveyed,

Secs. 4 thru 9.

T. 20 N., R. 12 E.,

Tract A, those lands within secs. 28 thru 33, those portions excluded from the Tentative Approval No. 1980-0173, as regional application claim AA-16176.

T. 21 N., R. 12 E.,

Sec. 30, those lands within the Lake Leila portion of Public Land Order No. 1552.

T. 30 N., R. 12 E., unsurveyed,

Sec. 8, secs. 17 thru 24, and secs. 29 thru 32, excepting those portions within Power Site Classification No. 443.

T. 31 N., R. 12 E., unsurveyed,

Secs. 1 thru 4, secs. 9, 10, 11, 16, 21, and 28, excepting those portions within Power Site Classification No. 443.

T. 32 N., R. 12 E., unsurveyed,

Secs. 1 and 2, secs. 8 thru 11, secs. 13 thru 16, secs. 26, 33, 34, and 35, excepting those portions within Power Site Classification No. 443.

T. 33 N., R. 12 E., unsurveyed,

Secs. 17 and 18.

T. 29 N., R. 1 W., unsurveyed.

T. 30 N., R. 1 W., unsurveyed,

Secs. 19 thru 36.

T. 32 N., R. 1 W., unsurveyed,

Sec. 10, that portion excluded from the Interim Conveyance No. 1376 as headquarters site AA-00052;

Sec. 13, those portions excluded from Interim Conveyance No. 1376 as mining claims AA-29404, AA-29405, AA-29406, and AA-24910 through AA-29422;

Sec. 24, those portions excluded from Interim Conveyance No. 1376, as mining claims AA-29422 through AA-29427.

T. 33 N., R. 1 W., unsurveyed,

Secs. 13 thru 32, and secs. 35 and 36.

T. 30 N., R. 2 W., unsurveyed,

Secs. 4 thru 9.

The areas described aggregate approximately 2,082,479 acres.

The areas described aggregate a total of approximately 27,134,446 acres.

2. At 8 a.m. AKST on September 14, 2022, the lands described in Paragraph 1 shall be open to allotment selection under the Allotment Program, subject to valid existing rights. All valid allotment applications received at or prior to 8 a.m. AKST on September 14, 2022, shall be considered as simultaneously filed at that time. Those received thereafter shall be considered in accordance with 43 CFR. 2569.502.

3. No lands are opened by this order for any purpose other than allotment selection under the Allotment Program.

4. No lands are opened by this order that are within 500 feet of the Iditarod National Historic Trail, or within ¼ mile of cultural resource sites, including lands applied for by regional corporations pursuant to ANCSA section 14(h)(1) and known cultural resources sites identified in the Allotment Program EA. The exact locations of these sites are withheld in order to limit the risk of harm to the cultural resource or site where the resource is located. If an applicant is interested in a particular location, they should contact the BLM in order to ensure that their application does not overlap with areas excluded from this PLO as a result of known cultural resource sites or the Iditarod National Historic trail.

Deb Haaland,
Secretary of the Interior.

[FR Doc. 2022-17486 Filed 8-12-22; 8:45 am]

BILLING CODE 4310-JA-P